DEPARTMENT OF THE INTERIOR

Bureau of Land Management

43 CFR Parts 2800, 2880, and 2920

RIN 1004-AD87

[WO-350-07-1430-PN]

Update of Linear Right-of-Way Rent Schedule

AGENCY: Bureau of Land Management, Interior.

ACTION: Proposed Rule.

SUMMARY: The Bureau of Land Management (BLM) proposes to amend its right-of-way regulations to update the linear right-of-way rent schedule in 43 CFR parts 2800 and 2880. The rent schedule covers most linear rights-of-way granted under Title V of the Federal Land Policy and Management Act of 1976, as amended (FLPMA), and Section 28 of the Mineral Leasing Act of 1920, as amended (MLA). Those laws require the holder of a right-of-way grant to pay annually, in advance, the fair market value to occupy, use, or traverse public lands for facilities such as power lines, fiber optic lines, pipelines, roads, and ditches.

Section 367 of the Energy Policy Act of 2005 (the Act) directs the Secretary of the Interior to update the per acre rent schedule found in 43 CFR 2806.20. The Act requires that the BLM revise the per acre rental fee zone value schedule by state, county, and type of linear right-of-way use to reflect current land values in each zone. The Act also requires the Secretary of Agriculture (Forest Service) to make the same revisions for rights-of-way on National Forest System (NFS) lands.

DATES: We will accept comments and suggestions on the proposed rule until February 11, 2008.

ADDRESSES: You may submit comments by any of the following methods listed below.

Mail: U.S. Department of the Interior, Director (630), Bureau of Land Management, Mail Stop 401 LS, 1849 C St., NW., Attention: AD87, Washington, DC 20240.

Personal or messenger delivery: 1620 L Street, NW., Room 401, Washington, DC 20036.

Federal eRulemaking Portal: http://www.regulations.gov for proposed rules. Follow the instructions on this Web site.

FOR FURTHER INFORMATION CONTACT: For information on the substance of the proposed rule, please contact Bil Weigand at (208) 373-3862 or Rick Stamm at (202) 452-5185. For information on procedural matters, please contact Ian Senio at (202) 452-5049. Persons who use a telecommunications device for the deaf (TDD) may call the Federal Information Relay Service (FIRS) at 1-800-877-8339 to contact the above individuals during business hours. FIRS is available twenty-four hours a day, seven days a week, to leave a message or question with the above individuals. You will receive a reply during normal business hours.

SUPPLEMENTARY INFORMATION:

I. Public Comment Procedures

II. Background

III. Discussion of Proposed Rule

IV. Procedural Matters

I. Public Comment Procedures

Electronic Access and Filing Address

You may view an electronic version of this proposed rule at the BLM's Internet home page at www.blm.gov. You may also comment via the Internet to: http://www.regulations.gov (Include “Attn: AD87”). If you submit your comments electronically, please include your name and return address in your Internet message. If you do not receive a confirmation from the system that we have received your Internet message, contact us directly at (202) 452-5030.

Written Comments

Confine written comments on the proposed rule to issues pertinent to the proposed rule and explain the reasons for any recommended changes. Where possible, reference the specific section or paragraph of the proposal which you are addressing. The BLM need not consider or include comments in the Administrative Record for the final rule, which it receives after the comment period closes (see DATES), or comments delivered to an address other than those listed above (see ADDRESSES).

Before including your address, phone number, e-mail address, or other personal identifying information in your comment, you should be aware that your entire comment, including your personal identifying information, may be made publicly available at any time. While you can ask us in your comment to withhold your personal identifying information from public review, we cannot guarantee that we will be able to do so.

Written comments, including the names, street addresses, and other contact information about respondents, will be available for public review at the above address during regular business hours (7:45 a.m. to 4:15 p.m.), Monday through Friday, except holidays.

Reviewing Comments Submitted by Others

Comments, including names and street addresses of respondents, and other contact information will be available for public review at the address listed under “ADDRESSES: Personal or messenger delivery” during regular hours (7:45 a.m. to 4:15 p.m.), Monday through Friday, except holidays.

Interagency Coordination

The United States Department of Agriculture, Forest Service (FS), will adopt without rulemaking the revisions to the linear right-of-way rent schedule promulgated by BLM through this rulemaking. The rent for a linear right-of-way across NFS lands must be determined in accordance with BLM regulations at 43 CFR 2806.20, as updated through this rulemaking. None of the other sections in 43 CFR subpart 2806 apply to the FS's right-of-way program, and any revisions made to that subpart through this rulemaking do not apply to the FS's right-of-way program.

II. Background

Statutory: Section 367 of the Act, entitled “Fair Market Value Determinations for Linear Rights-of-Way Across Public Lands and National Forests,” directs the Secretary of the Interior to: (1) Update 43 CFR 2806.20, which contains the per acre rent schedule for linear rights-of-way; and (2) Revise the per acre rental fee zone value schedule by state, county, and type of linear right-of-way uses to reflect current values of land in each zone. The Act also directs the Secretary of Agriculture to adopt the revisions to the linear right-of-way rent schedule.

Advance Notice of Proposed Rulemaking: The BLM published an advance notice of proposed rulemaking (ANPR) in the Federal Register on April 27, 2006 (see 71 FR 24836). The comment period for the ANPR ended on May 30, 2006. The purpose of the ANPR was to encourage members of the public to provide comments and suggestions to help with updating the BLM's and the FS's rent schedule, as described in the Act. The BLM received ten responses to the ANPR, including comments on six specific questions posed there. The BLM has utilized the comments received from the ANPR extensively in the development of the proposed rule (see discussion of the proposed rule in Section III. below).

Current Linear Rent Schedule: On July 8, 1987, and September 30, 1987, the BLM published regulations establishing rent schedules for linear rights-of-way granted under Section 28 of the MLA and Title V of FLPMA (52 FR 25818 and 52 FR 36576). The FS uses these same schedules to charge rent for rights-of-way across NFS lands. Therefore, updates to these schedules would also impact the FS and users of NFS lands.

The 1987 rent schedule was developed to set fair market rent, while minimizing the need for individual real estate appraisals for each right-of-way requiring rent payments, as well as to avoid the costs, delays, and unpredictability of the appraisal process in reasonably setting fair market rent.

The 1987 rent schedule defines eight fee zones based on the distribution of average land values by county in Puerto Rico and in each of the states, except Alaska and Hawaii. (The existing rent schedule does not apply to Alaska and Hawaii; the proposed schedule would. Linear right-of-way rental fees in Alaska are currently determined on a case-by-case basis based on local market values. There are no linear rights-of-way in Hawaii currently administered by either the BLM or the FS). Under the 1987 regulations, a county is assigned to one of the eight zone values, based on land values in the county: lower-value counties are assigned lower-numbered zones. The eight zone values are set at $50, $100, $200, $300, $400, $500, $600, and $1,000 per acre. A county's zone value is translated into a per acre zone rent by use of the adjustment formula described below. To calculate the annual right-of-way rental payment, the zone rent is multiplied by the total acreage within the right-of-way. The formula for zone rent is:

Zone rent = (zone value) × (impact adjustment) × (Treasury Security Rate)

The zone value term in the formula is the land value that is established for each of the eight zones. The zone values established in 1987 have not been updated since that time; however, it is generally recognized that land values have increased in most areas over the past 20 years.

The impact adjustment term (or encumbrance factor) in the formula reflects the differences in land-use impacts between: (1) Oil, gas, and other energy-related pipelines, roads, ditches, and canals; and (2) Electrical transmission and distribution lines, telephone lines, and non-energy related pipelines. Energy-related pipelines and roads are considered as having a greater surface disturbance impact on the land, and are adjusted to 80 percent of the zone value. Electrical transmission and distribution lines, phone lines, and non-energy related pipelines with a smaller area of disturbance, are adjusted to 70 percent of the zone value.

The Treasury Security term in the formula reflects a reasonable rate of return to the United States for the use of the land within the right-of-way. The 1987 regulations are based on a rate of return of 6.41 percent for a 1-year Treasury Security.

The zone rent is adjusted annually by the change in the Gross Domestic Product, Implicit Price Deflator index.

BLM Right-of-Way Program and Revenues

The BLM administers 94,500 rights-of-way, of which 65,000 are authorized under the FLPMA and 29,500 are authorized under the MLA. However, only 48,000 are subject to a rental payment. Wyoming and New Mexico together account for slightly more than 30,000 of the rights-of-way subject to rent. The BLM collected over $18 million in right-of-way rental receipts for fiscal year 2006. This total includes receipts from both linear and site-type rights-of-way, and includes any reversals and/or transfers which may have occurred during the fiscal year. Seventy-eight percent of all right-of-way rent receipts were collected by five BLM State Offices. These five State Offices and the revenues collected are listed in Table 1.

Table 1.—Right-of-Way Rental Receipts for “Top Five” BLM State Offices
State office | Total rental receipts (FY 2006)
Nevada | $3,955,955
California | 3,255,602
Wyoming | 2,987,481
New Mexico | 2,569,861
Arizona | 1,391,588
Total | 14,160,487

Rent receipts from communication uses, which have their own rent schedule, totaled nearly $5 million, while receipts from other site-type rights-of-way, which normally require an appraisal to determine rent, and/or initial ad hoc billings, totaled approximately $7 million.

The BLM collected $6.3 million total rent for 10,859 linear rights-of-ways, but only $5.4 million was determined using the current Per Acre Rent Schedule in fiscal year 2006. Of this amount, only 94 bills (for $12,600) were for rent payment periods less than 1 year, while 4,534 bills (for $4,340,000) were issued for annual rental payment periods. The annual rental bills included 81 bills that were issued for approximately $920,000 for linear rights-of-way located in high value areas. The rent for these bills was generated using a similar methodology as the linear rent schedule, but utilizing higher land values supported by appraisal data (used to develop “unique zones” with annual per acre rent values ranging from $280 to $6,000). The average annual rent bill, including the 81 bills using the “unique zone” values, equaled $957. Another 4,600 bills were issued for $569,750, covering a 5-year rent payment period. The average 5-year bill totaled $124, or less than $25 on an annual basis. A total of $1,210,300 was billed for rent payment periods between 6 and 30 years.

To summarize, in fiscal year 2006 the BLM collected a total of $18 million in right-of-way rent receipts, but of that only $5.4 million was calculated using the current Per Acre Rent Schedule. Another $900,000 was calculated using similar methodology as the Per Acre Rent Schedule, but utilized higher land values (unique zones) supported by appraisal data. In addition, over half of all bills generated for linear right-of-way grants in fiscal year 2006 were for multi-year periods of 5 years or more.

Under the current policy for implementing the 2005 right-of-way regulations (see 70 FR 20969) (hereafter referred to as the 2005 regulations), holders have the option, until January 2009, to pay rent annually, for 5 years, 10 years, or for the term of the grant. The BLM established this policy (see Washington Office Information Bulletin 2006-006) to provide holders a transition period from annual and 5-year billing periods (under the 1987 regulations) to a minimum 10-year billing period under the 2005 regulations. Because the BLM can bill for multi-year periods, except for communication uses, only about 20 to 25 percent of the total grants subject to rent are billed in any given year. The average annual rental bill in 2006, for 4,450 bills issued for linear grants subject to the linear rent schedule, was approximately $773. However, the average rental amount for 4,600 bills that were for a 5-year period was only $124, or less than $25 per year. In comparison, the average annual bill for the 81 authorizations determined by “unique zone” land values was $11,400.

III. Discussion of Proposed Rule

Part 2800 Rights-of-Way Under FLPMA

The BLM is proposing to amend the Per Acre Rent Schedule in its right-of-way regulations at 43 CFR parts 2800 and 2880. The rent schedule covers most linear rights-of-way granted under Title V of FLPMA and Section 28 of the MLA. These laws require the holder of a right-of-way grant to pay annually, in advance, the fair market value to occupy, use, or traverse public lands for facilities such as power lines, fiber optic lines, pipelines, roads, and ditches.

As mentioned above, the Act directs the Secretary of the Interior to update the per acre rent schedule in the BLM's existing regulations at 43 CFR 2806.20. The Act specifically requires that the BLM revise the per acre rental fee zone value schedule by state, county, and type of linear right-of-way use to reflect current land values in each zone. The Per Acre Rent Schedule applies to linear rights-of-way the BLM issues under 43 CFR parts 2800 and 2880. All of these changes are a direct requirement of the statute. So as not to be redundant, we discuss the components and application of the rent schedule primarily in part 2800 and will not repeat those discussions in part 2880. However, we will note any differences in part 2880 that are necessary based upon specific statutory provisions of the MLA.

In addition to revising the Per Acre Rent Schedule, the proposed rule would make minor revisions to parts 2800 and 2880 to bring the existing regulations into compliance with the statutory rent schedule changes discussed above. Finally, there are a number of minor corrections and changes in the proposed rule that are not directly related to the rent schedule.

These proposed changes are limited in scope and address trespass and the new rental payments, land status changes, annual rental payments, phased-in rental increases, and reimbursements of monitoring costs and processing fees. These latter items would correct some existing errors in the current regulations and clarify others. This proposed rule would:

(1) Make clear that the rent exemptions listed in section 2806.14 do not apply if the applicant/holder is in trespass;

(2) Provide that only the Per Acre Rent Schedule will be used to determine rent for linear right-of-way grants, unless the land encumbered by the grant is to be transferred out of Federal ownership;

(3) Provide for an annual rent payment term when the annual rent for non-individuals is $1,000 or more;

(4) Provide for a one-time rent payment for grants and easements when the land encumbered by the grant or easement is to be transferred out of Federal ownership;

(5) Provide for a limited one-time, 2-year phrase-in period for holders of MLA authorizations if they pay rent annually and the payment of the new rental amount would cause the holder undue hardship;

(6) Revise section 2920.6 to require reimbursement of processing and monitoring costs under sections 2804.14 and 2805.16 for applications for leases and permits issued under Title II of FLPMA;

(7) Amend section 2920.8(b) to assess a non-refundable processing fee and monitoring fee under sections 2804.14 and 2805.16 for each request for renewal, transfer, or assignment of a lease or easement;

(8) Amend sections 2805.11(b)(2) and 2885.11(a) so that all grants, except those issued for a term of 3 years or less and those issued in perpetuity under FLPMA, terminate on December 31 of the final year of the grant; and

(9) Amend sections 2805.14(f) and 2885.12(e) to make it clear that you may assign your grant, without the BLM's prior written approval, if your authorization so provides.

Subpart 2805—Terms and Conditions of Grants

The BLM is proposing two minor revisions to two sections in subpart 2805, which addresses the terms and conditions of FLPMA right-of-way authorizations.

Section 2805.11 What does a grant contain?

Current section 2805.11(b)(2) states that all grants, except those issued for a term of less than 1 year and those issued in perpetuity, expire on December 31 of the final year of the grant. The BLM uses the calendar year, not the fiscal year or the anniversary date, as the rental period for grants. Terminating grants on December 31 allows for consistency and ease of administration, because after the initial billing period only full calendar years are included in subsequent billing periods. However, the BLM often issues short-term right-of-way grants for 3 years or less to allow the holder to conduct temporary activities on public land. Current section 2806.23(b) and proposed section 2806.25(c) both explain that the BLM considers the first partial calendar year in the rent payment period to be the first year of the rental term. Therefore, a 3-year grant actually has a term period of 2 years plus the time period remaining in the calendar year of issuance. A 2-year grant has a term period of 1 year plus the time period remaining in the calendar year of issuance. Depending on when the grant is issued, the actual term could be just over 2 years for a 3-year grant and could be just over 1year for a 2-year grant. Under the proposed rule, all grants, except those issued for a term of 3 years or less and those issued in perpetuity, would terminate on December 31 of the final year of the grant. The proposed changes to this section would allow the holder to use short-term grants for the full period of the grant. For example, if a 3-year grant were issued under the proposed rule on October 1, 2008, it would terminate on September 30, 2011, instead of December 31, 2010, under the current rule. If a 2-year grant were issued under the proposed rule on October 1, 2008, it would terminate on September 30, 2010, instead of December 31, 2009, under the current rule. In most cases, the BLM would assess a one-time rental bill for the term of the grant which would lessen any administrative impact which might otherwise result from this revision.

Section 2805.14 What rights does a grant convey?

Current section 2805.14(f) states that you have a right to assign your grant to another, provided that you obtain the BLM's prior written approval. The BLM is proposing to add the phrase “unless your grant specifically states that such approval is unnecessary” at the end of this sentence to indicate that BLM's prior written approval may be unnecessary in certain cases. In most cases, assignments would continue to be subject to the BLM's written approval. However, with the proposed change, the BLM could amend existing grants to allow future assignments without the BLM's prior written approval. This may be especially important to the future administration of a grant when the land encumbered by a grant is being transferred out of Federal ownership, and there is a request to convert an existing grant to an easement or a perpetual grant under section 2807.15(c).

Subpart 2806—Rents

Sections 2806.10 through 2806.16 of subpart 2806 contain general rent provisions that apply to grants. No changes are proposed to these general provisions except to section 2806.14.

Section 2806.14 Under what circumstances am I exempt from paying rent?

Current section 2806.14 identifies those circumstances where a holder or facility is exempt from paying rent. None of the current circumstances change under the proposed rule. We have, however, added a provision (proposed section 2806.14(b)) that states that the exemptions in this section do not apply if you are in trespass. The addition of this provision makes it clear that the penalties specified in subpart 2808—Trespass, which includes the assessment of rent for use of the public land, and possible additional penalties which are based upon the rent value, apply to all entities in trespass, even those entities that may otherwise be exempt from paying rent under section 2806.14. This is consistent with how trespass penalties are assessed under current policy, and provides for consistency with similar provisions in subpart 2888—Trespass. Section 2888.10(c) states that the BLM will administer trespass actions for MLA grants and temporary use permits (TUPs) as set forth in section 2808.10(c) and section 2808.11, except that the rental exemption provisions of part 2800 do not apply to grants issued under part 2880. Adding a new provision at section 2806.14(b) makes it clear that the rental exemption provisions do not apply to trespass situations covered under subpart 2808, as they likewise do not apply to trespass situations covered under subpart 2888. The proposed rule would remove the phrase “except that the rental exemption provisions of part 2800 (section 2806.14) do not apply to grants issued under this part” from section 2888.10(c), because the cross reference is no longer necessary (see preamble discussion for proposed section 2888.10(c)).

Section 2806.20 What is the rent for a linear right-of-way grant?

This section explains that the BLM will use the Per Acre Rent Schedule, except as described in section 2806.26, to calculate rent for linear right-of-way grants. The per acre rent from the schedule (for all types of linear right-of-way facilities regardless of the granting authority, e.g., FLPMA, MLA, and their predecessors) is the product of three factors: The per acre zone value multiplied by the encumbrance factor multiplied by the rate of return. The following discussion explains how the BLM adjusted these factors in the current Per Acre Rent Schedule to arrive at the Per Acre Rent Schedule in the proposed rule, including the determination of per acre land values by county, as directed by the Act.

Use of a Schedule

Section 367 of the Act directs the Secretary of the Interior to “revise the per acre rental fee zone value schedule by State, county, and type of linear right-of-way use to reflect current values of land in each zone.” Therefore, the proposed rule retains the use of a schedule and no alternative rental fee options are considered.

County Land Values—Use of Published Data

In the 1987 rent schedule, the average per acre land value for each county was based upon a review of the typical per acre value for the types of lands that the BLM and the FS had allocated to various utility and right-of-way facilities. These values were mapped, reviewed, and adjusted, resulting in the placement of each county (except Coconino County, Arizona, which was split by the Colorado River) in one of eight zones ranging in value from $50 to $1,000 per acre.

In the ANPR, the BLM requested comments regarding what available published information, statistical data, or reports the BLM should use to update the current linear right-of-way rental fee zone values. The BLM stated in the ANPR that it was considering using existing published information or statistical data for updating the rent schedule, such as information published by the National Agricultural Statistics Service (NASS). The NASS publishes two reports:

(1) The Census of Agriculture published every 5 years (NASS Census); and

(2) The annual Land Values and Cash Rents Summary (Annual Report).

The NASS Census includes average per acre land and building values by county, or other geographical areas, for each state. The land values are reported for cropland, woodland, permanent pasture, and rangeland and include non-commercial, non-residential buildings. The NASS data in the Annual Report includes average per acre values for cropland, pastureland, and farm real estate, but only on a statewide basis, and not on a countywide basis. Another shortcoming of the Annual Report is the absence of any data for Alaska, Hawaii, and Puerto Rico. You can find more detailed information about these two reports at the NASS Web site at: http://www.nass.usda.gov/index.asp.

The BLM received four comments in response to our request in the ANPR for comment on the use of available published information. One commenter said that the NASS data is appropriate. Two commenters recommended using the NASS Census of Agriculture (5-year census) for county-level data. One commenter stated that the NASS data seems appropriate for updating the schedule, so long as agricultural uses are not reflected in the land values used.

The BLM agrees with the commenters that support the use of the NASS Census data to determine the average per acre value for each county. The proposed rule uses the NASS data. The NASS publishes average per acre land and building values, by state and county, each 5 year period in its NASS Census report. The most recent county values are from the 2002 NASS Census, which was published in June 2004. The next NASS Census report will provide 2007 data, and it is due to be published in June 2009.

Other Federal and state agencies regularly use the NASS Census data when it is necessary to obtain average per acre land value for a particular state or county. In addition, Congress specifically endorsed the use of this data for rental determination purposes when it passed the “National Forest Organizational Camp Fee Improvement Act of 2003” (Pub. L. 108-7) (16 U.S.C. 6232). This law established a formula for determining rent for organizational camps located on NFS lands by applying a 5 percent rate of return to the average per acre land and building value, by state and county, as reported in the most recent NASS Census. That law also provides for a process to update the per acre land values annually based on the change in per acre land value, by county, from one census period to another. The law does not mandate the use of zones or a schedule, which eliminates the need for an annual index adjustment to keep the schedule or zones current. However, the range between the high and low county values which results from using the components mandated under Public Law 108-7, including the use of a 100 percent encumbrance factor, is significantly greater than the range between the high and low zone values which result from using the components established under this proposed rule. Thus, there is potential for significantly higher per acre rental amounts when using only the county land per acre value approach as compared to the per acre rental amounts generated using the zone value approach proposed in this rule.

The BLM also requested in the ANPR comments regarding whether the proposed Per Acre Rent Schedule should split some states and counties into more than one zone and whether the schedule should apply to Alaska. The BLM received three comments regarding whether some counties should be split into more than one zone. One commenter said that any consideration of splitting states or counties into more than one zone should involve discussions with stakeholders. One commenter said that zones smaller than a single county may lead to undue administrative burden for the BLM (establishing boundaries and collecting data). For very high-valued lands, rent could be based on 25 percent of the assessed value, according to one commenter. Alternatively, high-valued BLM lands could be sold or exchanged. One commenter said that wide variations in land values within a state or county may require applying the zone methodology at the sub-state or sub-county level. Regarding whether the Per Acre Rent Schedule should apply to Alaska, one commenter stated that the new linear right-of-way rent schedule should apply to public and NFS lands in Alaska if similar published data for land values is available for Alaska as for the lower 48 states and the data produces a reasonable per acre rental value.

In this proposed rule, the BLM does not split any county into more than one zone because there is no published data, easily obtainable, that would support making such a split. However, we do propose that the schedule apply to Alaska since the NASS Census does include average per acre land and building values for five Alaska areas: Fairbanks; Anchorage; Kenai Peninsula; Aleutian Islands; and Juneau. This data does produce a reasonable per acre rental value and is comparable to the per acre rent values from contracted appraisals and/or local rent schedules now in effect in some BLM and FS offices. The NASS Census data does not define the actual boundaries for the five areas, and therefore we specifically ask for comments to assist the BLM and the FS in determining and identifying the on-the-ground area to be included in each of the five Alaska areas in the NASS Census. For example, the NASS Census average per acre land value for the Fairbanks “area” could be used for all public lands administered by the BLM Fairbanks District Office; and the NASS Census average per acre land value for the Anchorage “area” could apply to all public lands administered by the BLM Anchorage District Office, and so forth. Another approach, which the BLM and the FS prefer, would be to identify specific geographic or management areas and apply the most appropriate per acre land value from the five Alaska NASS Census areas to the BLM/FS identified geographic or management areas based on similar landscapes and/or similar average per acre land values. Under this approach, the FS plans to use the NASS census data for the Kenai Peninsula for all NFS lands in Alaska, except for NFS lands located in the Anchorage and Juneau areas. For NFS lands located in the Municipality of Anchorage, the NASS census data for the Anchorage area would apply. For NFS lands in the downtown Juneau area (Juneau voting precincts 1, 2, and 3), the NASS census data for the Juneau area would apply.

Puerto Rico, which has no public lands administered by the BLM, is not divided into counties. However, the NASS publishes average farmland values for the entire Commonwealth of Puerto Rico. The FS plans to use the NASS average farmland values ($5,866 per acre in 2002) for linear right-of-way authorizations located on NFS lands in Puerto Rico.

Per Acre Zone Values

The 1987 linear rent schedule contains eight separate zones representing average per acre land value from $50 per acre to $1,000 per acre. The schedule contains two zones with a $50 range, five zones with a $100 range, and one zone with a $400 range. All the counties in the 48 contiguous states, except one and Puerto Rico, are in one of the eight zones based on their estimated average per acre land value. The lone exception, as mentioned above, is Coconino County, Arizona, where the area north of the Colorado River is in one zone, and the area south of the river is in a different zone.

In the ANPR, the BLM requested comments regarding the appropriate number of rental zones for the revised rent schedule, and received three comments. One commenter said that the number of zones (8) in the current schedule is sufficient. Two commenters said that the number of zones should not be changed, unless the NASS Census data indicates the need for a change.

In the proposed rule, the number of zones has been increased from the current 8 to 12, in order to accommodate the range of 3,080 county land values contained in the NASS Census. For the same reason, it was necessary to increase the dollar value per zone. In the 2002 NASS Census, the county land and building per acre value ranged from a low of $75 to a high of $98,954. To accommodate such a wide range in average per acre land values, the BLM proposes two zones with $250 increments, three zones with $500 increments, one zone with a $1,000 increment, one zone with a $2,000 increment, one zone with a $5,000 increment, two zones with $10,000 increments, one zone with a $20,000 increment, and one zone with a $50,000 increment (see Table 2—Zone Thresholds).

Table 2.—Zone Thresholds
Zone | 2002 County land and building value
Zone 1 | $1 to $250.
Zone 2 | $251 to $500.
Zone 3 | $501 to $1,000.
Zone 4 | $1,001 to $1,500.
Zone 5 | $1,501 to $2,000.
Zone 6 | $2,001 to $3,000.
Zone 7 | $3,001 to $5,000.
Zone 8 | $5,001 to $10,000.
Zone 9 | $10,001 to $20,000.
Zone 10 | $20,001 to $30,000.
Zone 11 | $30,001 to $50,000.
Zone 12 | $50,001 to $100,000.

The proposed zones accommodate the per acre land and building values of 100 percent of the total number of counties in the 2002 NASS Census (see Table 3). As land values increase or decrease, it may be necessary to adjust either the number of zones and/or the dollar value per zone. The proposed rule would allow adjustments to the number of zones and/or the dollar value per zone after every other NASS Census is published (once each ten-year period). The adjustments must accommodate 100 percent of the county per acre land and building values reflected in the 5-Year Census. The BLM, specifically asks for comments on whether 100 percent of the counties should be covered by the per acre rent schedule. Only 14 of the 3,080 counties have per acre land values in excess of $30,000. If Zones 11 and 12 were deleted from the per acre rent schedule, the 14 counties with per acre land values in excess of $30,000 would be included in Zone 10 for purposes of calculating rent for any rights-of-way located in these counties. The use of zones in this manner would then serve as a rental “cap” for any rights-of-way located in a county with per acre land values statistically outside of the norm. However, it would also significantly limit the dollar amount of the one-time payment for perpetual right-of-way grants under proposed sections 2806.25(c) and 2885.22(b), and may not achieve the objectives of the Act to “revise the per acre rental fee zone value schedule by state, county, and type of linear right-of-way uses to reflect current value of land in each zone.”

The 2002 NASS Census per acre land and building value for each county (or similar area) and the corresponding zone number in the Per Acre Rent Schedule are listed for informational purposes at the end of this proposed rule. Most of the areas subject to the proposed Per Acre Rent Schedule are called “counties.” Exceptions include Alaska “areas,” the “Commonwealth” of Puerto Rico, and Louisiana “parishes.” To make the terminology uniform in this proposed rule, all such areas are referred to as counties.

Encumbrance Factor

The BLM is proposing an encumbrance factor (EF) of 50 percent for all types of linear right-of-way facilities. This is a change from the current rule where the EF for roads and energy related pipelines and other facilities is 80 percent and the EF for telephone and electrical transmission facilities is 70 percent. This change is the result of public comments on the ANPR, a review of industry practices in the private sector, and a review of the Department of the Interior (DOI) appraisal methodology for right-of-way facilities located on Federal lands.

The EF is a measure of the degree that a particular type of facility encumbers the right-of-way area and/or excludes other types of land uses. If the EF is 100 percent, the right-of-way facility (and its operation) is encumbering the right-of-way area to the exclusion of all other uses. The land use rent for such a facility would be calculated on the full value of the subject land (annual rent = full value of land × rate of return). If the EF is 40 percent, the right-of-way facility (and its operation) is only partially encumbering the right-of-way area so that other uses could theoretically co-exist alongside the right-of-way facility. The land use rent for such a facility would be calculated on only 40 percent of the full value of the subject land (annual rent = full value of land × 40 percent × by rate of return).

Two comments received on this topic suggested that an EF could be as low as 10-15 percent if the right-of-way facility is located on undevelopable terrain; a 25 percent EF be used for a transmission line that does not impact development of land (“set-back areas”); a 50 percent EF be used if development is restricted, but not prohibited, or if other land uses are still possible; and a 70 percent EF be used if development or other uses are severely restricted. Another commenter stated that the EF should be lowered to 25-50 percent for power lines because in the private sector, an electrical utility typically makes a one-time payment of 50 percent fair market land value for a perpetual easement, allowing other use(s) within the corridor as long as the use(s) do not interfere with the power line. The commenter also stated that most of the uses that the BLM authorizes can also be conducted within a power line corridor without interfering with the power line and without restricting the additional use. One commenter encouraged BLM to use a lower EF than 70 percent, based on common real estate practice relating to utility easements. The commenter stated that when utilities negotiate the purchase price for easements on private land, they typically apply a factor of 50 percent or less to the fee simple value of the land involved, to reflect that the utility easement is less than fee ownership and has a reduced impact. This commenter further stated that the BLM should use a 50 percent or lower encumbrance (Impact Adjustment) factor and should allow a right-of-way applicant to demonstrate that an even lower impact factor should apply.

The BLM reviewed several appraisal reports (prepared by the DOI's Appraisal Services Directorate) for right-of-way facilities located on Federal lands which showed an EF ranging from 25 percent (for buried telephone lines) to 100 percent (for major oil pipelines and electrical transmission lines). The BLM also reviewed one appraisal report that was prepared by a contractor for the BLM. The contractor did an independent solicitation of industry practices regarding this factor and again found anecdotal evidence that EFs vary from 25 percent to 100 percent, with 50 to 75 percent being the most common. One holder provided anecdotal evidence that its company typically used a 40 percent EF for buried facilities and a 60 percent EF for above ground facilities when negotiating land use rental terms for its facilities across private lands. One holder contracted with a private appraisal firm to determine an appropriate EF for a major pipeline and found that a 75 percent EF is fairly typical for major projects. Finally, our review showed that many state and Federal agencies have established an EF by statute or by policy, usually in the 70 percent to 100 percent range.

The BLM recognizes that the EF is closely related to the type of right-of-way facility authorized, as well as how it is operated and administered. However, to assign a specific EF for each type of facility, or type of terrain, would be counter-productive to the purpose of using a schedule in the first place, i.e., for administrative simplicity and the cost savings that a schedule provides to both the BLM and the applicant/holder in determining rent for right-of-way facilities on public lands. In determining an appropriate EF, consideration should be given to the fact that the BLM grants rights-of-way for a specified term, usually 20 to 30 years. The rights granted are subject to provisions for renewal, relinquishment, abandonment, termination, or modification during the term of the grant. The EF should also recognize that the grants issued for right-of-way facilities are non-exclusive, i.e., the BLM reserves the right to authorize other uses within a right-of-way area, as long as the uses are compatible. Given these considerations, and the research and analysis cited above, along with consideration of public comments, the BLM has determined that a 50 percent EF (in both the current and proposed per acre linear rent schedule, the EF is and would be applied to the upper limit of each zone value) is a reasonable and appropriate component for use in the rent formula for linear right-of-way facilities located on public lands. The BLM welcomes any additional comments regarding the proposed use of a 50 percent EF, especially since this is a significant reduction from the 80 percent and 70 percent EFs used in the current per acre rent schedule.

Rate of Return

The rate of return component used in the Per Acre Rent Schedule reflects the relationship of income to property value, as modified by any adjustments to property value, such as the EF discussed above. The BLM reviewed a number of appraisal reports that indicated that the rate of return for the land can vary from 7 to 12 percent, and is typically around 10 percent. These rates take into account certain risk considerations, i.e., the possibility of not receiving or losing future income benefits, and do not normally include an allowance for inflation. However, a holder seeking a right-of-way from the BLM must show that it is financially able to construct and operate the facility. In addition, the BLM can require surety or performance bonds from the holder to ensure compliance with the terms and conditions of the authorization, including any rental obligations. This reduces the risk and should allow the BLM to utilize a “safe rate,” e.g., the prevailing rate on insured savings accounts or guaranteed government securities that include an allowance for inflation.

The rate of return for the current rent schedule is 6.41 percent, which was the 1-year Treasury Securities “Constant Maturity” rate for June 30, 1986. Two commenters stated that this rate of return is an acceptable rate of return for right-of-way uses on public lands. Another commenter stated that the Treasury-bill (T-bill) rate of 6.41 percent in the current rent schedule is not unreasonably high given current T-bill rates around 5 percent. This commenter also stated that an annual adjustment of the T-bill rate would lead to uncertainty in rental fees, which would have a negative impact on utilities and customers, and duplicates the changes reflected in the Gross Domestic Product (GDP) index. Land values tend to move opposite to the T-bill rate, so including this update in the formula would lead to overly-large rental rates. According to this commenter, a better approach would be to use the 10-year average of the 1-year T-bill rates. Three commenters supported updating the rate of return annually, using some multi-year average of the 1-year T-bill rates. The commenters said that this approach would provide for a current rate of return, while avoiding abrupt changes.

Given the above considerations, the BLM has determined that an initial rate of return based on the 10-year average of the U.S. 30-year Treasury bond yield rate would be reasonable since most right-of-way authorizations are issued for a term of 30 years. The “initial” rate would be effective for a 10-year period, and then would adjust automatically to the then existing 10-year average of the U.S. 30-year Treasury bond yield rate. This method of establishing the rate of return eliminates a “one-point-in-time” high or low rate with a rate that reflects an average over the preceding decade. The proposed rule would allow for use of the 10-year average of the U.S. 20-year Treasury bond yield rate if the 30-year U.S. Treasury bond yield rate is not available. The BLM welcomes any comments regarding the method that we propose to establish the initial rate of return and how we propose to update it each 10-year period.

2002 (Base Year) Per Acre Rent Schedule

Based upon the above discussion, the Per Acre Rent Schedule for the base year, calendar year 2002, is shown in Table 4:

Table 4.—2002 Per Acre Rent Schedule
County zone number and per acre zone value | Encumbrance factor (percent) | Initial rate of return—10-year average—30-year T-Bond (1992-2001) (percent) | Per acre rent for all types of linear right-of-way facilities issued under either FLPMA or MLA or their predecessors. To be adjusted annually for changes in the Consumer Price Index for All Urban Consumers (CPI-U)
Zone 1 $250 | 50 | 6.47 | $8.09
Zone 2 $500 | 50 | 6.47 | $16.18
Zone 3 $1,000 | 50 | 6.47 | $32.35
Zone 4 $1,500 | 50 | 6.47 | $48.53
Zone 5 $2,000 | 50 | 6.47 | $64.70
Zone 6 $3,000 | 50 | 6.47 | $97.05
Zone 7 $5,000 | 50 | 6.47 | $161.75
Zone 8 $10,000 | 50 | 6.47 | $323.50
Zone 9 $20,000 | 50 | 6.47 | $647.00
Zone 10 $30,000 | 50 | 6.47 | $970.50
Zone 11 $50,000 | 50 | 6.47 | $1,617.50
Zone 12 $100,000 | 50 | 6.47 | $3,235.00

As discussed above, the most recent NASS Census data available is for calendar year 2002 and that data is therefore used to develop the initial or base Per Acre Rent Schedule. Proposed section 2806.20 explains that the base 2002 Per Acre Rent Schedule would be adjusted annually in accordance with section 2806.22(a) and that it would be revised in accordance with sections 2806.22(b) and (c) at the end of each 10-year period starting with the base year of 2002. These adjustments to the 2002 Per Acre Rent Schedule, as well as the proposed Per Acre Rent Schedule for 2007 are discussed below. Section 2806.20 further explains that counties (or other geographical areas) would be assigned to an appropriate zone in accordance with section 2806.21. Finally, section 2806.20 explains that you may obtain a copy of the current Per Acre Rent Schedule from any BLM state or field office or by writing: Director, BLM, 1849 C St., NW., Mail Stop 1000 LS, Washington, DC 20240. The BLM also posts the current rent schedule on the BLM Homepage on the Internet at http://www.blm.gov. Because current schedules are easily available, the BLM does not intend to publish an updated Per Acre Rent Schedule each year in the Federal Register.

Section 2806.21 When and how are counties or other geographical areas assigned to a County Zone Number and Per Acre Zone Value?

This section explains that counties (or other geographical areas) would be assigned to a county zone number and per acre zone value in the Per Acre Rent Schedule based upon their average per acre land and building value published in the Census of Agriculture by the NASS. The initial assignment of counties to the zones in the base year (2002) Per Acre Rent Schedule is based on data contained in the most recent NASS Census (2002). For example, San Juan County, New Mexico, has a 2002 NASS Census average per acre land and building value of $324. Since this amount falls between $251 and $500, San Juan County is assigned to Zone 2 on the Per Acre Rent Schedule. The 2002 NASS Census per acre land and building value for each county and the corresponding zone number in the Per Acre Rent Schedule are listed for informational purposes at the end of this proposed rule.

This proposed section further explains that subsequent assignments of counties would occur every 5 years following the publication of the NASS Census. The next scheduled NASS Census will be for calendar year 2007, but the data will not be published until June 2009. If the average per acre land and building value of San Juan County stays between $251 and $500 in the 2007 NASS Census, San Juan County would remain in Zone 2 on the Per Acre Rent Schedule. However, if the average per acre land and building value were to drop to $240, San Juan County would be reassigned to Zone 1 on the Per Acre Rent Schedule used for calendar year 2010. Likewise, if the average per acre land and building value were to increase to $540, San Juan County would be reassigned to Zone 3 on the Per Acre Rent Schedule used for calendar year 2010.

Section 2806.22 When and how does the Per Acre Rent Schedule change?

This section explains that the BLM would adjust the per acre rent in section 2806.20 for all types of linear right-of-way facilities in each zone each calendar year based on the difference in the U.S. Department of Labor CPI-U, from January of one year to January of the following year.

The annual price index component used in the Per Acre Rent Schedule allows the rent per acre amount to stay current with inflationary or deflationary trends. If the rent schedule were not based on the “zone” concept, where county per acre land values were placed into a corresponding zone value, the price index adjustment would not be necessary, assuming the county per acre land values were kept current. However, since the Act directs the BLM to “revise the per acre rental fee zone value schedule by state, county, and type of linear right-of-way use to reflect current values of land in each zone,” the proposed rule retains the zone concept as well as the annual price index adjustment.

The current Per Acre Rent Schedule is adjusted annually by the change in the Implicit Price Deflator, Gross Domestic Product index (IDP-GDP) from the second quarter to the second quarter. From the initial rent schedule in 1987 to the rent schedule for 2007, the change in the IPD-GDP index increased the rent per acre amounts by 62.2 percent. In comparison, the CPI-U index increased 85.8 percent for the same period. Because the growth rate for the IDP-GDP is generally less than that for the CPI-U, one ANPR commenter suggested using half of the CPI-U index rather than the current 100 percent of the IDP-GDP as the CPI-U is more easily available. The commenter said that halving the CPI-U number is in line with the lesser IDP-GDP and allows for a normalization of the annual index adjustment while still allowing for increases with inflation.

Two ANPR commenters stated that the payment due date (January 1) comes less than one month after the payment amount is announced in December. The commenters recommended using an earlier-published index than the current one (July of each year). Another commenter stated that the IDP-GDP is reported as a national number only and does not reflect any potential regional changes in the price level. As such, the Consumer Price Index may offer an alternative index to that of using the IDP-GDP.

When in 1995 the BLM and the FS finalized the rent schedule for communication uses and facilities located on public and NFS lands, the agencies chose to use the CPI-U as the annual index to keep the per acre rental amounts current with inflationary and deflationary trends. The CPI-U was chosen because it is the most common index used by economists and the Federal Government to reflect inflationary and deflationary trends in the economy as a whole; it is the most recognizable and familiar index to the American consumer; and it can be easily obtained from published sources by both Federal agencies and the American public. For these reasons, the BLM has chosen to use the difference in the CPI-U, from January of one year to January of the following year, as the annual price index for the Per Acre Rent Schedule in the proposed rule. In addition to being a reasonable index, using the difference in the CPI-U, from January of one year to January of the following year (instead of from July of one year to July of the following year), would provide nearly a full year's notification to holders of the change in the annual index and the impact that the change might have on the following year's rental amount. Table 5 shows the Per Acre Rent Schedules for the years 2002 through 2007, using the CPI-U index (Note: Rent paid for years 2002—2007 under the current schedule would not be recalculated using the rates in Table 5).

Table 5.—2002-2007 Per Acre Rent Schedules
County zone number and per acre zone value | 2002 Per acre rent (base year) | 2003 Per acre rent (1.1 percent CPI-U Increase from January 2001 to January 2002) | 2004 Per acre rent (2.6 percent CPI-U Increase from January 2002 to January 2003) | 2005 Per acre rent (1.9 percent CPI-U Increase from January 2003 to January 2004) | 2006 Per acre rent (3.0 percent CPI-U Increase from January 2004 to January 2005) | 2007 Per acre rent (4.0 percent CPI-U Increase from January 2005 to January 2006)
Zone 1—$250 | $8.09 | $8.18 | $8.39 | $8.55 | $8.80 | $9.16
Zone 2—$500 | 16.18 | 16.35 | 16.78 | 17.10 | 17.61 | 18.31
Zone 3—$1,000 | 32.35 | 32.71 | 33.56 | 34.19 | 35.22 | 36.63
Zone 4—$1,500 | 48.53 | 49.06 | 50.33 | 51.29 | 52.83 | 54.94
Zone 5—$2,000 | 64.70 | 65.41 | 67.11 | 68.39 | 70.44 | 73.26
Zone 6—$3,000 | 97.05 | 98.12 | 100.67 | 102.58 | 105.66 | 109.89
Zone 7—$5,000 | 161.75 | 163.53 | 167.78 | 170.97 | 176.10 | 183.14
Zone 8—$10,000 | 323.50 | 327.06 | 335.56 | 341.94 | 352.20 | 366.28
Zone 9—$20,000 | 647.00 | 654.12 | 671.12 | 683.88 | 704.39 | 732.57
Zone 10—$30,000 | 970.50 | 981.18 | 1,006.69 | 1,025.81 | 1,056.59 | 1,098.85
Zone 11—$50,000 | 1,617.50 | 1,635.29 | 1,677.81 | 1,709.69 | 1,760.98 | 1,831.42
Zone 12—$100,000 | 3,235.00 | 3,270.59 | 3,355.62 | 3,419.38 | 3,521.96 | 3,662.84

Table 5 displays the per acre rent values for each county zone for the 2002 base year and each subsequent year after application of the annual index. The annual index adjustments would continue until the Per Acre Rent Schedule is revised under paragraph (b) of this section. The per acre rent values would then be recalculated based on the revised zone values and rate of return, but maintaining the 50 percent EF. The annual index adjustments would then continue on an annual basis until the next potential revision to the Per Acre Rent Schedule 10 years later. In the event that the NASS Census stops being published, or is otherwise unavailable, then the only changes to the rent schedule would be the annual index adjustment and the revision of the rate of return under paragraph (c) of this section.

Section 2806.22 also explains that the BLM would review the NASS Census data from the 2012 NASS Census, and each subsequent 10-year period, and if appropriate, revise the number of county zones and the per acre zone value. Any revision must include 100 percent of the number of counties and listed geographical areas for all states and the Commonwealth of Puerto Rico and must reasonably reflect their average per acre land and building values contained in the NASS Census. The BLM may revise the number of zones and the per acre zone value in the 2002 base Per Acre Rent Schedule (section 2806.20(a)) following the publication of the 2012 NASS Census. Since the 2012 NASS Census data will not be available until early 2014, based on current timeframes, any revision would be applicable for the calendar year 2015 rent schedule. In the event that the NASS Census data becomes available in mid-year 2013, the revisions could be applicable for the calendar year 2014 Per Acre Rent Schedule. However, this is unlikely due to the extensive data verification process that is undertaken by NASS. Although the NASS Census occurs each 5-year period, the revision to the number of zones and the per acre zone value will occur each 10-year period after publication of the NASS Census in 2012, 2022, 2032, and so forth. Based on historic trends in average per acre land values, the BLM does not foresee that it would be necessary to revise the Per Acre Rent Schedule after each NASS Census period; the BLM finds, however, that it would likely be necessary to revise the Per Acre Rent Schedule after every other NASS Census period (each 10-year period) in order to keep the schedule current with existing per acre land values.

This section further explains that the BLM would revise the Per Acre Rent Schedule at the end of calendar year 2011 and at the end of each 10-year period thereafter to reflect the average rate of return for the preceding 10-year period for the 30-year Treasury bond (or the 20-year Treasury bond if the 30-year Treasury bond is not available). The initial rate of return for the 2002 base rent schedule is 6.47 percent, which is the average 30-year Treasury bond yield rate for the 10-year period from 1992 through 2001. The subsequent rate of return would be determined by the average 30-year Treasury bond yield rate for the 10-year period from 2002 through 2011 and would apply to the updated rent schedule for calendar year 2013.

The adjustments provided by this section would keep the Per Acre Rent Schedule current relative to average per acre land value as directed by the Act. In addition, since the adjustments would be based on easily accessible public information, the changes should not be either burdensome to administer or surprising in their outcome.

Section 2806.23 How will BLM calculate my rent for linear rights-of-way the Per Acre Rent Schedule covers?

Proposed sections 2806.23(a) and (b) are similar to and replace current sections 2806.22(a) and (b), respectively. Proposed section 2806.23(a) explains that (except as provided by sections 2806.25 and 2806.26) the BLM calculates rent by multiplying the rent per acre for the appropriate county (or other geographical area) zone from the current schedule by the number of acres (as rounded up to the nearest tenth of an acre) in the right-of-way area that fall in each zone and multiplying the result by the number of years in the rental period. The proposed rent calculation methodology is identical to the current rent calculation methodology; only the components of the formula (average per acre land value; county zones; the EF; and rate of return) would be revised. For example, an existing pipeline right-of-way in New Mexico occupies 0.74 acres of public land in Chaves County and 4.8 acres of public land in Eddy County. The 2002 NASS Census indicates that the average per acre land and building value for Chaves County is $212 (Zone 1 on the Per Acre Rent Schedule) and $255 for Eddy County (or Zone 2 on the Per Acre Rent Schedule). The per acre rent value for calendar year 2007 for Zone 1 is 9.16 and for Zone 2 it is $18.31. The 2007 annual rent for the portion of the right-of-way in Zone 1 (Chaves County) is $7.33 (0.74 acres (rounded up to 0.8 acres) multiplied by $9.16 = $7.33). The 2007 annual rent for the portion of the right-of-way in Zone 2 (Eddy County) is $87.89 (4.8 acres multiplied by $18.31 = $87.89). The total 2007 rent for the entire grant would be $95.22. If the holder is not an individual, given that the annual rent is $1,000 or less, the holder has the option to pay for the entire remaining term of the grant, or to pay rent at 10-year intervals, not to exceed the term of the grant (see section 2806.24).

Lastly, this section explains that if the BLM has not previously used the rent schedule to calculate your rent, we may do so after giving you reasonable written notice.

Section 2806.24 How must I make rental payments for a linear grant?

Proposed section 2806.24(a) explains that for linear grants, except those issued in perpetuity, you must make either nonrefundable annual payments or a nonrefundable payment for more than 1 year, as follows:

(1) One-time payments. You may pay in advance the total rent amount for the entire term of the grant or any remaining years.

(2) Multiple payments. If you choose not to make a one-time payment, you must pay according to one of the following methods:

(i) Payments by individuals. If your annual rent is $100 or less, you must pay at 10-year intervals, not to exceed the term of the grant. If your annual rent is greater than $100, you may pay annually or at 10-year intervals, not to exceed the term of the grant. For example, if you have a grant with a term of 30 years, you may pay in advance for 10 years, 20 years, or 30 years, but not 15 years.

(ii) Payments by all others. If your annual rent is $1,000 or less, you must pay rent at 10-year intervals, not to exceed the term of the grant. If your annual rent is greater than $1,000, you may pay annually or at 10-year intervals, not to exceed the term of the grant.

Proposed section 2806.24(a) would replace the rent payment options in current section 2806.23(a). Currently, only individual grant-holders with annual rent in excess of $100 have the option to pay their rent annually or at multi-year intervals of their choice. All other grant holders must pay a one-time rent payment for the term of the grant or pay rent at 10-year intervals not to exceed the term of the grant. These provisions were incorporated in the 2005 regulations to help reduce or eliminate costs associated with the billing and collection of annual rent to both the BLM and the holder. However, many holders have pointed out since implementation of these provisions that making rent payments, especially for existing grants, for 10 to 30-year terms (100 years for grants issued in perpetuity) can be an extreme financial hardship, especially for small business entities operating on limited annual budgets.

For FLPMA authorizations, the BLM has some ability to address these issues under the “undue hardship” provisions in current section 2806.15(c), but this process can be burdensome on the holders, requires approval of the appropriate BLM State Director, and is not available to holders of MLA authorizations. Several holders of MLA authorizations pointed out that the annual rent payment for some of their grants exceed $10,000, and in at least one case, the annual rent is in excess of $100,000, which would require them to make minimum rent payments between $100,000 and $1,000,000 for a 10-year rental payment period. These holders have suggested that corporations and business entities be given rent payment options similar to those of individuals, except with a higher annual rental threshold of $500 or $1,000, instead of the $100 threshold available to individual holders.

Three commenters on the ANPR said they supported flexible term-payment schedules (annual payments, 5-year payments, 10-year payments) for all authorizations, especially those with annual rent greater than $500. Several commenters said that the BLM should include a 3 to 6 year phase-in period, along with more flexible rent payment periods, in order to provide relief from a large or unexpected increase in individual rental payments.

In response to the holders' concerns with the BLM's existing limited rent payment options, as well as possible concerns of higher rental payments from revision of the current Per Acre Rent Schedule, the BLM is proposing more flexible rent payment options, in addition to the phase-in provisions discussed above. Under the proposed rule, the holder retains the option to pay rent for the entire term of the grant, except for grants issued in perpetuity. No changes in rent payment options are proposed for those holders who are considered “individuals” with the exception that if the annual rent is greater than $100, you may pay annually or at 10-year intervals, not to exceed the term of the grant. The proposed rule would eliminate the options for individuals with annual rent greater than $100 to pay at multiple-year intervals of their choice. An “individual” does not include any business entity, e.g., partnerships, corporations, associations, or any similar business arrangements. However, the BLM agrees that “non-individuals” need to have more flexible rent payment options, especially for those holders whose annual rent payment is in excess of $1,000. Under this proposal, when this threshold is met, the holder has the option to pay its rent on an annual basis, or at 10-year intervals, not to exceed the term of the grant. For example, the holder of a 25-year grant (a grant issued on May 25, 2005, for a 25-year period would expire on December 31, 2029) whose annual rent is $2,000 would have the option upon grant issuance to make annual payments of $2,000 plus annual index adjustments (the initial rent period could be for a 7-month period or a rent payment of $1,166.67). The holder could also choose to make a payment in advance for 10 years (total payment of $19,166.67 (9 years + 7 months); for 20 years (total payment of $39,167 (19 years + 7 months); or for the entire 25 years (total payment of $49,166.67 (24 years + 7 months), but not for any other multi-year period. If the holder's annual rent is $1,000 or less, the holder (non-individual) would pay rent at 10-year intervals, not to exceed the term of the grant.

Proposed section 2806.24(b) explains that for linear grants issued in perpetuity (except as noted in sections 2806.25 and 2806.26), you must make either nonrefundable annual payments or a nonrefundable payment for more than 1 year, as follows:

(1) Payments by individuals. If your annual rent is $100 or less, you must pay at 10-year intervals, not to exceed 30 years. Under this provision, you would have the option to pay for a 10-year term, a 20-year term, or a 30-year term. No other terms would be available. If your annual rent is greater than $100, you may pay annually or at 10-year intervals (10-year term, 20-year term, or 30-year term), not to exceed 30 years. Again, no other terms would be available.

(2) Payments by all others. If your annual rent is $1,000 or less, you must pay rent at 10-year intervals, not to exceed 30 years. Under this section, you would have the option to pay for a 10-year term, a 20-year term, or a 30-year term. No other terms would be available. If your annual rent is greater than $1,000, you may pay annually or at 10-year intervals (10-year term, 20-year term, or 30-year term), not to exceed 30 years. No other terms would be available.

Proposed section 2806.24(b) would replace current section 2806.23(c), which gives non-individual holders of a perpetual grant only one rent payment option, that is, a one-time payment based on the annual rent (either determined from the Per Acre Rent Schedule or from an appraisal) multiplied by 100. Holders (non-individuals) of perpetual grants have no other option under current rules but to pay a one-time payment that many find burdensome. Under the 1987 regulations, holders of perpetual grants paid either annually or for a 5-year period, but could not make a one-time payment. This was especially problematic when public land encumbered by a perpetual grant was transferred out of Federal ownership. The 2005 regulations provided for the one-time payment option (see section 2806.23(c)), but did not offer other rent payment options, which are necessary for proper administration of those perpetual grants already in existence prior to 2005, and which encumber land that the BLM intends to administer. Although the term of a FLPMA grant can be any length, it is the BLM's policy to strictly adhere to the factors listed in current section 2805.11(b) to establish a reasonable term. The factors that must be considered in establishing a reasonable term include the: (1) Public purpose served; (2) Cost and useful life of the facility; (3) Time limitations imposed by licenses or permits required by other Federal agencies and state, tribal, or local governments; and (4) Time necessary to accomplish the purpose of the grant. The BLM's own land use planning horizon is generally only 20 to 30 years, so it is seldom in the public interest to issue land use authorizations which exceed this horizon. In addition, the term of MLA grants can not exceed 30 years (see current section 2885.11(a)).

Although the BLM should now rarely issue grants in perpetuity, except when the land encumbered by the grant is being transferred out of Federal ownership (see proposed section 2806.25), we must still be able to effectively administer grants that were issued in perpetuity under prior authorities (generally pre-FLPMA authorities and the MLA prior to 1973). Holders of these grants have requested flexible rent payment options. Proposed section 2806.24(b) provides rent payment options that are available to holders of existing perpetual rights-of-way and which are deemed necessary to properly administer perpetual grants when the land is not being transferred out of Federal ownership. In addition, proposed sections 2806.25 and 2806.26 allow you to make a one-time payment for perpetual grants and perpetual easements, respectively, when the land encumbered by the grant or easement is being transferred out of Federal ownership.

Proposed section 2806.24(c) is the same as current section 2806.23(b), which explains that the BLM considers the first partial calendar year in the initial rent payment period to be the first year of the term. The BLM prorates the first year rental amount based on the number of months left in the calendar year after the effective date of the grant.

Section 2806.25 How may I make rental payments when land encumbered by my perpetual linear grant (other than an easement issued under § 2807.15(c)) is being transferred out of Federal ownership?

Proposed section 2806.25 explains how you may make one-time rental payments for your perpetual linear grant (other than an easement issued under section 2807.15(c) (see section 2806.26)) when land encumbered by your grant is being transferred out of Federal ownership. Section 2806.25(a) explains that if you have an existing perpetual grant (whether issued under FLPMA or its predecessors) and the land your grant encumbers is being transferred out of Federal ownership, you may make a one-time rental payment. You are not required to make a one-time rental payment, but if you choose to do so, the BLM would determine your one-time payment for a perpetual right-of-way grant by dividing the current annual rent for the subject property by an overall capitalization rate calculated from market data. Under this calculation, the overall capitalization rate is the difference between a market yield rate and a percent annual rent increase as described in the formula below. The formula for this calculation is: One-time rental payment = annual rent/(Y − CR), where:

(1) Annual rent = current annual rent applicable to the subject property from the Per Acre Rent Schedule;

(2) Y = yield rate (rate of return) determined by the most recent 10-year average of the annual 30-year Treasury Bond Rate as of January of each year; and

(3) CR = annual percent change in rent as determined by the most recent 10-year average of the difference in the CPI-U Index from January of one year to January of the following year.

Section 2806.25(b) explains how you must make a one-time payment for term grants converted to a perpetual grant under section 2807.15(c). If the land your grant encumbers is being transferred out of Federal ownership and you request a conversion of your term grant to a perpetual right-of-way grant, you would be required to make a one-time rental payment in accordance with section 2806.25(a).

Section 2806.25(c) explains that in paragraphs (a) and (b) of this section, the annual rent is determined from the Per Acre Rent Schedule (see section 2806.20(c)) as updated under section 2806.22. However, the per acre zone value and zone number used in this annual rental determination would be based on the per acre zone value from acceptable market information or an appraisal, if any, for the land transfer action and not the county average per acre land and building value from the NASS Census.

Section 2806.25(d) explains that when no acceptable market information is available or when no appraisal has been completed for the land transfer action or when the BLM requests it, you must prepare an appraisal report in accordance with Federal appraisal standards.

Section 2806.25 is a new section that explains how one-time rental payments would be determined for perpetual grants (other than an easement issued under section 2807.15(c)) when the land your grant encumbers is being transferred out of Federal ownership. It is important to note that you are under no obligation to make a one-time rental payment for your existing perpetual grant when the land your grant encumbers is being transferred out of Federal ownership. If you have an existing term or perpetual grant and you have made either annual or multi-year payments under section 2806.24, and the land your grant encumbers is to be transferred out of Federal ownership, and you choose not to make a one-time rental payment to the BLM, you would negotiate future rental payments for your grant with the new land owner at the appropriate time. However, if you desire to make a one-time payment to the BLM prior to the transfer of the land, and you have an existing perpetual grant, section 2806.25(a) would allow the BLM to determine the one-time rental payment by dividing the current annual rent for the subject property by an overall capitalization rate calculated from market data. Under this calculation, the overall capitalization rate is the difference between a market yield rate and a percent annual rent increase as described in the formula below. The formula for this calculation is: One-time rental payment = annual rent/(Y − CR), where:

(1) Annual rent = current annual rent applicable to the subject property from the Per Acre Rent Schedule;

(2) Y = yield rate (rate of return) determined by the most recent 10-year average of the annual 30-year Treasury Bond Rate as of January of each year; and

(3) CR = annual percent change in rent as determined by the most recent 10-year average of the difference in the CPI-U Index from January of one year to January of the following year.

For example, if the most recent 10-year average of the annual 30-Year Treasury Bond rate as of January of each year is 6.47 percent and the most recent 10-year average of the difference in the CPI-U index from January of one year to January of the following year is 2.47 percent, then the overall capitalization rate is 4 percent (6.47 − 2.47 = 4). The one-time rental payment for a perpetual right-of-way grant with an annual rent of $36.63 (annual rent for 1 acre of right-of-way area located in Zone 3 for 2007) would be determined by dividing the annual rent ($36.63) by the overall capitalization rate (.04) or $915.75. This methodology of calculating rent is known as the income capitalization approach.

The BLM also considered other methods to determine a one-time rental payment, including an administrative approach similar to current section 2806.23(c)(1), where a one-time payment is determined by multiplying the annual rent by 100. Under this approach, a one-time payment for the same right-of-way grant described above with an annual rent payment of $36.63 would be $3,663 ($36.63 multiplied by 100), instead of $915.75. While this approach is reasonable when using the current per acre rent schedule, it could generate an excessively high one-time payment when using current land values as directed by the Act. The BLM also considered using a discounted cash flow (DCF) method to calculate the present value of the projected annual rent payments over a 100-year term, assuming annual rent payments are made in advance. The DCF approach would generate a one-time payment similar to the income capitalization approach. In the above example, a one-time rental payment using the DCF method for the same annual rent payment figure of $36.63 would be $953.24 compared to $915.75 using the income capitalization approach. In general, the DCF formula is more complex and prone to rounding inconsistencies, as compared to the income capitalization formula, which is fairly straightforward and simple to use.

Given the above considerations, the BLM believes that the income capitalization approach is the most reasonable and correct methodology for converting an annual rent payment (with an annual adjustment factor) to a one-time payment for a perpetual term. The variables in the formula are the rate of return and the percent change in rent. These variables could be determined on a case-by-case basis. However, to provide some certainty, and since the Per Acre Rent Schedule already utilizes these components, the BLM believes that using a 10-year average for each component will normalize these variables and avoid either abnormally high or low values that can result from using a one point in time figure.

Section 2806.25(b) addresses the situation where there is an existing term grant and you ask BLM to convert it to a perpetual FLPMA grant under section 2807.15(c). If you made this request, the BLM would treat it as an application for an amendment under current section 2807.20. If the BLM approved your request to change the term of your grant, the BLM would determine the mandatory one-time rental payment as explained in paragraph (a) of this section.

Section 2806.25(c) provides that if the land your grant encumbers is being transferred out of Federal ownership and you have a perpetual grant and have requested a one-time rental payment, or you have requested the BLM to amend your grant to a perpetual grant and seek a one-time rental payment, the BLM would base the per acre zone value and zone number used in the annual rental determination on the per acre land value from the market information or an appraisal report used for the land transfer action and not the county average per acre land and building value from the NASS Census. The BLM believes that when the land a grant encumbers is being transferred out of Federal ownership, the most accurate and current market data should be used to determine the one-time rental payment. For example, for Clark County, Nevada, the average per acre land and building value from the 2002 NASS Census is $3,567 (Zone 7 on the 2002 Per Acre Rent Schedule or $161.75 per acre rent). If an appraisal report for a competitive sale concluded that the 2002 average per acre land value is instead $175,000 per acre, then the annual per acre rent would be $3,235.00 (or Zone 12 on the per acre rent schedule). The BLM would not use the actual appraised per acre value or the actual per acre sale value to determine the annual per acre rent, but instead would use the actual appraised per acre value to determine the appropriate zone number on the Per Acre Rent Schedule. The zone number then determines the appropriate per acre rent under proposed section 2806.25.

Section 2806.25(d) explains that when no acceptable market information is available, and no appraisal has been completed for the land transfer action, or when the BLM requests it, you must prepare an appraisal report, at your expense, in accordance with Federal appraisal standards. The BLM will only require you to prepare an appraisal report when other acceptable market data is not available. If you must provide an appraisal report, the DOI's Appraisal Policy Manual, dated October 1, 2006 sets forth the DOI's appraisal policies. Addendum Number 3 to DOI's Appraisal Policy Manual specifically provides guidance concerning land valuation, alternative methods of valuation, and appraisals prepared by third (i.e., non-Federal) parties. It is the DOI's policy that all valuation services (whether performed by DOI appraisers or by non-DOI appraisers providing valuation services under a DOI contract or on behalf of a private third party, such as a right-of-way holder) must conform to the current Uniform Standards of Professional Appraisal Practice (USPAP) and the current Uniform Standards for Federal Land Acquisitions (USFLA). The USPAP, promulgated by the Appraisal Standards Board of the Appraisal Foundation, is updated and published on a regular basis. The USFLA, promulgated by the Interagency Land Acquisition Conference, was last published on December 20, 2000.

If you have provided an appraisal report, the BLM State Director will refer it to the DOI's Appraisal Services Directorate (ASD). The ASD will review the appraisal report to determine if it meets USPAP and USFLA standards and advise the BLM State Director accordingly. The BLM State Director will then use the data in the appraisal report to determine the zone value and zone number used in the calculation of the one-time rent payment provided by paragraphs (a) and (b). If you are adversely affected by this decision, you may appeal the rent decision under section 2801.10 of this part.

The BLM specifically requests comments on whether an appraisal report, if required, should also address the appropriate EF, in addition to determining per acre land values. The EF from an appraisal report could be different from the 50 percent used in the Per Acre Rent Schedule, depending on the type of facility being authorized (see EF discussion earlier in the preamble). (The rate of return (6.47 percent—see Table 4) would not change, except as provided by section 2806.22(c)). For example, if the average per acre land and building value from the NASS Census is $700 (Zone 3 on the 2002 Per Acre Rent Schedule or $32.35 per acre rent) and an appraisal report concluded that the 2002 per acre land value is instead $400 per acre (Zone 2 or a $50 value), but the appraisal report determines that the EF is 85 percent, then the annual per acre rent would equal $27.50 ($500 multiplied by 0.85 multiplied by 6.47 percent). The one-time payment would then be determined under paragraph (a) of this section.

Sections 2806.25(c) and (d) replace sections 2806.20(c) and (d) of the current regulations which allowed the BLM to use an alternate means to compute your rent, if the rent determined by comparable commercial practices or by an appraisal would be ten or more times the rent from the schedule. We propose these changes to comply with the Act, which requires the BLM to use a Per Acre Rent Schedule based upon land values to determine rent for linear right-of-way grants located on public land.

Section 2806.26 How may I make rental payments when land encumbered by my perpetual easement issued under § 2807.15(c) is being transferred out of Federal ownership?

Section 2806.26(a) addresses the situation where there is an existing term or perpetual grant and you ask BLM to convert it to a perpetual easement as provided by section 2807.15(c). If you make this request, the BLM would treat it as an application for an amendment under current section 2807.20. Under this proposal, if the BLM approved your request to convert your term or perpetual grant to a perpetual easement, the BLM would use the appraisal data from the DOI's Appraisal Services Directorate for the land transfer action (i.e., direct or indirect land sales, land exchanges, and other land disposal actions) and other market information to determine the one-time rental payment for perpetual easements.

Section 2806.26(b) explains that when no appraisal or acceptable market information is available for the land transfer action or when the BLM requests it, you must prepare a report required under section 2806.25(d).

Section 2806.26 is a new section made necessary by the BLM's recent policy to provide for perpetual easements to existing right-of-way holders who want to convert their term or perpetual grant to an easement when the land their grant encumbers is to be transferred out of Federal ownership under section 2807.15(c). The BLM has worked closely with its right-of-way customers and holders to develop an easement document (and policy) which is similar to the easement document that a utility company might acquire across private land. Under this policy (posted on the Internet at http://www.blm.gov in June 2007), easements (similar to easements that utility companies would acquire for similar purposes across private land) would only be issued to you when land your grant encumbers is to be transferred out of Federal ownership. Since in these cases the BLM would not administer the easement (because the land your easement would encumber would no longer be public land), the BLM believes that the one-time payment should be determined by an appraisal or acceptable market information used to determine the per acre land value for the land disposal action. The one-time rental payment determined in this manner would reflect the value of the rights transferred to you based upon similar transactions in the private sector, and may, or may not, be the same as a one-time payment for a perpetual grant determined under section 2806.25(b).

The term “right-of-way” is defined by FLPMA (43 U.S.C. 1702(f)) to include easements, leases, permits, or licenses to occupy, use, or traverse public lands granted for the purposes listed in Title V of FLPMA. Most grants that the BLM issues under FLPMA are set forth on standard form 2800-14 and denoted “Right-of-Way Grant/Temporary Use Permit.” These grants are not regarded as easements by the agency, absent some indication to the contrary. Section 506 of FLPMA, 43 U.S.C. 1766, however, clearly contemplates the issuance of easements and provides that any effort to suspend or terminate these instruments be accompanied by the procedural safeguards of 5 U.S.C. 554. Please specifically comment on the need for perpetual easements when encumbered lands are to be transferred out of Federal ownership. The nature of a pre-FLPMA instrument for the purposes identified in Title V is not easily determined because of the variety of statutes authorizing such.

The provisions of the MLA at 30 U.S.C. 185 do not expressly authorize the grant of easements, unlike FLPMA's provisions at 43 U.S.C. 1702(f), 1761(a), and 1766. Both statutes, however, provide for the procedural safeguards of 5 U.S.C. 554 in the event of suspension or termination of the authorization. Whether the BLM may issue a term easement under the MLA in those circumstances when encumbered land is to be transferred out of Federal ownership is an issue on which your comments are requested. Please also comment on whether there is a need for a term easement in such circumstances and how the one-time rent payment should be determined. If the BLM were to issue a term easement under the MLA in those circumstances when encumbered land is to be transferred out of Federal ownership, we would propose to determine the one-time rent payment as described under section 2806.26.

Subpart 2807—Grant Administration and Operation

The BLM is proposing changes to the section of this subpart that deals with administration and operations of grants.

Section 2807.15 How is grant administration affected if the land my grant encumbers is transferred to another Federal agency or out of Federal ownership?

This section explains how grant administration is affected if the land your grant encumbers is transferred to another Federal agency or out of Federal ownership. Proposed section 2807.15 is similar to current section 2807.15. In the proposed rule, current paragraph (c) is split into paragraphs (c) and (d) to make it clearer.

Proposed section 2807.15(a) explains that if there is a proposal to transfer the land your grant encumbers to another Federal agency, the BLM may, after reasonable notice to you, transfer administration of your grant for the lands the BLM formerly administered to another Federal agency, unless doing so would diminish your rights. If the BLM determined your rights would be diminished by such a transfer, the BLM can still transfer the land, but retain administration of your grant under existing terms and conditions.

Proposed section 2807.15(b) explains that if there is a proposal to transfer the land your grant encumbers out of Federal ownership, the BLM may, after reasonable notice to you and in conformance with existing policies and procedures:

(1) Transfer the land subject to your grant. In this case, administration of your grant for the lands the BLM formerly administered is transferred to the new owner of the land.

(2) Transfer the land, but the BLM retains administration of your grant; or

(3) Reserve to the United States the land your grant encumbers, and the BLM retains administration of your grant.

Proposed section 2807.15(c) explains that if there is a proposal to transfer the land your grant encumbers out of Federal ownership, you may negotiate new grant terms and conditions with the BLM. This may include increasing the term of your grant, should you request it, to a perpetual grant or providing for an easement. These changes would become effective prior to the time the land is transferred out of Federal ownership.

Proposed section 2807.15(d) explains that you and the new owner of the land may agree to negotiate new grant terms and conditions at any time after the land encumbered by your grant is transferred out of Federal ownership.

Current paragraph (c) would be revised to delete the cross reference to section 2806.23(c), which specified how you made rental payments for perpetual grants. Section 2806.23 would be replaced by proposed sections 2806.24, 2806.25, and 2806.26. We removed the cross-reference to section 2806.23(c) because the cross-reference is no longer pertinent to the subject matter of this section. In addition, we moved to proposed paragraph (d) and edited for clarification purposes, the language in existing paragraph (c) that discusses negotiation of new grant terms and conditions. Finally, we added an explanatory sentence to paragraph (c) that states that any changes which are negotiated between you and the BLM regarding your grant, including conversion of your existing term grant to a perpetual grant or perpetual easement, are effective prior to the time the land is transferred out of Federal ownership.

Part 2880—Rights-of-Way Under The Mineral Leasing Act

Subpart 2885—Terms and Conditions of MLA Grants and TUPs

This proposal would revise five existing sections of this subpart and would add two new sections.

Section 2885.11 What terms and conditions must I comply with?

Proposed section 2885.11(a) explains that all grants, except those issued for a term of 3 years or less, would terminate on December 31 of the final year of the grant. Current section 2885.11(a) states that all grants with a term of 1 year or longer would terminate on December 31 of the final year of the grant. This proposed correction would allow short-term grants and TUPs to terminate on the day before their anniversary date. This revision would provide the holder of a 3-year grant or TUP with a full 3-year term to conduct activities authorized by the short-term right-of-way grant or TUP, instead of the 2 full years plus the partial first year under the current section. Current section 2885.21(b) and proposed section 2885.21(c) both explain that the BLM considers the first partial calendar year in the initial rent payment period to be the first year of the term. Therefore, a 2-year grant or TUP, issued under the current regulations, has a term period of 2 years plus the time period remaining in the calendar year of issuance. A 2-year grant or TUP has a term period of 1 year plus the time period remaining in the calendar year of issuance. Depending on when the grant or TUP is issued, the actual term could be just over 2 years for a 3-year grant or TUP and could be just over 1 year for a 2-year grant or TUP. Under the proposed rule, all grants and TUPs, except those issued for a term of 3 years or less would terminate on December 31 of the final year of the grant or TUP. The proposed changes to this section would allow the holder to use short-term grants and TUPs for the full period of the grant. For example, if a 3-year grant or TUP were issued under the proposed rule on October 1, 2008, it would terminate on September 30, 2011, instead of December 31, 2010, under the current rule. If a 2-year grant or TUP were issued under the proposed rule on October 1, 2008, it would terminate on September 30, 2010, instead of December 31, 2009, under the current rule. In most cases, the BLM would assess a one-time rental bill for the term of the grant which would lessen any administrative impact which might otherwise result from this revision. This change is also consistent with proposed section 2805.11(b)(2). Please refer to the preamble discussion for proposed section 2805.11(b)(2) for further information on this revision.

Section 2885.12 What rights does a grant or TUP convey?

Current section 2885.12(e) states that you have a right to assign your grant or TUP to another, provided that you obtain the BLM's prior written approval. The BLM is proposing to add the phrase “unless your grant or TUP specifically states that such approval is unnecessary” to this section to indicate that the BLM's prior written approval may be unnecessary in certain cases. In most cases, assignments would continue to be subject to the BLM's written approval. However, with the proposed change, the BLM could amend existing grants and TUPs to allow future assignments without the BLM's prior written approval. This may be especially important to the future administration of a grant when the land encumbered by a grant or TUP is being transferred out of Federal ownership, and there is a request to increase the term of your grant or TUP under section 2886.15(c).

Section 2885.19 What is the rent for a linear right-of-way grant?

Proposed section 2885.19 would replace current section 2885.19. Proposed section 2885.19(a) explains that the BLM would use the Per Acre Rent Schedule to calculate the rent. In addition, paragraph (a) would explain that counties (or other geographical areas) would be assigned to a county zone number and per acre zone value based upon their average per acre land and building value published in the NASS Census. The initial assignment of counties to the zones in the base year (2002) Per Acre Rent Schedule would be based upon data contained in the most recent NASS Census (2002). Subsequent assignments of counties would occur every 5 years following the publication of the NASS Census. Paragraph (a) further explains that the Per Acre Rent Schedule would be adjusted periodically as follows:

(1) The BLM would adjust the per acre rent values in section 2885.19(b) for all types of linear right-of-way facilities in each zone each calendar year based on the difference in the CPI-U from January of one year to January of the following year.

(2) The BLM would review the NASS Census data from the 2012 NASS Census, and each subsequent 10-year period, and as appropriate, revise the number of county zones and the per acre zone values. Any revision would include 100 percent of the number of counties and listed geographical areas for all states and the Commonwealth of Puerto Rico and would reasonably reflect their average per acre land and building values contained in the NASS Census.

(3) The BLM would revise the Per Acre Rent Schedule at the end of calendar year 2011 and at the end of each 10-year period thereafter to reflect the average rate of return for the preceding 10-year period for the 30-year Treasury bond yield (or the 20-year Treasury bond yield if the 30-year Treasury bond yield is not available).

The above revision mechanisms would replace current paragraphs (b) and (c) of section 2885.19.

Proposed section 2885.19(b) would replace current section 2885.19(d) and explains that you may obtain a copy of the current Per Acre Rent Schedule from any BLM state or field office or by writing to the BLM and requesting a copy. The BLM also posts the current rent schedule on the BLM Homepage on the Internet at http://www.blm.gov.

Section 2885.20 How will BLM calculate my rent for linear rights-of-way the Per Acre Rent Schedule covers?

Proposed sections 2885.20(a) and (c) are similar to and would replace current sections 2885.20(a) and (b), respectively. Proposed section 2885.20(a) explains that, except as provided by section 2885.22, the BLM calculates your rent by multiplying the rent per acre for the appropriate county (or other geographical area) zone from the current schedule by the number of acres (as rounded up to the nearest tenth of an acre) in the right-of-way or TUP area that fall in each zone. Under this section you would multiply the result of that calculation by the number of years in the rental period. The proposed rent calculation methodology is identical to the current rent calculation methodology; only the components (average per acre land values, county zones, the EF, and rate of return) would be revised. Please refer to the preamble discussion for section 2806.23(a) for details and examples of how this process would work.

Proposed section 2885.20(b) explains that if you pay rent annually and the payment of your new rental amount would cause you undue financial hardship, you may qualify for a one-time, 2-year phase-in period. The BLM may require you to submit information to support your claim. If the BLM approved the phase-in, payment of the amount in excess of the previous year's rent would be phased-in by equal increments over a 2-year period. In addition, the BLM would adjust the total calculated rent for year 2 of the phase-in period by the annual index provided by section 2885.19(a)(1).

The BLM received six comments in response to the ANPR which generally supported a phase-in provision. Three commenters said that any rental increases greater than $1,000 should be phased-in over 5 years. One commenter said that a 6-year phase-in period would be appropriate for all rental increases. The commenter suggested no change for the first year, followed by five 20 percent annual increases. One commenter supported a phase-in period and potential relief from increased payment amounts, but offered no specific options.

The BLM does not agree with the commenters that a phase-in provision is always necessary or reasonable when implementing a new or revised rent schedule, especially when other existing avenues to mitigate large rental increases are available to most holders. Under current section 2806.15(c), the BLM State Director may waive or reduce your rent payment, if the BLM determines that paying the full rent for your FLPMA grant will cause you undue hardship and it is in the public interest to waive or reduce your rent. However, this provision is not available to holders of MLA authorizations under existing regulations.

The national average per acre land and building value has increased 261 percent over the past 20 years (NASS Annual Report, August 2007). The BLM is proposing a 266 percent increase in the average annual per acre rental fee for the typical grant. Thus, the increase in average per acre rent values closely tracts the increase in average per acre land values over the past 20 years and should not be unexpected or cause undue hardship to most holders. The BLM also realizes that the average per acre land values in some states and counties may have increased by 500 percent, 1000 percent, or more. These increases are substantial, and may cause undue financial hardship to some holders, even if they are fully aware of current land values in their local area. Therefore, the BLM is proposing a limited one-time, 2-year phase-in provision which would provide the holders of MLA authorizations hardship provisions similar to those currently available to holders of FLPMA authorizations.

The proposed MLA phase-in provision would only apply in situations where rent is paid on an annual basis, and the increase in the rental fee is so substantial (500 percent or greater increase), that payment of the new rental amount would likely cause undue financial hardship. In such cases, payment of the amount in excess of the previous year's rent would be phased-in by equal increments over a 2-year period. In addition, the BLM would adjust the total calculated rent for year two of the phase-in period by the annual index provided by section 2885.19(a)(1). For example, if a right-of-way holder's 2006 annual rental was $190 and the new annual rental for 2007 is $1,247 (a 557% increase), then the phase-in amount would be $1,057 ($1,247−$190 = $1057). Therefore, 2007's rental amount would be $718.50 (2006's rent plus half the phase-in amount or $190 + $528.50 = $718.50). If the annual index adjustment for 2008 is 3 percent, then the rent for 2008 would be 2007's assessed rent, plus the remaining equal increment of the rental increase, multiplied by 1.03 (which accounts for the 3 percent annual index adjustment) or $1,284.41 ($718.50 + $528.50 = $1,247 × 1.03 = $1,284.41). Table 6 summarizes this phase-in example, as well as a second example with another 557 percent increase, a third example with a 938 percent increase, and a final example with a 4,291 percent increase:

Table 6.—Examples of Annual Rental Payments With Proposed Phase-In Provision
Year | Prior year's rent | New rental amount and percent increase | Phase-in amount: ½ of increase in excess of prior year's rent | Amount of 3 percent annual adjustment | Annual rent with phase-in | Annual rent without phase-in
First | $190 | $1,247 (557%) | $528.50 | None | $718.50 | $1,247
Second | 718.50 | Not Applicable | 528.50 | 37.41 | 1,284.41 | 1,284.41
First | 11,157 | 73,313 (557%) | 31,078 | None | 42,235 | 73,313
Second | 42,235 | Not Applicable | 31,078 | 2,199.39 | 75,512.39 | 75,512.39
First | 10,430 | 108,281 (938%) | 48,925.50 | None | 59,355.50 | 108,281
Second | 59,355.50 | Not Applicable | 48,925.50 | 3,248.43 | 111,529.43 | 111,529.43
First | 140 | 6,146 (4291%) | 3,003 | None | 3,143 | 6,146
Second | 3,143 | Not Applicable | 3,003 | 184.38 | 6,330.38 | 6,330.38

Total rent savings for the 2-year phase-in period in the first example above is $528.50; in the second example the rent savings is $31,078; in the third example the rent savings is $48,925.50; and in the fourth example the rent savings is $3,003. The annual rent for year 2009 and succeeding years would be 100 percent of the rental amount as determined by that year's annual index-adjusted rent schedule.

The BLM specifically requests comments on whether any phase-in provision is necessary, and if so, what alternative information, including holder qualifications or thresholds other than the percentage increase, might the BLM use to support a longer phase-in period, or to support a phase-in model that specifically addresses financial hardship due to potentially large rental increases. For example, should the BLM allow individuals and/or small business entities to phase-in rent payments for increases in the new rental amount of 500 percent (see Table 6), while all other holders would have to have their new rental amount increase at least 1,000 percent to qualify for the one-time, 2-year phase-in provision.

The BLM does not expect the proposed rental increases to be financially burdensome for most holders. In 2006, less than 1 percent of the total MLA bills would qualify for a phase-in provision based upon a minimum increase in rent of 1,000 percent or more over that which the holder paid the previous year. Using the 500 percent increase standard, only 3.7 percent of the total MLA bills would qualify for the phase-in option as proposed. Only 13.9 percent of the total MLA bills would qualify for a phase-in option with significantly lesser standards, such as a 100 percent or more increase and a rental that exceeds $1,000. As such, the BLM believes that a 2 year phase-in period, in conjunction with more flexibility in the rental payment options (see proposed sections 2806.24 and 2885.21), would provide appropriate relief from any large, unexpected increases in rental payments that are due to implementation of the revised linear rent schedule.

Finally, proposed section 2885.20(c) explains that if the BLM has not previously used the rent schedule to calculate your rent, we may do so after giving you reasonable written notice.

Section 2885.21 How must I make rental payments for a linear grant or TUP?

Proposed section 2885.21(a) explains that for TUPs you must make a one-time nonrefundable payment for the term of the TUP. For grants, except those which have been issued in perpetuity, you must make either nonrefundable annual payments or a nonrefundable payment for more than 1 year, as follows:

(1) One-time payments. You may pay in advance the total rent amount for the entire term of the grant or any remaining years;

(2) Multiple payments. If you choose not to make a one-time payment, you must pay according to one of the following methods:

(i) Payments by individuals. If your annual rent is $100 or less, you must pay at 10-year intervals not to exceed the term of the grant. If your annual rent is greater than $100, you may pay annually or at 10-year intervals, not to exceed the term of the grant. For example, if you have a grant with a remaining term of 30 years, you may pay in advance for 10 years, 20 years, or 30 years, but not any other multi-year period.

(ii) Payments by all others. If your annual rent is $1,000 or less, you must pay rent at 10-year intervals, not to exceed the term of the grant. If your annual rent is greater than $1,000, you may pay annually or at 10-year intervals, not to exceed the term of the grant.

Proposed section 2885.21(a) would replace the rent payment options found in current section 2885.21(a). The primary difference is that under proposed section 2885.21(a), individuals that hold a grant with an annual rent greater than $100 would have the option to pay annually or at 10-year intervals, not to exceed the term of the grant. For example, if you have a grant with a term of 30 years, you may pay in advance for 10 years, 20 years, or 30 years, but not any other multi-year period. Currently, individuals that hold a grant with an annual rent greater than $100 would have the option to pay annually or for any multi-year period. The BLM is proposing this change to make the rent payment options for individuals consistent with those available to non-individuals, except for the annual threshold levels of $100 and $1,000, respectively. Please refer to the preamble discussion for proposed section 2806.24(a) for further rationale for these revisions and examples of various rent payment periods.

Proposed section 2885.21(b) explains how you must make rent payments for perpetual grants issued prior to November 16, 1973, except as provided by proposed section 2885.22(b). Current section 2885.21 did not recognize that MLA grants issued prior to November 16, 1973, could have been issued for any term period, including a perpetual term. Under the MLA, grants issued after November 16, 1973, have a maximum term of 30 years. We added proposed section 2885.21(b) to explain that if you have an existing perpetual grant, you must make either nonrefundable annual payments or a nonrefundable payment for more than 1 year, as follows:

(1) Payments by individuals. If your annual rent is $100 or less, you must pay at 10-year intervals, not to exceed 30 years. If your annual rent is greater than $100, you may pay annually or at 10-year intervals, not to exceed 30 years.

(2) Payments by all others. If your annual rent is $1,000 or less, you must pay rent at 10-year intervals, not to exceed 30 years. If your annual rent is greater than $1,000, you may pay annually or at 10-year intervals, not to exceed 30 years.

Proposed section 2885.21(c) is nearly identical to current section 2885.21(b). This section explains that the BLM considers the first partial calendar year in the initial rent payment period to be the first year of the term. The BLM prorates the first year rental amount based on the number of months left in the calendar year after the effective date of the grant.

Section 2885.22 How may I make rental payments when land encumbered by my perpetual linear grant is being transferred out of Federal ownership?

Proposed section 2885.22 explains how you would make one-time rental payments for your perpetual linear grant when land encumbered by your perpetual grant is being transferred out of Federal ownership.

Proposed section 2885.22(a) explains how the BLM would determine a one-time rent payment for perpetual MLA grants issued prior to November 16, 1973, when land encumbered by your grant is being transferred out of Federal ownership. If you have a perpetual grant and the land your grant encumbers is being transferred out of Federal ownership, you may choose to make a one-time rental payment. The BLM will determine the one-time payment for perpetual right-of-way grants by dividing the current annual rent for the subject property by an overall capitalization rate calculated from market data. The overall capitalization rate is the difference between a market yield rate and a percent annual rent increase as described in the formula below. The formula for this calculation is: One-time payment = annual rent/(Y − CR), where:

(1) Annual rent = current annual rent applicable to a subject property from the Per Acre Rent Schedule;

(2) Y = yield rate (rate of return) determined by the most recent 10-year average of the annual 30-Year Treasury Bond Rate as of January of each year; and

(3) CR = annual percent change in rent as determined by the most recent 10-year average of the difference in the CPI-U Index from January of one year to January of the following year.

The annual rent would be determined from the Per Acre Rent Schedule (see section 2885.19(b)), as updated under section 2885.19(a)(1), (2), and (3) of this chapter. However, the per acre zone value and zone number used in the annual rental determination would be based on the per acre value from acceptable market information or an appraisal, if any, for the land transfer action and not the county average per acre land and building value from the NASS Census.

When no acceptable market information is available and no appraisal has been completed for the land transfer action, or when the BLM requests it, you must prepare an appraisal report as required under section 2806.25(d) of this chapter.

Please refer to the preamble discussion for proposed section 2806.25 for additional details regarding one-time rent payments for perpetual grants when the land your grant encumbers is being transferred out of Federal ownership.

Subpart 2886—Operations on MLA Grants and TUPs

The BLM is proposing changes to one section of this subpart that deals with administration and operations of grants and TUPs.

Section 2886.15 How is grant or TUP administration affected if the BLM land may grant or TUP encumbers is transferred to another Federal agency or out of Federal ownership?

This section would explain how grant administration is affected if the BLM land your grant encumbers is transferred to another Federal agency or out of Federal ownership. Proposed section 2886.15 is similar to current section 2886.15. In the proposed rule, current paragraph (c) is split into paragraphs (c) and (d) to make it clearer.

Proposed section 2886.15(c) explains that if there is a proposal to transfer BLM the land your grant encumbers out of Federal ownership, you may negotiate new grant terms and conditions with the BLM. This may include increasing the term of your grant, should you request it, to a 30-year term or replacing your TUP with a grant. These changes would become effective prior to the time the land is transferred out of Federal ownership.

Proposed section 2886.15(d) explains that you and the new owner of the land may agree to negotiate new grant terms and conditions at any time after the land encumbered by your grant or TUP is transferred out of Federal ownership.

Subpart 2888—Trespass

This rule would revise one section of this subpart having to do with trespass.

Section 2888.10 What is trespass?

Proposed section 2888.10 is identical to current section 2888.10 except for a minor edit to paragraph (c). Proposed section 2888.10(c) does not include the previous reference in section 2888.10 that the rental exemption provisions of part 2800 do not apply to grants issued under this part. This reference is no longer necessary because we added language to proposed section 2806.14(b), which explains that the rent exemptions listed in proposed section 2806.14 do not apply if you are in trespass. This would include trespass actions covered under proposed section 2888.10. Please refer to the preamble discussion for proposed section 2806.14(b) for further details on the reasons for this change.

PART 2920—LEASES, PERMITS, AND EASEMENTS

Subpart 2920—Lease, Permits, and Easements: General Provisions

The rule would revise two sections of this subpart having to do with reimbursement of costs and with fees.

Section 2920.6 Reimbursement of Costs

Current section 2920.6(b) would be revised to delete from the second sentence the phrase “except that any permit whose total rental is less than $250 shall be exempt from reimbursement of costs requirements.” Proposed section 2920.6(b) explains that the reimbursement of costs for authorizations issued under part 2920 would be in accordance with the provisions of sections 2804.14 and 2805.16, which provide for the reimbursement of processing and monitoring costs. Previously, any permit whose total rent was less than $250 would have been exempt from reimbursement of processing and monitoring costs.

Section 2920.8 Fees

Current section 2920.8(b) provides that each request for renewal, transfer, or assignment of a lease or easement be accompanied by a non-refundable processing fee of $25. Also, the authorized officer may waive or reduce this fee for requests for permit renewals which can be processed with a minimal amount of work. Proposed section 2920.8(b) would amend the current section by making each request for renewal, transfer, or assignment of a lease or easement subject to both a non-refundable processing and monitoring fee determined in accordance with section 2804.14 and section 2805.16. The second sentence of the current section, which allows the authorized officer to waive or reduce this fee for permit renewals, would be deleted because fees for actions processed with a minimal amount of work are accounted for in current sections 2804.14 and 2805.16. These revisions are corrections to the 2005 right-of-way rule which established a schedule for processing and monitoring fees for applications and grants issued under parts 2800, 2880, and 2920. These revisions are necessary to provide the correct cross references to the appropriate processing and monitoring fees found in sections 2804.14 and 2805.16 for actions taken under part 2920.

IV. Procedural Matters

Executive Order 12866, Regulatory Planning and Review

In accordance with the criteria in Executive Order 12866, this rule is not a significant regulatory action. The Office of Management and Budget will make the final determination as to its significance under Executive Order 12866.

a. This rule would not have an annual effect of $100 million or more on the economy. It would not adversely affect in a material way the economy, productivity, competition, jobs, the environment, public health or safety, or state, local, or tribal governments or communities. A cost-benefit and economic analysis has not been prepared. However, the following economic analysis and calculations supports this conclusion.

Estimated Economic Effects. The rule could potentially increase rental revenues collected by the BLM and conversely, increase costs to grant holders, by an estimated maximum of $14.7 million each year (plus annual CPI-U adjustments).

Background

The definition of the baseline is an important step in evaluating the economic effects of a regulation. The baseline is taken to be the regulations currently in place. A baseline assumption is that under the status quo, right-of-way activity on Federal lands would continue at least at current levels. Given that the proposed regulation incorporates many suggestions received from industry on the ANPR, continued right-of-way activity on Federal lands seems a reasonable assumption.

Current Right-of-Way Activity

In 2006 the BLM administered 10,859 rights-of-way subject to linear rent, held by over 1,600 entities, covering approximately 329,000 acres in 15 states. Some right-of-way holders have a single grant, while others hold hundreds of individual grants. Individual right-of-way holdings may be as small as 0.01 acre or larger than 22,000 acres. The top 18 grant-holders (by acreage) account for more than one-half of the total acreage. Eighty percent of the total right-of-way acreage is held by about four percent of all grant-holders, while the smallest 1,000 grant-holders account for less than one percent of total right-of-way acreage. The breakdown by rental payments is similar to the breakdown by acreage.

Original Rent Schedule

The original 1987 rent schedule was intended to reduce the need for individual appraisals, establish consistent rationale for determination of rental, reduce the differences between procedures used by the FS and the BLM, resolve conflicts which led to numerous appeals of rental determinations, and reduce both government and industry administrative costs. The right-of-way rental rates assessed in 2006 were derived from the 1987 rule's schedule, presented in Tables 7 and 8.

Zone rent for 2006 is based on zone rent for 1987. Zone rent per acre for 1987 is found by determining the correct zone for a right-of-way, then multiplying the zone value (i.e., the upper bracket for land values per acre within a zone) by the EF (70 percent for electric and telephone lines; 80 percent for energy-related pipelines and roads) and the return on investment (6.41 percent). This 1987 zone rent is converted to 2006 zone rent using the change in the IPD-GDP between 1987 and 2006 (approximately a 57 percent increase).

Proposed Rent Schedule

The zone brackets in the updated schedule are set to accommodate all U.S. counties and the Commonwealth of Puerto Rico, based upon their average per acre land and building value published in the most recent NASS Census. The average per acre land and building values for the 3,080 counties identified in the NASS Census, range from a low of $75 to a high of nearly $100,000. Table 9 shows the zone brackets for the twelve zones in the proposed rule.

Table 9.—Rental Zones, Based on 2002 NASS Census Average Per Acre County Land and Building Values
2002 Land and building values | Zone
$1 to $250 | Zone 1.
$251 to $500 | Zone 2.
$501 to $1,000 | Zone 3.
$1,001 to $1,500 | Zone 4.
$1,501 to $2,000 | Zone 5.
$2,001 to $3,000 | Zone 6.
$3,001 to $5,000 | Zone 7.
$5,001 to $10,000 | Zone 8.
$10,001 to $20,000 | Zone 9.
$20,001 to $30,000 | Zone 10.
$30,001 to $50,000 | Zone 11.
$50,001 to $100,000 | Zone 12.

Each of the 3,080 counties identified in the NASS Census is assigned to a zone, based on the average per acre land and building value as determined by the most recent NASS Census. At the time of this proposed regulation, the most current NASS Census provides 2002 data. The next NASS Census will provide 2007 data, and is due to be published in 2009.

Determining Right-of-Way Rent

Proposed annual right-of-way rent for 2002 is based on the following factors:

1. Schedule zone, determined by the right-of-way county's 2002 average per acre land and building value;

2. EF (set at 50 percent for all linear rights-of-way);

3. Government's rate of return, set at the average of the 30-year Treasury bond rate, taken over the previous ten years from the date of the NASS Census land and building value; and

4. Total acreage within the right-of-way area.

The zone rent is adjusted annually by the change in the Gross Domestic Product, Implicit Price Deflator index.

Table 10 shows the calculation of the right-of-way rental rate for each zone for the 2002 base rent year. The annual per acre rental rate is determined by multiplying the county zone value (upper limit) by the EF and the rate of return. The EF is a measure of the degree that a particular type of facility encumbers a right-of-way area or excludes other types of land uses and is set at 50 percent. The rate of return represents the return the Government could reasonably expect for the use of public assets, and is set at the average of the 30-year Treasury bond taken over the previous ten years from the most recent NASS Census data. Given current NASS Census data from 2002, the 30-year Treasury bond has a 10-year average (1992-2001) of 6.47 percent. Table 5 also displays the per acre rent values for each county zone for the 2002 base year and each subsequent year after application of the annual index.

Table 10.—2002 Base Year—Per Acre Rent Schedule
Zone number | Maximum zone value | Right-of-way annual rental rate*
Zone 1 | $250 | $8.09
Zone 2 | 500 | 16.18
Zone 3 | 1,000 | 32.35
Zone 4 | 1,500 | 48.53
Zone 5 | 2,000 | 64.70
Zone 6 | 3,000 | 97.05
Zone 7 | 5,000 | 161.75
Zone 8 | 10,000 | 323.50
Zone 9 | 20,000 | 647.00
Zone 10 | 30,000 | 970.50
Zone 11 | 50,000 | 1,617.50
Zone 12 | 100,000 | 3,235.00
*Per acre right-of-way rent for one year calculated assuming a 50 percent EF and 6.47 percent rate of return.

The total amount a right-of-way grant holder is billed also depends on the number of acres within the right-of-way area that fall within each zone and the years in the rent payment period. Once the per acre rent has been determined for a particular right-of-way, this amount is multiplied by the total acreage in the right-of-way, and by the number of years in the rent payment period.

Phase-in Provision

The BLM has included a limited one-time, 2-year phase-in provision in the proposed rule for MLA authorizations. If a right-of-way grant holder pays rent annually and the payment of the new rental amount would cause the holder undue financial hardship, the holder may qualify for a one-time, 2-year phase-in period. The BLM may require the holder to submit information to support its claim. If approved by the BLM, payment of the amount in excess of the previous year's rent may be phased-in by equal increments over a 2-year period. In addition, the BLM will adjust the total calculated rent for year two of the phase-in period by the annual index provided by section 2885.19(a)(1).

Estimated Impacts of the Proposed Schedule

The proposed increase in rental fees could potentially impact all holders of right-of-way grants, as well as the energy industry and, ultimately, energy consumers. To the extent that right-of-way grant-holders continue to maintain facilities on public land whose value has increased since 1987, there will also be an increase in rental fees to the U.S. Treasury. Some of the increase in fees may be passed on to energy consumers in the form of higher utility bills, but we expect that if there is any increase, as explained below, it will be minimal.

Tierney and Hibbard (2006) conducted a study (see Tierney, S.F., and Hibbard, P.J., 2006, Energy Policy Act Section 1813 Comments: Report of the Ute Indian Tribe of the Uintah and Ouray Reservation for Submission to the U.S. Departments of Energy and Interior, Boston, MA) of the contribution of right-of-way costs to end-user energy prices, finding that:

1. Right-of-way costs in general are a minor component of regulated electric transmission and gas transportation rates, regardless of how land value changes by location or with time;

2. When viewed from the perspective of end-use consumer prices, the costs to acquire rights-of-way are de minimis; and

3. In the case of gas markets and competitive electricity markets, changes to right-of-way costs generally affect commodity supplier profits, not retail prices.

Based on this analysis, there will likely be no significant impact on consumers as a result of the changes this rule would make to existing regulations.

Estimated Costs under the Proposed Schedule

The expected response to an increase in a good's price is a decrease in the quantity demanded of that good. Thus, if the net effect of the proposed regulation is to raise a right-of-way grant holder's full cost of maintaining a right-of-way on public land, it would be reasonable to predict a decrease in the number of right-of-way applications. Nevertheless, given the finding by Tierney and Hibbard (2006) that right-of-way costs in general (not restricted to Federal lands) are a minor portion of total energy transportation costs, no significant decrease in energy right-of-way activity is expected. The BLM also believes for the same reasons that no significant decrease in non-energy right-of-way activity would occur due to the proposed increase in right-of-way costs.

Assuming that right-of-way activity is relatively insensitive to the rental fee, it is possible to estimate the payments that would have been due to the BLM (U.S. Treasury) in FY 2006 had the proposed schedule been in effect. The following analyses are based on data from the BLM's automated lands billing system (Land and Realty Authorization Module).

In 2006, the BLM issued bills for 10,859 linear right-of-way grants. More than half of these bills were for rent payment periods of 5 years or more. The total amount billed for these linear grants was $6.3 million. Had these rights-of-way been paid under the new schedule (for the same rent payment periods), the total collected would have been $21 million, an increase of approximately $14.7 million, or 233 percent. The BLM expects that it would continue to issue approximately the same number of bills for the same number of annual authorizations each year, while the number of bills for multi-year rental payments would continue to decline. It is expected that those authorizations with annual rental payments in excess of $1,000 would continue to be billed on an annual basis, although the holder would have the option to pay for ten-year terms or the entire term of the grant. Under the proposed rule, the holder would have to pay for a minimum 10-year period if the annual rental payment is $1,000 or less for a non-individual or $100 or less for an individual. Under the 1987 regulations, the maximum rental payment term was 5 years. The 2005 rule requires the holder to pay for the term of the grant, or at 10-year intervals, unless the holder is an individual whose annual rent is greater than $100, in which case, annual payments can be made.

Table 11 lists the 15 states and the total linear right-of-way acreage within each state that was billed for rent in 2006. If this acreage (329,000) were billed on just an annual basis, the total rent assessed using the current Per Acre Rent Schedule and current regulations would be $4,623,420. If this same acreage were assessed annual rent in 2006 using the proposed Per Acre Rent Schedule, the total rent would be $16,348,250, an increase of $11,724,830. Changes in rental payments are due in large part to changes in land values underlying the rights-of-way which have occurred since the current per acre rent schedule was implemented in 1987. According to the 2006 NASS annual report, between 1987 and 2006 U.S. per acre farm real estate values increased by 217 percent on average. Table 11 illustrates a proposed increase in annual rent payments of 254 percent, which tracks well with the changes in land values in the United States over the last 20 years.

Table 11.—Linear Right-of-Way Acres by State: Current and Proposed Rent
[Fiscal Year 2006]
State | Acres | 1 Year rental (current rates) | 1 Year rental (proposed rates)
AZ | 22,735.70 | $428,956.65 | $2,255,043.65
CA | 40,671.88 | 718,721.45 | 4,408,957.67
CO | 17,853.74 | 299,078.72 | 766,377.15
ID | 21,579.61 | 333,387.97 | 1,232,313.05
MT | 5,990.19 | 77,949.18 | 116,253.60
ND | 140.29 | 1,110.85 | 1,459.82
NE | 132.86 | 931.35 | 1,169.17
NM | 64,677.15 | 640,553.60 | 1,113,541.84
NV | 51,378.64 | 1,129,048.42 | 3,657,587.97
OR | 9,424.63 | 115,253.99 | 741,020.48
SD | 136.20 | 2,911.30 | 3,775.76
TX | 81.64 | 653.94 | 8,625.98
UT | 17,074.50 | 172,155.07 | 582,868.96
WA | 147.68 | 2,311.31 | 16,098.17
WY | 76,982.60 | 700,396.04 | 1,443,156.56
Total | 329,007.31 | 4,623,419.84 | 16,348,249.83

Table 12 provides the percent change in land values and the percent change in rent receipts for the fourteen counties having over 5,000 billed acres in rights-of-way, as of 2006. Taken together, these fourteen counties account for over 49 percent of all right-of-way acres billed by the BLM in 2006, and over 55 percent of the rent collected for 2006. San Bernardino County, California (see Table 12), is a good example of how land values in some counties have risen dramatically in the last twenty years. This southern California county had 23,367 acres of public land encumbered by authorized right-of-way facilities which were billed for rent in 2006 using the current rent schedule. The current schedule is based on a 1987 land value of $200 per acre for San Bernardino County, meaning that these holdings were valued at a total of $4.7 million in 1987. Applying the IPD-GDP factor used in the current schedule increases the value of this land to $6.7 million in 2002. The 2002 NASS land and building data lists San Bernardino County at $2,144 per acre, for a total value of $50.1 million. This data indicates that in this example the government is basing linear right-of-way rents on only 13.4 percent of the 2002 land value, largely due to the rapid increase in land values in southern California since 1987. Furthermore, the NASS annual reports show that between 2002 and 2006 farm real estate values have increased an average of 57 percent nationwide. A continued trend of rising real estate values would lead to further undervaluation by the current schedule. As a result, had the BLM used the proposed Per Acre Rent Schedule to assess rent for linear right-of-way acres in San Bernardino County in FY 2006, rental receipts would have increased more than 600 percent (see Table 12).

In contrast, land values in most counties in New Mexico and Wyoming, where the majority of linear rights-of-way are located, have increased at a much slower rate than the national average. Had the proposed rent schedule been in effect for 2006, most counties in these two states would experience only modest increases in rents due. For example, in San Juan County, New Mexico, where between 1987 and 2006 the value of land has increased by over 200 percent, rents would increase by 122 percent. In Sweetwater County, Wyoming, where between 1987 (per BLM's per acre rent schedule) and 2006 (per the NASS Census data) land values have actually fallen, rents would be almost flat, increasing by only 14 percent. These lower land values in New Mexico and Wyoming would result in only a 74 percent and a 106 percent increase, respectively, in the total rental receipts, statewide, for 2006 (as compared to a 513 percent increase for California and a 254 percent increase for all BLM states) when using the proposed Per Acre Rent Schedule as compared with the total rental receipts for 2006 when using the current Per Acre Rent Schedule (see Table 11).

Table 12.—Percent Change in Land Values and Rent Receipts by Counties with 5,000 or More Acres Billed for Right-of-Way Facilities on Public Land in FY 2006
County | State | Right-of-way acres | 1987 assigned land value | 2002 NASS census land value | Percent change in land value | 2006 assessed rent using current schedule | 2006 assessed rent using proposed schedule | Percent increase in rent receipts
Sweetwater | WY | 24,533 | $100 | $98 | −2 | $189,951 | $215,893 | 14
San Bernardino | CA | 23,367 | 200 | 2,144 | 972 | 341,002 | 2,468,923 | 624
San Juan | NM | 18,025 | 100 | 324 | 224 | 143,127 | 317,423 | 122
Eddy | NM | 17,557 | 100 | 255 | 155 | 136,204 | 309,178 | 127
Clark ᵃ | NV | 12,539 | 50 | 3,567 | 7,034 | 45,210 | 2,208,137 | 4,784
Lincoln | WY | 11,824 | 100 | 906 | 806 | 88,470 | 416,425 | 371
Maricopa | AZ | 8,973 | 400 | 3,026 | 657 | 258,062 | 1,580,107 | 512
Lea | NM | 7,987 | 100 | 156 | 56 | 62,084 | 70,288 | 13
Carbon | WY | 7,129 | 100 | 214 | 114 | 54,266 | 62,737 | 16
Rio Blanco | CO | 6,803 | 200 | 669 | 235 | 108,316 | 239,585 | 121
Fremont | WY | 6,274 | 100 | 311 | 211 | 48,387 | 110,477 | 128
Sublette | WY | 5,728 | 100 | 733 | 633 | 44,118 | 201,744 | 357
Rio Arriba | NM | 5,718 | 200 | 328 | 64 | 91,749 | 100,695 | 10
Eureka | NV | 5,002 | 50 | 230 | 360 | 17,657 | 44,020 | 149
Subtotal |  | 161,459 | 133 | 997 | 651 | 1,628,603 | 8,345,632 | 412
Clark County Sub-Zones | NV | 920 | 14,001 ᵇ | 3,567 | −75 | 920,227 | 161,920 | −82
Total |  | 162,379 | 212.04ᶜ | 1,017ᶜ | 380 | 2,548,830 | 8,507,552 | 234
ᵃ Entries for Clark County do not include rights-of-way in Clark County “unique zones”.
ᵇ 1987 Assigned Land Value for Clark County “unique zones” is a weighted average across all 8 unique zones.
ᶜ Land Values (Total) are a weighted average across all 14 counties and 8 “unique zones”.

While the land values in certain counties in New Mexico and Wyoming increased modestly from 1987 to 2002, the land values in Clark County, Nevada, as shown in Table 12, increased dramatically (7,034 percent) during this time period. Much of this increase can be attributed to the tremendous growth rate and demand for undeveloped land in and surrounding Las Vegas, Nevada, the largest city in Clark County as well as the state of Nevada. In recognition of these higher land values in the Las Vegas area, a “unique zone” Per Acre Rent Schedule with eight zones whose land values ranged from $4,000 to $75,000 per acre was established in 1987 by the 1987 regulations. The annual per acre rent values ranged from $280 to $6,000 (in 2006). The BLM uses the “unique zone” Per Acre Rent Schedule (see Section II Background of this preamble for additional information on the “unique zone” Per Acre Rent Schedule) to assess rent ($920,227 in 2006) for 81 rights-of-way in the Las Vegas area which were granted within the “unique zone” areas prior to 2002. In addition, another 225 rights-of-way are located within the Las Vegas “unique zone” area, but the BLM uses the 1987 Per Acre Rent Schedule to determine annual rent for these rights-of-way in accordance with Washington Office Instruction Memorandum 2002-172. Had the BLM used the “unique zone” rates to determine rent for these 225 grants, an additional $2.56 million would have been collected in 2006 (based on an average rent payment of $11,360 for each of the 81 right-of-ways subject to the “unique zone” rates in 2006). So instead of $45,210 in assessed rent for linear rights-of-way in Clark County for 2006, as shown in Table 12, a more appropriate figure for comparison purposes, using the “unique zone” rates for all 306 rights-of-way located within these high land value areas, would be approximately $3.5 million. Under the proposed Per Acre Rent Schedule, that figure would then decrease to $2.04 million, resulting in a 146 percent decrease in rental receipts, instead of the 4,784 percent increase as shown in Table 12.

In summary, the proposed rule could potentially increase rental revenues collected by the BLM and conversely, increase costs to grant holders, by an estimated maximum of $14.7 million each year (plus annual CPI-U adjustments) when all authorizations and rent payment periods are considered (using 2006 as a sample year). For 2006, the BLM assessed rent for rights-of-way on 329,000 acres of public land. If this acreage were billed only on an annual basis, the BLM would have assessed rent in the amount of $4,623,420 using the current Per Acre Rent Schedule. Under the proposed rule, the BLM would assess rent in the amount of $16,348,250, an increase of $11,724,830. These proposed increases in rental receipts would reasonably reflect the increase in land values which have occurred from 1987 to the present.

In addition to revising the current Per Acre Rent Schedule, the proposed rule would make minor revisions to parts 2800 and 2880 to make existing regulations consistent with the statutory rent schedule changes discussed above. There are also a number of minor corrections and changes in the proposed rule that are not directly related to the rent schedule. These proposed changes are limited in scope and address trespass penalties, new rent payment options (including how one-time payments are to be determined for perpetual right-of-way grants and easements), annual rental payments, phased-in rental increases, and reimbursements of monitoring costs and processing fees for leases and permits issued under 43 CFR part 2920. These latter items would correct some existing errors in the current regulations and clarify others. All these changes are within the scope of the BLM's existing authority to administer rights-of-way under the FLPMA and the MLA and would have only minor economic impact.

b. This rule would not create serious inconsistencies or otherwise interfere with other agencies' actions. Since 1987, the BLM and the FS have both used the same Per Acre Rent Schedule to establish rent for linear right-of-way facilities located on public land and NFS land. The Act requires both the BLM and the FS to make the same revisions to the 1987 per acre rental fee zone value schedule by state, county, and type of linear right-of-way use to reflect current values of land in each zone. The BLM has worked closely with the FS in assuring the maximum consistency possible between the policies of the two agencies with respect to approving and administering linear rights-of-way, including the assessment of rent for these facilities. The FS plans to adopt the BLM Per Acre Rent Schedule.

c. The proposed rule would not materially affect entitlements, grants, user fees, loan programs, or the rights and obligations of their recipients. This rule does increase rental fees, but only in amounts necessary to ensure compliance with the Act. The increases in rental fees would not be retroactive, but they would apply to new authorizations and to existing grant-holders who hold grants subject to rent at the grant's next rental due payment period. Flexible rent payment options and phase-in provisions would significantly lessen any impact that increased rental fees may have on grant-holders. Rent exemption and reduction provisions found in the current rule would still apply. However, the proposed rule clarifies that if an entity is found to be in trespass on public land, the rental exemptions and/or waiver of rent provisions would not apply to settlement of the trespass action.

d. The proposed rule would not raise novel legal or policy issues. The Act requires the BLM and the FS to update and revise current per acre rent schedules to reflect current land values. Both agencies currently collect rental fees for linear rights-of-way using a per acre rent schedule established in 1987. The Act did not specify how to revise the land values or what data should be used. The proposed rule would use average per acre land and building values published every 5 years in the NASS Census. Other Federal and state agencies regularly use the NASS Census data when necessary to use average per acre land values for a particular state or county. Congress, likewise, endorsed the use of this data for rental determination purposes when it passed the “National Forest Organizational Camp Fee Improvement Act of 2003” (Pub. L. 108-7) (16 U.S.C. 6232). The BLM believes that the rental fees arrived at by the use of the NASS Census data is the most efficient and reasonable method to revise the current Per Acre Rent Schedule, as well as to meet other mandates under the FLPMA and the MLA that require that the U.S. receive fair market value of the use of the public lands.

Clarity of the Regulations

Executive Order 12866 requires each agency to write regulations that are simple and easy to understand. We invite your comments on how to make these proposed regulations easier to understand, including answers to questions such as the following:

1. Are the requirements in the proposed regulations clearly stated?

2. Do the proposed regulations contain technical language or jargon that interferes with their clarity?

3. Does the format of the proposed regulations (grouping and order of sections, use of headings, paragraphing, etc.) aid or reduce their clarity?

4. Would the regulations be easier to understand if they were divided into more (but shorter) sections? (A “section” appears in bold type and is preceded by the symbol “§ ” and a numbered heading, for example: § 2806.20 What is the rent for a linear right-of-way grant).

5. Is the description of the proposed regulations in the SUPPLEMENTARY INFORMATION section of this preamble helpful in understanding the proposed regulations? How could this description be more helpful in making the proposed regulations easier to understand?

Please send any comments you have on the clarity of the regulations to the address specified in the ADDRESSES section.

National Environmental Policy Act (NEPA)

The BLM has determined that this proposed rule, which primarily updates the current linear rent schedule, is of an administrative, financial, and/or procedural nature whose environmental effects is too broad, speculative, or conjectural to lend itself to meaningful analysis and will later be subject to the NEPA process, either collectively or case-by-case. Therefore, it is categorically excluded from environmental review under section 102(2)(C) of the NEPA, pursuant to 516 Departmental Manual (DM), Chapter 2, Appendix 1, Number 1.10. Updates to the current linear rent schedule also qualify as a categorical exclusion under Number 1.3 of the same appendix. Number 1.3 categorically excludes “[r]outine financial transactions including such things as salaries and expenses * * * fees, bonds, and royalties.” In addition, the proposed rule does not meet any of the 12 criteria for extraordinary circumstances listed in 516 DM, Chapter 2, Appendix 2. Pursuant to Council on Environmental Quality regulations (40 CFR 1508.4) and the environmental policies and procedures of the Department of the Interior, the term “categorical exclusions” means a category of actions which do not individually or cumulatively have a significant effect on the human environment and that have been found to have no such effect in procedures adopted by a Federal agency and for which neither an environmental assessment nor an environmental impact statement is required.

We have also examined this rule to determine whether it requires consultation under Section 7 of the Endangered Species Act (ESA) (16 U.S.C. 1532). The ESA requires an agency to consult with the Fish and Wildlife Service or National Marine Fisheries Service to insure that any action it authorizes, funds, or carries out is not likely to jeopardize the continued existence of any listed species or result in the destruction or adverse modification of critical habitat.

We have determined that this rule will have no effect on listed or proposed species or on designated or proposed critical habitat under the ESA and therefore consultation under section 7 of the ESA is not required. Our determination is based in part on the fact that nothing in the rule changes existing processes and procedures that ensure the protection of listed or proposed species or designated or proposed critical habitat. Existing processes and procedures have been in effect since BLM promulgated right-of-way regulations in 1979-80. Any further compliance with the ESA will occur when an application for a right-of-way is filed with BLM.

Regulatory Flexibility Act

Congress enacted the Regulatory Flexibility Act of 1980 (RFA), as amended, 5 U.S.C. 601-612, to ensure that Government regulations do not unnecessarily or disproportionately burden small entities. The RFA requires a regulatory flexibility analysis if a rule would have a significant economic impact, either detrimental or beneficial, on a substantial number of small entities. The BLM has estimated that approximately 18 percent of all applicants and grantees (approximately 5 percent of MLA applicants and grantees and approximately 23 percent of FLPMA applicants and grantees) may qualify as small entities. As discussed above, rental fees, in most cases, are not a significant cost for the industries impacted, including small entities.

Table 13 shows the small business size standards for industries that may be affected by these rules. This table lists industry size standards for eligibility for Small Business Administration (SBA) programs from SBA regulations (see 13 CFR 121.201). The SBA size standards are typically stated either as the average number of employees, or the average annual receipts of a business concern. Standards are grouped using the North American Industrial Classification System 2002 (NAICS). This listing is based on descriptions from the U.S. Bureau of the Census 2002 NAICS codes and is not exhaustive.

Table 13.—SBA Size Standards for Affected Industries as of July 31, 2006
NAICS code | Description | Size standard
113110 | Timber Tract Operations | $6.5 million.
113210 | Gathering of forest products | $6.5 million.
113310 | Logging | 500 employees.
211111 | Crude petroleum and natural gas extraction | 500 employees
211112 | Natural gas liquid extraction | 500 employees.
221111 | Hydroelectric power generation | *
221112 | Fossil fuel electric power generation | *
221113 | Nuclear electric power generation | *
221119 | Other electric power generation | *
221121 | Electric Bulk Power Transmission and Control | *
221122 | Electric Power Distribution | *
221210 | Natural Gas Distribution | 500 employees.
221310 | Water Supply and Distribution System | $6.5 million.
486110 | Pipeline Transportation: Crude Oil | 1,500 employees.
486210 | Pipeline Transportation: Natural Gas | $6.5 million.
486910 | Pipeline Transportation: Refined Petroleum Products | 1,500 employees.
486990 | Pipeline Transportation: All other products | $21.5 million.
* Firm, including affiliates, is primarily engaged in generation, transmission, or distribution of electric energy for sale, and total electric output for the preceding fiscal year ≤ 4 million megawatt-hours.

The BLM does not officially track right-of-way costs, but grant holders in 2003 estimated that construction costs for pipeline facilities were between $300,000 (12″ pipeline) to $1.5 million per mile (36″ pipeline); construction costs for rocked logging roads were between $40,000/mile for a ridge top road to $150,000/mile for a full bench road or an average of $70,000/mile for a road through moderate terrain; and construction costs for electric distribution and transmission lines were between $24,000/mile (24kV distribution line) to $1 million/mile (500kV transmission line). Larger projects would typically require more land area to site than minor projects. Since rent is based on the number of acres that the right-of-way facility encumbers, larger projects would also involve higher rental payments than would minor projects. However, compared to the cost of constructing a typical right-of-way facility, total rent and the rental fee increases under the proposed rule are relatively small (see 70 FR 21056 for further information on typical project costs).

Any of the industries listed in Table 13 may hold right-of-way grants with the BLM, under either FLPMA or MLA, as a part of their business practices. For example, bulk electric power transmission firms will use rights-of-way to distribute their electricity. Firms may be eligible for various SBA programs, but the size-limit is specific to each industry, and identified by the industry codes. The limit may be based on gross sales, the number of employees, or other factors. It is estimated that about 5.3 percent (or 1,416 of 26,711) of existing MLA grantees may be eligible for SBA programs and about 22.9 percent (or 14,280 of 62,358) of FLPMA grantees may be eligible for SBA programs (see 70 FR 21056). Whether they choose to join the SBA programs is strictly an individual firm's decision.

The proportion of grantees eligible for SBA programs indicates that there is an opportunity for small businesses in BLM's right-of-way program. However, the burden of increased rental fees is not expected to have a significant economic impact on a substantial number of small entities or fall disproportionately on small businesses. Moreover, any entity which believes that it might be adversely affected by the rental fee increases to its FLPMA right-of-way grant may qualify for a waiver or reduction of rental fees under any of the provisions, including hardship, found at 43 CFR 2806.15. Therefore, the BLM has determined under the RFA that this proposed rule would not have a significant economic impact on a substantial number of small entities.

Small Business Regulatory Enforcement Fairness Act (SBREFA)

The proposed rule is not a “major rule” as defined at 5 U.S.C. 804(2). This rule:

a. Would not have an annual effect on the economy of $100 million or more. See the Executive Order 12866 discussion above.

b. Would not result in major cost or price increases for consumers, industries, government agencies, or regions. As discussed above, when compared to the cost of constructing a right-of-way project, the rental fee increases contained in this proposed rule are relatively small and therefore should not cause any major increase in costs or prices. In addition, any applicant or holder of an FLPMA authorization that believes that the rental fee increases will cause difficulty may benefit from the rent waiver or reduction provisions under 43 CFR 2806.15, especially the hardship provision.

c. Would not have significant adverse effects on competition, employment, investment, productivity, innovation, or the ability of U.S.-based enterprises to compete with foreign-based enterprises. The rule should result in no change in any of the above factors. See the Executive Order 12866 discussion above regarding the economic effects of the proposed rental fee increases. In general, the rental fee increases would be small in comparison with the overall costs of constructing, maintaining, operating, and terminating large projects located within right-of-way areas. With the possible exception of MLA grants for pipelines, the projects located on right-of-way grants support domestic, not foreign, activities and do not involve products and services which are exported. The MLA pipelines may transport oil and gas and their related products destined for foreign markets, but the proposed increase in rental fees, compared to the cost of, and profits from, running an oil and gas pipeline that would feed into a foreign market, is minimal.

Unfunded Mandates Reform Act

This proposed rule does not impose an unfunded mandate on state, local, or tribal governments, in the aggregate, or the private sector, of $100 million or more per year; nor does this proposed rule have a significant or unique effect on small governments. The rule would impose no requirements approaching $100 million annually on any of these entities. We have already shown, in the previous paragraphs of this section of the preamble, that the changes proposed in this rule would not have effects approaching $100 million per year on the economy. Therefore, BLM is not required to prepare a statement containing the information required by the Unfunded Mandates Reform Act at 2 U.S.C. 1532.

Executive Order 12630, Governmental Actions and Interference With Constitutionally Protected Property Rights (Takings)

The proposed rule does not have takings implications and is not government action capable of interfering with constitutionally protected property rights. A right-of-way application is not private property. The BLM has discretion under the governing statutes to issue a grant or not (see 30 U.S.C. 185(a) and 43 U.S.C. 1761(a)). Once a grant is issued, a holder's continued use of the Federal land covered by the grant is conditioned upon compliance with various statutes, regulations, and terms and conditions, including the payment of rent. Consistent with the FLPMA and the MLA, violation of the relevant statutes, regulations, or terms and conditions of the grant can result in termination of the grant before the end of the grant's term. The holder of a grant acknowledges this possibility in accepting a grant. Therefore, the Department of the Interior has determined that the rule would not cause a taking of private property or require further discussion of takings implications under this Executive Order.

Executive Order 13132, Federalism

The proposed rule will not have a substantial direct effect on the states, on the relationship between the national government and the states, or on the distribution of power and responsibilities among the levels of government. Qualifying states and local governments continue to be exempt from paying rent for a right-of-way grant issued under FLPMA. Therefore, in accordance with Executive Order 13132, the BLM has determined that this proposed rule does not have sufficient Federalism implications to warrant preparation of a Federalism Assessment.

Executive Order 12988, Civil Justice Reform

Under Executive Order 12988, we have determined that this proposed rule would not unduly burden the judicial system and that it meets the requirements of sections 3(a) and 3(b)(2) of the Order.

Executive Order 13175, Consultation and Coordination with Indian Tribal Governments

In accordance with Executive Order 13175, we have found that this proposed rule does not include policies that have tribal implications. The BLM may only issue right-of-way grants across public lands that it manages or across Federal lands held by two or more Federal agencies. Indian tribes have jurisdiction over their own lands, subject to the Secretary's trust responsibility. To our knowledge, no Indian tribes are involved in any multi-agency grants.

Executive Order 13211, Actions Concerning Regulations That Significantly Affect Energy Supply, Distribution, or Use

In accordance with Executive Order 13211, the BLM has determined that the proposed rule is not a significant energy action. The proposed rule is not a significant regulatory action under Executive Order 12866 and is not likely to have a significant effect on energy supply, distribution or use, including a shortfall in supply or price increase. In addition, the proposed rule has not been designated as a significant energy action by the Chief of the Office of Information and Regulatory Affairs. However, since the proposed rent schedule is based on average per acre land values which have generally increased over the past 20 years, rental receipts would be expected to increase in a like proportion, but still remain a minor component of overall costs and/or rates. In addition, the rule preserves existing rental exemption and waiver provisions, provides an on-going phase-in provision, and provides more flexible rent payment options that are lacking in the current rule.

Executive Order 13352, Facilitation of Cooperative Conservation

In accordance with Executive Order 13352, the BLM has determined that this proposed rule would not impede facilitating cooperative conservation; would take appropriate account of and consider the interests of persons with ownership or other legally recognized interests in land or other natural resources; would properly accommodate local participation in the Federal decision-making process; and would provide that the programs, projects, and activities are consistent with protecting public health and safety. This proposed rule does not change any provisions of the BLM's current right-of-way rule which facilitates cooperative conservation in the authorization and administration of right-of-way facilities on public lands. The proposed rule maintains all alternatives for maximum protection of right-of-way facilities when the land encumbered by the facilities is proposed for transfer out of Federal ownership. The grant holder would also have the opportunity to negotiate new terms and conditions with the new land owner, if the holder so desires. The proposed rule does not reduce or eliminate any current provision which requires the BLM to coordinate and consult with other affected and/or interested parties in the granting or administering of right-of-way facilities on public land, including the requirements that the BLM places on right-of-way holders to protect public health and safety, as well as public resources and environmental quality.

Paperwork Reduction Act

The Office of Management and Budget has approved the information collection requirements in the proposed rule under the Paperwork Reduction Act of 1995, 44 U.S.C. 3501 et seq., and has assigned clearance number 1004-0189, which expires on November 30, 2008.

Authors

The principal authors of this proposed rule are Bil Weigand, BLM Idaho State Office, and Rick Stamm, BLM Washington Office, assisted by Ian Senio of BLM's Division of Regulatory Affairs, Washington Office, Christian Crowley, Office of Policy Analysis, Office of the Secretary, and Michael Hickey of the Office of the Solicitor.

List of Subjects

43 CFR Part 2800

Communications, Electric power, Highways and roads, Penalties, Public lands and rights-of-way, and Reporting and recordkeeping requirements.

43 CFR Part 2880

Administrative practice and procedures, Common carriers, Pipelines, Public lands rights-of-way, and Reporting and recordkeeping requirements.

43 CFR Part 2920

Penalties, Public lands, and Reporting and recordkeeping requirements.

C. Stephen Allred,
Assistant Secretary, Land and Minerals Management.

Accordingly, the BLM proposes to amend 43 CFR parts 2800, 2880, and 2920 as set forth below:

PART 2800—RIGHTS-OF-WAY UNDER THE FEDERAL LAND POLICY MANAGEMENT ACT

1. The authority citation for part 2800 continues to read as follows:

Authority: 43 U.S.C. 1733, 1740, 1763, and 1764.

2. Amend § 2805.11 by revising paragraph (b)(2) to read as follows:

§ 2805.11 What does a grant contain?

* * * * *

(b) * * *

(2) All grants, except those issued for a term of 3 years or less and those issued in perpetuity, will terminate on December 31 of the final year of the grant.

* * * * *

3. Amend § 2805.14 by revising paragraph (f) to read as follows:

§ 2805.14 What rights does a grant convey?

* * * * *

(f) Assign the grant to another, provided that you obtain the BLM's prior written approval, unless your grant specifically states that such approval is unnecessary.

4. Amend § 2806.14 by redesignating the introductory text and paragraphs (a), (b), (b)(1), (b)(2), (c), and (d) as paragraphs (a) introductory text, (a)(1), (a)(2), (a)(2)(i), (a)(2)(ii), (a)(3), and (a)(4), respectively, and by adding a new paragraph (b) to read as follows:

§ 2806.14 Under what circumstances am I exempt from paying rent?

* * * * *

(b) The exemptions in this section do not apply if you are in trespass.

5. Revise § 2806.20 to read as follows:

§ 2806.20 What is the rent for a linear right-of-way grant?

(a) Except as described in § 2806.26 of this chapter, the BLM will use the Per Acre Rent Schedule (see paragraph (c) of this section) to calculate rent for all linear right-of-way authorizations, regardless of the granting authority (FLPMA, MLA, and their predecessors). Counties (or other geographical areas) are assigned to an appropriate zone in accordance with § 2806.21. The BLM will adjust the per acre rent values in the schedule annually in accordance with § 2806.22(a), and it will revise the schedule at the end of each 10-year period starting with the base year of 2002 in accordance with §§ 2806.22(b) and (c).

(b) The annual per acre rent for all types of linear right-of-way facilities is the product of three factors: The per acre zone value multiplied by the encumbrance factor multiplied by the rate of return.

(c) You may obtain a copy of the current Per Acre Rent Schedule from any BLM state or field office or by writing: Director, BLM, 1849 C St., NW., Mail Stop 1000 LS, Washington, DC 20240. The BLM also posts the current rent schedule on the BLM Homepage on the Internet at http://www.blm.gov.

6. Redesignate §§ 2806.21, 2806.22, and 2806.23 as §§ 2806.22, 2806.23, and 2806.24, respectively, and add new § 2806.21 to read as follows:

§ 2806.21 When and how are counties or other geographical areas assigned to a County Zone Number and Per Acre Zone Value?

Counties (or other geographical areas) are assigned to a County Zone Number and Per Acre Zone Value based upon their average per acre land and building value published in the Census of Agriculture (Census) by the National Agricultural Statistics Service (NASS). The initial assignment of counties to the zones in the base year (2002) Per Acre Rent Schedule is based upon data contained in the most recent NASS Census (2002). Subsequent assignments of counties will occur every 5 years following the publication of the NASS Census.

7. Revise redesignated § 2806.22 to read as follows:

§ 2806.22 When and how does the Per Acre Rent Schedule change?

(a) The BLM will adjust the per acre rent values in § 2806.20 for all types of linear right-of-way facilities in each zone each calendar year based on the difference in the U.S. Department of Labor Consumer Price Index for All Urban Consumers, U.S. City Average (CPI-U), from January of one year to January of the following year.

(b) The BLM will review the NASS Census data from the 2012 NASS Census, and each subsequent 10-year period, and as appropriate, revise the number of county zones and the per acre zone values. Any revision must include 100 percent of the number of counties and listed geographical areas for all states and the Commonwealth of Puerto Rico and must reasonably reflect their average per acre land and building values contained in the NASS Census.

(c) The BLM will revise the Per Acre Rent Schedule at the end of calendar year 2011 and at the end of each 10-year period thereafter to reflect the average rate of return for the preceding 10-year period for the 30-year Treasury bond yield (or the 20-year Treasury bond yield if the 30-year Treasury bond yield is not available).

8. Revise redesignated § 2806.23 to read as follows:

§ 2806.23 How will the BLM calculate my rent for linear rights-of-way the Per Acre Rent Schedule covers?

(a) Except as provided by §§ 2806.25 and 2806.26, the BLM calculates your rent by multiplying the rent per acre for the appropriate county (or other geographical area) zone from the current schedule by the number of acres (as rounded up to the nearest tenth of an acre) in the right-of-way area that fall in each zone and multiplying the result by the number of years in the rental period.

(b) If the BLM has not previously used the rent schedule to calculate your rent, we may do so after giving you reasonable written notice.

9. Revise redesignated § 2806.24 to read as follows:

§ 2806.24 How must I make rental payments for a linear grant?

(a) Term grants. For linear grants, except those issued in perpetuity, you must make either nonrefundable annual payments or a nonrefundable payment for more than 1 year, as follows:

(1) One-time payments. You may pay in advance the total rent amount for the entire term of the grant or any remaining years.

(2) Multiple payments. If you choose not to make a one-time payment, you must pay according to one of the following methods:

(i) Payments by individuals. If your annual rent is $100 or less, you must pay at 10-year intervals, not to exceed the term of the grant. If your annual rent is greater than $100, you may pay annually or at 10-year intervals, not to exceed the term of the grant. For example, if you have a grant with a remaining term of 30 years, you may pay in advance for 10 years, 20 years, or 30 years, but not any other multi-year period.

(ii) Payments by all others. If your annual rent is $1,000 or less, you must pay rent at 10-year intervals, not to exceed the term of the grant. If your annual rent is greater than $1,000, you may pay annually or at 10-year intervals, not to exceed the term of the grant.

(b) Perpetual grants. For linear grants issued in perpetuity (except as noted in §§ 2806.25 and 2806.26), you must make either nonrefundable annual payments or a nonrefundable payment for more than 1 year, as follows:

(1) Payments by individuals. If your annual rent is $100 or less, you must pay at 10-year intervals, not to exceed 30 years. If your annual rent is greater than $100, you may pay annually or at 10-year intervals, not to exceed 30 years.

(2) Payments by all others. If your annual rent is $1,000 or less, you must pay rent at 10-year intervals, not to exceed 30 years. If your annual rent is greater than $1,000, you may pay annually or at 10-year intervals, not to exceed 30 years.

(c) Proration of payments. The BLM considers the first partial calendar year in the initial rent payment period to be the first year of the term. The BLM prorates the first year rental amount based on the number of months left in the calendar year after the effective date of the grant.

10. Add new §§ 2806.25 and 2806.26 to read as follows:

§ 2806.25 How may I make rental payments when land encumbered by my perpetual linear grant (other than an easement issued under § 2807.15(c)) is being transferred out of Federal ownership?

(a) One-time payment option for existing perpetual grants. If you have a perpetual grant and the land your grant encumbers is being transferred out of Federal ownership, you may choose to make a one-time rental payment. The BLM will determine the one-time payment for a perpetual grant by dividing the current annual rent for the subject property by an overall capitalization rate calculated from market data, where the overall capitalization rate is the difference between a market yield rate and a percent annual rent increase as described in the formula in paragraphs (a)(1), (2), and (3) of this section. The formula for this calculation is: One-time Rental Payment = Annual Rent /(Y−CR), where:

(1) Annual Rent = Current Annual Rent Applicable to the Subject Property From the Per Acre Rent Schedule;

(2) Y = Yield Rate (rate of return) Determined by the Most Recent 10-Year Average of the Annual 30-Year Treasury Bond Rate as of January of each year; and

(3) CR = Annual Percent Change in Rent as Determined by the Most Recent 10-Year Average of the difference in the CPI-U Index from January of one year to January of the following year.

(b) One-time payment for grants converted to perpetual grants under § 2807.15(c). If the land your grant encumbers is being transferred out of Federal ownership, and you request a conversion of your grant to a perpetual right-of-way grant, you must make a one-time rental payment in accordance with § 2806.25(a).

(c) In paragraphs (a) and (b) of this section, the annual rent is determined from the Per Acre Rent Schedule (see § 2806.20(c)) as updated under § 2806.22. However, the per acre zone value and zone number used in this annual rental determination will be based on the per acre zone value from acceptable market information or an appraisal, if any, for the land transfer action and not the county average per acre land and building value from the NASS Census.

(d) When no acceptable market information is available and no appraisal has been completed for the land transfer action or when the BLM requests it, you must:

(1) Prepare an appraisal report using Federal appraisal standards, at your expense, that explains how you estimated the land value per acre and the encumbrance factor; and

(2) Submit the appraisal report for consideration by the BLM State Director with jurisdiction over the lands encumbered by your authorization. If you are adversely affected by this decision, you may appeal this decision under § 2801.10 of this part.

§ 2806.26 How may I make rental payments when land encumbered by my perpetual easement issued under § 2807.15(c) is being transferred out of Federal ownership?

(a) Perpetual easements. The BLM will use the appraisal report for the land transfer action (i.e., direct or indirect land sales, land exchanges, and other land disposal actions) and other acceptable market information to determine the one-time rental payment for a perpetual easement issued under § 2807.15(c).

(b) When no acceptable market information is available and no appraisal has been completed for the land transfer action or when the BLM requests it, you must prepare an appraisal report as required under § 2806.25(d).

11. Amend § 2807.15 by revising paragraph (c) and adding a new paragraph (d) to read as follows:

§ 2807.15 How is grant administration affected if the land my grant encumbers is transferred to another Federal agency or out of Federal ownership?

* * * * *

(c) If there is a proposal to transfer the land your grant encumbers out of Federal ownership, the BLM may negotiate new grant terms and conditions with you. This may include increasing the term of your grant, should you request it, to a perpetual grant or providing for an easement. These changes become effective prior to the time the land is transferred out of Federal ownership.

(d) You and the new land owner may agree to negotiate new grant terms and conditions any time after the land encumbered by your grant is transferred out of Federal ownership.

PART 2880—RIGHTS-OF-WAY UNDER THE MINERAL LEASING ACT

12. The authority citation for part 2880 continues to read as follows:

Authority: 30 U.S.C. 185 and 189.

13. Amend § 2885.11 by revising the first sentence of paragraph (a) to read as follows:

§ 2885.11 What terms and conditions must I comply with?

(a) Duration. All grants, except those issued for a term of 3 years or less, will terminate on December 31 of the final year of the grant. * * *

* * * * *

14. Amend § 2885.12 by revising paragraph (e) to read as follows:

§ 2885.12 What rights does a grant or TUP convey?

* * * * *

(e) Assign the grant or TUP to another, provided that you obtain the BLM's prior written approval, unless your grant or TUP specifically states that such approval is unnecessary.

15. Revise § 2885.19 to read as follows:

§ 2885.19 What is the rent for a linear right-of-way grant?

(a) The BLM will use the Per Acre Rent Schedule (see paragraph (b) of this section) to calculate the rent. Counties (or other geographical areas) are assigned to a County Zone Number and Per Acre Zone Value based upon their average per acre land and building value published in the NASS Census. The initial assignment of counties to the zones in the base year (2002) Per Acre Rent Schedule is based upon data contained in the most recent NASS Census (2002). Subsequent assignments of counties will occur every 5 years following the publication of the NASS Census. The Per Acre Rent Schedule is also adjusted periodically as follows:

(1) The BLM will adjust the per acre rent values in §§ 2806.20 and 2885.19(b) for all types of linear right-of-way facilities in each zone each calendar year based on the difference in the U.S. Department of Labor Consumer Price Index for All Urban Consumers, U.S. City Average (CPI-U), from January of one year to January of the following year.

(2) The BLM will review the NASS Census data from the 2012 NASS Census, and each subsequent 10-year period, and as appropriate, revise the number of county zones and the per acre zone values. Any revision must include 100 percent of the number of counties and listed geographical areas for all states and the Commonwealth of Puerto Rico and must reasonably reflect their average per acre land and building values contained in the NASS Census.

(3) The BLM will revise the Per Acre Rent Schedule at the end of calendar year 2011 and at the end of each 10-year period thereafter to reflect the average rate of return for the preceding 10-year period for the 30-year Treasury bond yield (or the 20-year Treasury bond yield if the 30-year Treasury bond yield is not available).

(b) You may obtain a copy of the current Per Acre Rent Schedule from any BLM state or field office or by writing: Director, BLM, 1849 C St., NW., Mail Stop 1000 LS, Washington, DC 20240. The BLM also posts the current rent schedule on the BLM Homepage on the Internet at http://www.blm.gov.

16. Revise § 2885.20 to read as follows:

§ 2885.20 How will the BLM calculate my rent for linear rights-of-way the Per Acre Rent Schedule covers?

(a) Except as provided by § 2885.22, the BLM calculates your rent by multiplying the rent per acre for the appropriate county (or other geographical area) zone from the current schedule by the number of acres (as rounded up to the nearest tenth of an acre) in the right-of-way or TUP area that fall in each zone and multiplying the result by the number of years in the rental period.

(b) If you pay rent annually and the payment of your new rental amount would cause you undue financial hardship, you may qualify for a one-time, 2-year phase-in period. The BLM may require you to submit information to support your claim. If approved by the BLM, payment of the amount in excess of the previous year's rent may be phased-in by equal increments over a 2-year period. In addition, the BLM will adjust the total calculated rent for year 2 of the phase-in period by the annual index provided by § 2885.19(a)(1).

(c) If the BLM has not previously used the rent schedule to calculate your rent, we may do so after giving you reasonable written notice.

17. Revise § 2885.21 to read as follows:

§ 2885.21 How must I make rental payments for a linear grant or TUP?

(a) Term grants or TUPs. For TUPs you must make a one-time nonrefundable payment for the term of the TUP. For grants, except those which have been issued in perpetuity, you must make either nonrefundable annual payments or a nonrefundable payment for more than 1 year, as follows:

(1) One-time payments. You may pay in advance the total rent amount for the entire term of the grant or any remaining years.

(2) Multiple payments. If you choose not to make a one-time payment, you must pay according to one of the following methods:

(i) Payments by individuals. If your annual rent is $100 or less, you must pay at 10-year intervals not to exceed the term of the grant. If your annual rent is greater than $100, you may pay annually or at 10-year intervals, not to exceed the term of the grant. For example, if you have a grant with a remaining term of 30 years, you may pay in advance for 10 years, 20 years, or 30 years, but not any other multi-year period.

(ii) Payments by all others. If your annual rent is $1,000 or less, you must pay rent at 10-year intervals, not to exceed the term of the grant. If your annual rent is greater than $1,000, you may pay annually or at 10-year intervals, not to exceed the term of the grant.

(b) Perpetual grants issued prior to November 16, 1973. You must make either nonrefundable annual payments or a nonrefundable payment for more than 1 year, as follows:

(1) Payments by individuals. If your annual rent is $100 or less, you must pay at 10-year intervals, not to exceed 30 years. If your annual rent is greater than $100, you may pay annually or at 10-year intervals, not to exceed 30 years.

(2) Payments by all others. If your annual rent is $1,000 or less, you must pay rent at 10-year intervals, not to exceed 30 years. If your annual rent is greater than $1,000, you may pay annually or at 10-year intervals, not to exceed 30 years.

(c) Proration of payments. The BLM considers the first partial calendar year in the initial rent payment period to be the first year of the term. The BLM prorates the first year rental amount based on the number of months left in the calendar year after the effective date of the grant.

18. Redesignate §§ 2885.22, 2885.23, and 2885.24 as §§ 2885.23, 2885.24, and 2885.25, respectively, and add new § 2885.22 to read as follows:

§ 2885.22 How may I make rental payments when land encumbered by my perpetual linear grant is being transferred out of Federal ownership?

(a) One-time payment option for existing perpetual grants issued prior to November 16, 1973. If you have a perpetual grant and the land your grant encumbers is being transferred out of Federal ownership, you may choose to make a one-time rental payment. The BLM will determine the one-time payment for perpetual right-of-way grants by dividing the current annual rent for the subject property by an overall capitalization rate calculated from market data, where the overall capitalization rate is the difference between a market yield rate and a percent annual rent increase as described in the formula in paragraphs (a)(1), (2), and (3) of this section. The formula for this calculation is: One-time Payment = Annual Rent/(Y − CR), where:

(1) Annual Rent = Current Annual Rent Applicable to the Subject Property From the Per Acre Rent Schedule;

(2) Y = Yield Rate Determined by the Most Recent 10-Year Average of the Annual 30-Year Treasury Bond Rate as of January of each year; and

(3) CR = Annual Percent Change in Rent as Determined by the Most Recent 10-Year Average of the difference in the CPI-U Index from January of one year to January of the following year.

(b) In paragraph (a) of this section, the annual rent is determined from the Per Acre Rent Schedule (see § 2885.19(b)), as updated under § 2885.19(a)(1), (2), and (3) of this chapter. However, the per acre zone value and zone number used in this annual rental determination will be based on the per acre value from acceptable market information or an appraisal, if any, for the land transfer action and not the county average per acre land and building value from the NASS Census.

(c) When no acceptable market information is available and no appraisal has been completed for the land transfer action, or when the BLM requests it, you must prepare an appraisal report as required under § 2806.25(d) of this chapter.

19. Amend § 2886.15 by revising paragraph (c) and adding new paragraph (d) to read as follows:

§ 2886.15 How is grant or TUP administration affected if the BLM land my grant or TUP encumbers is transferred to another Federal agency or out of Federal ownership?

* * * * *

(c) If there is a proposal to transfer the land your grant or TUP encumbers out of Federal ownership, the BLM may negotiate new grant or TUP terms and conditions with you. This may include increasing the term of your grant, should you request it, to a 30-year term or replacing your TUP with a grant. These changes become effective prior to the time the land is transferred out of Federal ownership.

(d) You and the new landowner may agree to negotiate new grant or TUP terms and conditions any time after the land encumbered by your grant is transferred out of Federal ownership.

20. Amend § 2888.10 by revising paragraph (c) to read as follows:

§ 2888.10 What is trespass?

* * * * *

(c) The BLM will administer trespass actions for grants and TUPs as set forth in §§ 2808.10(c), and 2808.11 of this chapter.

* * * * *

PART 2920—LEASES, PERMITS, AND EASEMENTS

21. The authority citation for part 2920 continues to read as follows:

Authority: 43 U.S.C. 1740.

22. Amend § 2920.6(b) by revising the second sentence of paragraph (b) to read as follows:

§ 2920.6 Reimbursement of costs.

* * * * *

(b) * * * The reimbursement of costs shall be in accordance with the provisions of §§ 2804.14 and 2805.16 of this title.

* * * * *

23. Amend § 2920.8 by revising paragraph (b) to read as follows:

§ 2920.8 Fees.

* * * * *

(b) Processing and monitoring fee. Each request for renewal, transfer, or assignment of a lease or easement shall be accompanied by a non-refundable processing and monitoring fee determined in accordance with the provisions of §§ 2804.14 and 2805.16 of this title.

Note— The following 2002 NASS Census per acre land and building value and rent schedule zones is printed for information only and will not appear in Title 43 of the Code of Federal Regulations.

2002 Per Acre Land and Building (L/B) Value and Rent Schedule Zone
State | County | 2002 L/B values | Rent schedule zone
Alabama | Autauga | $1,879 | 5
Alabama | Baldwin | 2,502 | 6
Alabama | Barbour | 1,197 | 4
Alabama | Bibb | 1,712 | 5
Alabama | Blount | 2,556 | 6
Alabama | Bullock | 1,432 | 4
Alabama | Butler | 1,547 | 5
Alabama | Calhoun | 2,598 | 6
Alabama | Chambers | 994 | 3
Alabama | Cherokee | 1,542 | 5
Alabama | Chilton | 1,796 | 5
Alabama | Choctaw | 1,283 | 4
Alabama | Clarke | 1,303 | 4
Alabama | Clay | 1,390 | 4
Alabama | Cleburne | 1,921 | 5
Alabama | Coffee | 1,201 | 4
Alabama | Colbert | 1,380 | 4
Alabama | Conecuh | 1,109 | 4
Alabama | Coosa | 1,350 | 4
Alabama | Covington | 1,616 | 5
Alabama | Crenshaw | 1,330 | 4
Alabama | Cullman | 3,167 | 7
Alabama | Dale | 1,422 | 4
Alabama | Dallas | 1,173 | 4
Alabama | DeKalb | 2,392 | 6
Alabama | Elmore | 1,968 | 5
Alabama | Escambia | 1,426 | 4
Alabama | Etowah | 2,856 | 6
Alabama | Fayette | 1,108 | 4
Alabama | Franklin | 1,415 | 4
Alabama | Geneva | 1,513 | 5
Alabama | Greene | 1,102 | 4
Alabama | Hale | 1,164 | 4
Alabama | Henry | 1,199 | 4
Alabama | Houston | 1,342 | 4
Alabama | Jackson | 2,197 | 6
Alabama | Jefferson | 2,607 | 6
Alabama | Lamar | 1,161 | 4
Alabama | Lauderdale | 1,807 | 5
Alabama | Lawrence | 1,716 | 5
Alabama | Lee | 2,280 | 6
Alabama | Limestone | 2,212 | 6
Alabama | Lowndes | 1,144 | 4
Alabama | Macon | 1,315 | 4
Alabama | Madison | 2,161 | 6
Alabama | Marengo | 1,001 | 4
Alabama | Marion | 1,484 | 4
Alabama | Marshall | 2,725 | 6
Alabama | Mobile | 3,361 | 7
Alabama | Monroe | 1,367 | 4
Alabama | Montgomery | 1,948 | 5
Alabama | Morgan | 2,812 | 6
Alabama | Perry | 955 | 3
Alabama | Pickens | 1,252 | 4
Alabama | Pike | 1,423 | 4
Alabama | Randolph | 1,898 | 5
Alabama | Russell | 1,304 | 4
Alabama | Shelby | 2,795 | 6
Alabama | St. Clair | 2,364 | 6
Alabama | Sumter | 1,018 | 4
Alabama | Talladega | 2,567 | 6
Alabama | Tallapoosa | 1,448 | 4
Alabama | Tuscaloosa | 1,972 | 5
Alabama | Walker | 1,731 | 5
Alabama | Washington | 1,493 | 4
Alabama | Wilcox | 1,013 | 4
Alabama | Winston | 1,887 | 5
Alaska | Aleutian Islands Area** | 107 | 1
Alaska | Anchorage Area** | 2,299 | 6
Alaska | Fairbanks Area** | 655 | 3
Alaska | Juneau Area** | 44,679 | 11
Alaska | Kenai Peninsula** | 1,412 | 4
Arizona | Apache | 145 | 1
Arizona | Cochise | 631 | 3
Arizona | Coconino | 161 | 1
Arizona | Gila | 275 | 2
Arizona | Graham | 480 | 2
Arizona | Greenlee | 1,505 | 5
Arizona | La Paz | 629 | 3
Arizona | Maricopa | 3,026 | 7
Arizona | Mohave | 435 | 2
Arizona | Navajo | 179 | 1
Arizona | Pima | 295 | 2
Arizona | Pinal | 1,230 | 4
Arizona | Santa Cruz | 1,434 | 4
Arizona | Yavapai | 621 | 3
Arizona | Yuma | 4,544 | 7
Arkansas | Arkansas | 1,400 | 4
Arkansas | Ashley | 1,364 | 4
Arkansas | Baxter | 1,697 | 5
Arkansas | Benton | 3,031 | 7
Arkansas | Boone | 1,809 | 5
Arkansas | Bradley | 1,898 | 5
Arkansas | Calhoun | 1,278 | 4
Arkansas | Carroll | 1,670 | 5
Arkansas | Chicot | 1,171 | 4
Arkansas | Clark | 1,431 | 4
Arkansas | Clay | 1,626 | 5
Arkansas | Cleburne | 1,722 | 5
Arkansas | Cleveland | 2,195 | 6
Arkansas | Columbia | 1,559 | 5
Arkansas | Conway | 1,672 | 5
Arkansas | Craighead | 1,720 | 5
Arkansas | Crawford | 1,757 | 5
Arkansas | Crittenden | 1,290 | 4
Arkansas | Cross | 1,385 | 4
Arkansas | Dallas | 1,304 | 4
Arkansas | Desha | 1,103 | 4
Arkansas | Drew | 1,255 | 4
Arkansas | Faulkner | 1,823 | 5
Arkansas | Franklin | 1,589 | 5
Arkansas | Fulton | 1,019 | 4
Arkansas | Garland | 2,260 | 6
Arkansas | Grant | 1,716 | 5
Arkansas | Greene | 1,556 | 5
Arkansas | Hempstead | 1,396 | 4
Arkansas | Hot Spring | 1,553 | 5
Arkansas | Howard | 1,647 | 5
Arkansas | Independence | 1,243 | 4
Arkansas | Izard | 1,153 | 4
Arkansas | Jackson | 1,184 | 4
Arkansas | Jefferson | 1,216 | 4
Arkansas | Johnson | 2,234 | 6
Arkansas | Lafayette | 1,067 | 4
Arkansas | Lawrence | 1,275 | 4
Arkansas | Lee | 1,033 | 4
Arkansas | Lincoln | 1,146 | 4
Arkansas | Little River | 1,121 | 4
Arkansas | Logan | 1,522 | 5
Arkansas | Lonoke | 1,389 | 4
Arkansas | Madison | 1,371 | 4
Arkansas | Marion | 1,312 | 4
Arkansas | Miller | 1,045 | 4
Arkansas | Mississippi | 1,351 | 4
Arkansas | Monroe | 1,169 | 4
Arkansas | Montgomery | 1,499 | 4
Arkansas | Nevada | 1,075 | 4
Arkansas | Newton | 1,495 | 4
Arkansas | Ouachita | 1,428 | 4
Arkansas | Perry | 1,772 | 5
Arkansas | Phillips | 1,045 | 4
Arkansas | Pike | 1,787 | 5
Arkansas | Poinsett | 1,590 | 5
Arkansas | Polk | 1,713 | 5
Arkansas | Pope | 1,946 | 5
Arkansas | Prairie | 1,245 | 4
Arkansas | Pulaski | 1,767 | 5
Arkansas | Randolph | 1,291 | 4
Arkansas | Saline | 2,393 | 6
Arkansas | Scott | 1,584 | 5
Arkansas | Searcy | 994 | 3
Arkansas | Sebastian | 2,146 | 6
Arkansas | Sevier | 1,698 | 5
Arkansas | Sharp | 1,022 | 4
Arkansas | St. Francis | 1,217 | 4
Arkansas | Stone | 1,013 | 4
Arkansas | Union | 2,138 | 6
Arkansas | Van Buren | 1,425 | 4
Arkansas | Washington | 2,779 | 6
Arkansas | White | 1,586 | 5
Arkansas | Woodruff | 1,135 | 4
Arkansas | Yell | 1,277 | 4
California | Alameda | 2,787 | 6
California | Alpine | 2,500 | 6
California | Amador | 1,941 | 5
California | Butte | 4,401 | 7
California | Calaveras | 1,791 | 5
California | Colusa | 2,636 | 6
California | Contra Costa | 8,044 | 8
California | Del Norte | 4,291 | 7
California | El Dorado | 2,846 | 6
California | Fresno | 3,612 | 7
California | Glenn | 2,396 | 6
California | Humboldt | 1,187 | 4
California | Imperial | 2,976 | 6
California | Inyo | 971 | 3
California | Kern | 1,816 | 5
California | Kings | 3,643 | 7
California | Lake | 4,981 | 7
California | Lassen | 694 | 3
California | Los Angeles | 15,544 | 9
California | Madera | 3,120 | 7
California | Marin | 3,657 | 7
California | Mariposa | 1,005 | 4
California | Mendocino | 2,346 | 6
California | Merced | 3,826 | 7
California | Modoc | 692 | 3
California | Mono | 1,561 | 5
California | Monterey | 3,248 | 7
California | Napa | 19,350 | 9
California | Nevada | 3,418 | 7
California | Orange | 10,661 | 9
California | Placer | 4,849 | 7
California | Plumas | 1,022 | 4
California | Riverside | 4,830 | 7
California | Sacramento | 4,485 | 7
California | San Benito | 1,878 | 5
California | San Bernardino | 2,144 | 6
California | San Diego | 7,635 | 8
California | San Francisco | 32,239 | 11
California | San Joaquin | 6,673 | 8
California | San Luis Obispo | 2,676 | 6
California | San Mateo | 5,979 | 8
California | Santa Barbara | 3,684 | 7
California | Santa Clara | 2,887 | 6
California | Santa Cruz | 9,335 | 8
California | Shasta | 1,733 | 5
California | Sierra | 1,512 | 5
California | Siskiyou | 1,435 | 4
California | Solano | 3,834 | 7
California | Sonoma | 11,058 | 9
California | Stanislaus | 6,068 | 8
California | Sutter | 4,064 | 7
California | Tehama | 1,658 | 5
California | Trinity | 639 | 3
California | Tulare | 3,949 | 7
California | Tuolumne | 1,664 | 5
California | Ventura | 8,839 | 8
California | Yolo | 3,645 | 7
California | Yuba | 3,444 | 7
Colorado | Adams | 901 | 3
Colorado | Alamosa | 1,206 | 4
Colorado | Arapahoe | 853 | 3
Colorado | Archuleta | 1,277 | 4
Colorado | Baca | 292 | 2
Colorado | Bent | 320 | 2
Colorado | Boulder | 7,639 | 8
Colorado | Broomfield* | 756 | 3
Colorado | Chaffee | 2,093 | 6
Colorado | Cheyenne | 324 | 2
Colorado | Clear Creek | 1,665 | 5
Colorado | Conejos | 838 | 3
Colorado | Costilla | 501 | 3
Colorado | Crowley | 282 | 2
Colorado | Custer | 1,552 | 5
Colorado | Delta | 2,093 | 6
Colorado | Denver* | 756 | 3
Colorado | Dolores | 946 | 3
Colorado | Douglas | 3,065 | 7
Colorado | Eagle | 1,509 | 5
Colorado | El Paso | 880 | 3
Colorado | Elbert | 694 | 3
Colorado | Fremont | 1,044 | 4
Colorado | Garfield | 1,293 | 4
Colorado | Gilpin | 2,787 | 6
Colorado | Grand | 1,206 | 4
Colorado | Gunnison | 1,853 | 5
Colorado | Hinsdale | 2,926 | 6
Colorado | Huerfano | 429 | 2
Colorado | Jackson | 520 | 3
Colorado | Jefferson | 4,896 | 7
Colorado | Kiowa | 307 | 2
Colorado | Kit Carson | 464 | 2
Colorado | La Plata | 1,020 | 4
Colorado | Lake | 1,381 | 4
Colorado | Larimer | 2,311 | 6
Colorado | Las Animas | 243 | 1
Colorado | Lincoln | 251 | 2
Colorado | Logan | 560 | 3
Colorado | Mesa | 1,426 | 4
Colorado | Mineral | 1,562 | 5
Colorado | Moffat | 416 | 2
Colorado | Montezuma | 516 | 3
Colorado | Montrose | 1,180 | 4
Colorado | Morgan | 801 | 3
Colorado | Otero | 382 | 2
Colorado | Ouray | 1,505 | 5
Colorado | Park | 784 | 3
Colorado | Phillips | 718 | 3
Colorado | Pitkin | 5,926 | 8
Colorado | Prowers | 417 | 2
Colorado | Pueblo | 491 | 2
Colorado | Rio Blanco | 669 | 3
Colorado | Rio Grande | 1,827 | 5
Colorado | Routt | 1,890 | 5
Colorado | Saguache | 709 | 3
Colorado | San Juan* | 756 | 3
Colorado | San Miguel | 962 | 3
Colorado | Sedgwick | 735 | 3
Colorado | Summit | 1,766 | 5
Colorado | Teller | 1,284 | 4
Colorado | Washington | 417 | 2
Colorado | Weld | 1,379 | 4
Colorado | Yuma | 573 | 3
Connecticut | Fairfield | 26,164 | 10
Connecticut | Hartford | 13,193 | 9
Connecticut | Litchfield | 8,611 | 8
Connecticut | Middlesex | 12,457 | 9
Connecticut | New Haven | 13,630 | 9
Connecticut | New London | 6,889 | 8
Connecticut | Tolland | 5,665 | 8
Connecticut | Windham | 6,577 | 8
Delaware | Kent | 3,498 | 7
Delaware | New Castle | 5,681 | 8
Delaware | Sussex | 3,951 | 7
Florida | Alachua | 3,222 | 7
Florida | Baker | 3,954 | 7
Florida | Bay | 2,626 | 6
Florida | Bradford | 2,485 | 6
Florida | Brevard | 2,385 | 6
Florida | Broward | 20,423 | 10
Florida | Calhoun | 1,596 | 5
Florida | Charlotte | 1,726 | 5
Florida | Citrus | 2,498 | 6
Florida | Clay | 2,482 | 6
Florida | Collier | 2,660 | 6
Florida | Columbia | 1,515 | 5
Florida | Dade | 9,726 | 8
Florida | DeSoto | 2,415 | 6
Florida | Dixie | 1,803 | 5
Florida | Duval | 6,061 | 8
Florida | Escambia | 2,383 | 6
Florida | Flagler | 1,634 | 5
Florida | Franklin | 1,165 | 4
Florida | Gadsden | 2,421 | 6
Florida | Gilchrist | 2,322 | 6
Florida | Glades | 1,849 | 5
Florida | Gulf | 1,886 | 5
Florida | Hamilton | 1,419 | 4
Florida | Hardee | 2,341 | 6
Florida | Hendry | 3,846 | 7
Florida | Hernando | 5,093 | 8
Florida | Highlands | 2,256 | 6
Florida | Hillsborough | 5,410 | 8
Florida | Holmes | 1,610 | 5
Florida | Indian River | 2,969 | 6
Florida | Jackson | 1,478 | 4
Florida | Jefferson | 1,850 | 5
Florida | Lafayette | 1,343 | 4
Florida | Lake | 4,290 | 7
Florida | Lee | 3,293 | 7
Florida | Leon | 2,085 | 6
Florida | Levy | 1,899 | 5
Florida | Liberty | 1,366 | 4
Florida | Madison | 1,536 | 5
Florida | Manatee | 3,142 | 7
Florida | Marion | 4,992 | 7
Florida | Martin | 2,604 | 6
Florida | Monroe | 20,695 | 10
Florida | Nassau | 4,773 | 7
Florida | Okaloosa | 2,539 | 6
Florida | Okeechobee | 2,037 | 6
Florida | Orange | 3,931 | 7
Florida | Osceola | 1,690 | 5
Florida | Palm Beach | 3,348 | 7
Florida | Pasco | 3,863 | 7
Florida | Pinellas | 31,732 | 11
Florida | Polk | 2,899 | 6
Florida | Putnam | 2,480 | 6
Florida | Santa Rosa | 2,649 | 6
Florida | Sarasota | 2,995 | 6
Florida | Seminole | 6,137 | 8
Florida | St. Johns | 4,315 | 7
Florida | St. Lucie | 3,239 | 7
Florida | Sumter | 2,405 | 6
Florida | Suwannee | 2,503 | 6
Florida | Taylor | 1,292 | 4
Florida | Union | 1,318 | 4
Florida | Volusia | 4,357 | 7
Florida | Wakulla | 2,891 | 6
Florida | Walton | 1,889 | 5
Florida | Washington | 2,288 | 6
Georgia | Appling | 1,566 | 5
Georgia | Atkinson | 1,419 | 4
Georgia | Bacon | 2,180 | 6
Georgia | Baker | 1,751 | 5
Georgia | Baldwin | 2,344 | 6
Georgia | Banks | 5,033 | 8
Georgia | Barrow | 5,785 | 8
Georgia | Bartow | 2,914 | 6
Georgia | Ben Hill | 1,432 | 4
Georgia | Berrien | 1,680 | 5
Georgia | Bibb | 2,354 | 6
Georgia | Bleckley | 1,647 | 5
Georgia | Brantley | 1,602 | 5
Georgia | Brooks | 1,602 | 5
Georgia | Bryan | 1,687 | 5
Georgia | Bulloch | 1,629 | 5
Georgia | Burke | 1,344 | 4
Georgia | Butts | 2,036 | 6
Georgia | Calhoun | 1,298 | 4
Georgia | Camden | 1,615 | 5
Georgia | Candler | 1,354 | 4
Georgia | Carroll | 3,897 | 7
Georgia | Catoosa | 3,877 | 7
Georgia | Charlton | 1,933 | 5
Georgia | Chatham | 2,062 | 6
Georgia | Chattahoochee | 1,476 | 4
Georgia | Chattooga | 1,699 | 5
Georgia | Cherokee | 8,357 | 8
Georgia | Clarke | 4,092 | 7
Georgia | Clay | 1,027 | 4
Georgia | Clayton | 5,439 | 8
Georgia | Clinch | 1,693 | 5
Georgia | Cobb | 9,113 | 8
Georgia | Coffee | 1,584 | 5
Georgia | Colquitt | 1,583 | 5
Georgia | Columbia | 4,048 | 7
Georgia | Cook | 1,864 | 5
Georgia | Coweta | 5,540 | 8
Georgia | Crawford | 1,992 | 5
Georgia | Crisp | 1,745 | 5
Georgia | Dade | 2,061 | 6
Georgia | Dawson | 4,574 | 7
Georgia | Decatur | 1,653 | 5
Georgia | DeKalb | 6,478 | 8
Georgia | Dodge | 1,026 | 4
Georgia | Dooly | 1,304 | 4
Georgia | Dougherty | 1,329 | 4
Georgia | Douglas | 5,803 | 8
Georgia | Early | 1,319 | 4
Georgia | Echols | 1,602 | 5
Georgia | Effingham | 1,740 | 5
Georgia | Elbert | 2,142 | 6
Georgia | Emanuel | 1,225 | 4
Georgia | Evans | 1,655 | 5
Georgia | Fannin | 3,549 | 7
Georgia | Fayette | 5,006 | 8
Georgia | Floyd | 2,650 | 6
Georgia | Forsyth | 7,482 | 8
Georgia | Franklin | 4,557 | 7
Georgia | Fulton | 5,806 | 8
Georgia | Gilmer | 4,590 | 7
Georgia | Glascock | 1,563 | 5
Georgia | Glynn | 1,804 | 5
Georgia | Gordon | 3,896 | 7
Georgia | Grady | 1,824 | 5
Georgia | Greene | 2,908 | 6
Georgia | Gwinnett | 6,474 | 8
Georgia | Habersham | 5,286 | 8
Georgia | Hall | 5,384 | 8
Georgia | Hancock | 1,178 | 4
Georgia | Haralson | 2,827 | 6
Georgia | Harris | 1,887 | 5
Georgia | Hart | 3,394 | 7
Georgia | Heard | 2,175 | 6
Georgia | Henry | 4,226 | 7
Georgia | Houston | 2,197 | 6
Georgia | Irwin | 1,417 | 4
Georgia | Jackson | 5,565 | 8
Georgia | Jasper | 2,249 | 6
Georgia | Jeff Davis | 1,509 | 5
Georgia | Jefferson | 1,323 | 4
Georgia | Jenkins | 1,337 | 4
Georgia | Johnson | 1,587 | 5
Georgia | Jones | 2,110 | 6
Georgia | Lamar | 2,450 | 6
Georgia | Lanier | 1,181 | 4
Georgia | Laurens | 1,359 | 4
Georgia | Lee | 1,544 | 5
Georgia | Liberty | 2,325 | 6
Georgia | Lincoln | 2,657 | 6
Georgia | Long | 1,454 | 4
Georgia | Lowndes | 2,046 | 6
Georgia | Lumpkin | 6,096 | 8
Georgia | Macon | 1,687 | 5
Georgia | Madison | 4,630 | 7
Georgia | Marion | 1,539 | 5
Georgia | McDuffie | 1,991 | 5
Georgia | McIntosh | 1,618 | 5
Georgia | Meriwether | 1,998 | 5
Georgia | Miller | 1,638 | 5
Georgia | Mitchell | 1,448 | 4
Georgia | Monroe | 2,169 | 6
Georgia | Montgomery | 1,400 | 4
Georgia | Morgan | 3,517 | 7
Georgia | Murray | 3,028 | 7
Georgia | Muscogee | 3,225 | 7
Georgia | Newton | 4,116 | 7
Georgia | Oconee | 4,845 | 7
Georgia | Oglethorpe | 3,328 | 7
Georgia | Paulding | 6,524 | 8
Georgia | Peach | 2,375 | 6
Georgia | Pickens | 5,781 | 8
Georgia | Pierce | 1,537 | 5
Georgia | Pike | 3,751 | 7
Georgia | Polk | 2,398 | 6
Georgia | Pulaski | 1,401 | 4
Georgia | Putnam | 2,723 | 6
Georgia | Quitman | 1,362 | 4
Georgia | Rabun | 6,087 | 8
Georgia | Randolph | 1,204 | 4
Georgia | Richmond | 2,917 | 6
Georgia | Rockdale | 5,718 | 8
Georgia | Schley | 1,586 | 5
Georgia | Screven | 1,355 | 4
Georgia | Seminole | 1,547 | 5
Georgia | Spalding | 4,594 | 7
Georgia | Stephens | 4,447 | 7
Georgia | Stewart | 1,406 | 4
Georgia | Sumter | 1,421 | 4
Georgia | Talbot | 1,705 | 5
Georgia | Taliaferro | 1,666 | 5
Georgia | Tattnall | 1,987 | 5
Georgia | Taylor | 1,611 | 5
Georgia | Telfair | 1,561 | 5
Georgia | Terrell | 1,356 | 4
Georgia | Thomas | 1,548 | 5
Georgia | Tift | 2,035 | 6
Georgia | Toombs | 1,528 | 5
Georgia | Towns | 3,878 | 7
Georgia | Treutlen | 1,371 | 4
Georgia | Troup | 1,625 | 5
Georgia | Turner | 1,619 | 5
Georgia | Twiggs | 1,451 | 4
Georgia | Union | 5,435 | 8
Georgia | Upson | 2,235 | 6
Georgia | Walker | 2,554 | 6
Georgia | Walton | 6,507 | 8
Georgia | Ware | 1,523 | 5
Georgia | Warren | 1,352 | 4
Georgia | Washington | 1,537 | 5
Georgia | Wayne | 1,794 | 5
Georgia | Webster | 1,430 | 4
Georgia | Wheeler | 1,214 | 4
Georgia | White | 6,020 | 8
Georgia | Whitfield | 2,460 | 6
Georgia | Wilcox | 1,313 | 4
Georgia | Wilkes | 1,743 | 5
Georgia | Wilkinson | 1,382 | 4
Georgia | Worth | 1,558 | 5
Hawaii | Hawaii | 2,822 | 6
Hawaii | Honolulu | 8,358 | 8
Hawaii | Kauai | 3,989 | 7
Hawaii | Maui | 4,112 | 7
Idaho | Ada | 3,471 | 7
Idaho | Adams | 568 | 3
Idaho | Bannock | 731 | 3
Idaho | Bear Lake | 790 | 3
Idaho | Benewah | 1,212 | 4
Idaho | Bingham | 1,151 | 4
Idaho | Blaine | 1,304 | 4
Idaho | Boise | 1,010 | 4
Idaho | Bonner | 2,909 | 6
Idaho | Bonneville | 1,303 | 4
Idaho | Boundary | 2,391 | 6
Idaho | Butte | 879 | 3
Idaho | Camas | 697 | 3
Idaho | Canyon | 4,219 | 7
Idaho | Caribou | 676 | 3
Idaho | Cassia | 986 | 3
Idaho | Clark | 647 | 3
Idaho | Clearwater | 1,285 | 4
Idaho | Custer | 1,836 | 5
Idaho | Elmore | 719 | 3
Idaho | Franklin | 1,078 | 4
Idaho | Fremont | 1,148 | 4
Idaho | Gem | 1,234 | 4
Idaho | Gooding | 2,535 | 6
Idaho | Idaho | 745 | 3
Idaho | Jefferson | 1,758 | 5
Idaho | Jerome | 1,887 | 5
Idaho | Kootenai | 2,265 | 6
Idaho | Latah | 1,400 | 4
Idaho | Lemhi | 1,228 | 4
Idaho | Lewis | 830 | 3
Idaho | Lincoln | 943 | 3
Idaho | Madison | 2,283 | 6
Idaho | Minidoka | 2,000 | 5
Idaho | Nez Perce | 853 | 3
Idaho | Oneida | 667 | 3
Idaho | Owyhee | 689 | 3
Idaho | Payette | 1,735 | 5
Idaho | Power | 986 | 3
Idaho | Shoshone | 3,442 | 7
Idaho | Teton | 2,462 | 6
Idaho | Twin Falls | 1,946 | 5
Idaho | Valley | 1,524 | 5
Idaho | Washington | 736 | 3
Illinois | Adams | 2,030 | 6
Illinois | Alexander | 1,305 | 4
Illinois | Bond | 2,103 | 6
Illinois | Boone | 3,424 | 7
Illinois | Brown | 1,662 | 5
Illinois | Bureau | 2,655 | 6
Illinois | Calhoun | 1,558 | 5
Illinois | Carroll | 2,377 | 6
Illinois | Cass | 2,102 | 6
Illinois | Champaign | 2,890 | 6
Illinois | Christian | 2,530 | 6
Illinois | Clark | 1,950 | 5
Illinois | Clay | 1,585 | 5
Illinois | Clinton | 2,466 | 6
Illinois | Coles | 2,716 | 6
Illinois | Cook | 6,286 | 8
Illinois | Crawford | 1,713 | 5
Illinois | Cumberland | 2,123 | 6
Illinois | De Witt | 3,012 | 7
Illinois | DeKalb | 3,759 | 7
Illinois | Douglas | 2,970 | 6
Illinois | DuPage | 5,056 | 8
Illinois | Edgar | 2,341 | 6
Illinois | Edwards | 1,591 | 5
Illinois | Effingham | 2,170 | 6
Illinois | Fayette | 1,714 | 5
Illinois | Ford | 2,608 | 6
Illinois | Franklin | 1,573 | 5
Illinois | Fulton | 1,886 | 5
Illinois | Gallatin | 1,497 | 4
Illinois | Greene | 1,855 | 5
Illinois | Grundy | 3,096 | 7
Illinois | Hamilton | 1,622 | 5
Illinois | Hancock | 2,544 | 6
Illinois | Hardin | 1,736 | 5
Illinois | Henderson | 2,253 | 6
Illinois | Henry | 2,458 | 6
Illinois | Iroquois | 2,402 | 6
Illinois | Jackson | 1,672 | 5
Illinois | Jasper | 2,008 | 6
Illinois | Jefferson | 1,333 | 4
Illinois | Jersey | 2,152 | 6
Illinois | Jo Daviess | 2,190 | 6
Illinois | Johnson | 1,363 | 4
Illinois | Kane | 3,857 | 7
Illinois | Kankakee | 2,812 | 6
Illinois | Kendall | 4,206 | 7
Illinois | Knox | 2,380 | 6
Illinois | La Salle | 3,106 | 7
Illinois | Lake | 4,655 | 7
Illinois | Lawrence | 1,766 | 5
Illinois | Lee | 2,998 | 6
Illinois | Livingston | 2,658 | 6
Illinois | Logan | 2,808 | 6
Illinois | Macon | 3,057 | 7
Illinois | Macoupin | 2,363 | 6
Illinois | Madison | 2,477 | 6
Illinois | Marion | 1,608 | 5
Illinois | Marshall | 2,704 | 6
Illinois | Mason | 2,183 | 6
Illinois | Massac | 1,251 | 4
Illinois | McDonough | 2,247 | 6
Illinois | McHenry | 4,262 | 7
Illinois | McLean | 2,912 | 6
Illinois | Menard | 2,421 | 6
Illinois | Mercer | 2,216 | 6
Illinois | Monroe | 2,542 | 6
Illinois | Montgomery | 2,033 | 6
Illinois | Morgan | 2,400 | 6
Illinois | Moultrie | 2,952 | 6
Illinois | Ogle | 3,131 | 7
Illinois | Peoria | 2,754 | 6
Illinois | Perry | 1,423 | 4
Illinois | Piatt | 2,981 | 6
Illinois | Pike | 1,840 | 5
Illinois | Pope | 1,155 | 4
Illinois | Pulaski | 1,418 | 4
Illinois | Putnam | 2,888 | 6
Illinois | Randolph | 1,939 | 5
Illinois | Richland | 1,794 | 5
Illinois | Rock Island | 2,642 | 6
Illinois | Saline | 1,538 | 5
Illinois | Sangamon | 2,829 | 6
Illinois | Schuyler | 1,599 | 5
Illinois | Scott | 2,053 | 6
Illinois | Shelby | 2,341 | 6
Illinois | St. Clair | 2,759 | 6
Illinois | Stark | 2,631 | 6
Illinois | Stephenson | 2,388 | 6
Illinois | Tazewell | 2,862 | 6
Illinois | Union | 1,944 | 5
Illinois | Vermilion | 2,467 | 6
Illinois | Wabash | 1,722 | 5
Illinois | Warren | 2,518 | 6
Illinois | Washington | 1,900 | 5
Illinois | Wayne | 1,239 | 4
Illinois | White | 1,609 | 5
Illinois | Whiteside | 2,540 | 6
Illinois | Will | 4,652 | 7
Illinois | Williamson | 2,011 | 6
Illinois | Winnebago | 2,956 | 6
Illinois | Woodford | 2,993 | 6
Indiana | Adams | 2,880 | 6
Indiana | Allen | 3,349 | 7
Indiana | Bartholomew | 2,958 | 6
Indiana | Benton | 2,494 | 6
Indiana | Blackford | 2,200 | 6
Indiana | Boone | 3,194 | 7
Indiana | Brown | 2,766 | 6
Indiana | Carroll | 2,733 | 6
Indiana | Cass | 2,389 | 6
Indiana | Clark | 3,276 | 7
Indiana | Clay | 2,026 | 6
Indiana | Clinton | 2,728 | 6
Indiana | Crawford | 1,825 | 5
Indiana | Daviess | 2,025 | 6
Indiana | Dearborn | 3,242 | 7
Indiana | Decatur | 2,641 | 6
Indiana | DeKalb | 2,203 | 6
Indiana | Delaware | 2,540 | 6
Indiana | Dubois | 2,316 | 6
Indiana | Elkhart | 3,803 | 7
Indiana | Fayette | 2,292 | 6
Indiana | Floyd | 3,666 | 7
Indiana | Fountain | 2,217 | 6
Indiana | Franklin | 2,491 | 6
Indiana | Fulton | 2,045 | 6
Indiana | Gibson | 2,280 | 6
Indiana | Grant | 2,532 | 6
Indiana | Greene | 2,000 | 5
Indiana | Hamilton | 4,062 | 7
Indiana | Hancock | 3,220 | 7
Indiana | Harrison | 2,568 | 6
Indiana | Hendricks | 3,403 | 7
Indiana | Henry | 2,738 | 6
Indiana | Howard | 3,064 | 7
Indiana | Huntington | 2,492 | 6
Indiana | Jackson | 2,443 | 6
Indiana | Jasper | 2,436 | 6
Indiana | Jay | 2,552 | 6
Indiana | Jefferson | 2,397 | 6
Indiana | Jennings | 2,179 | 6
Indiana | Johnson | 3,776 | 7
Indiana | Knox | 2,156 | 6
Indiana | Kosciusko | 2,720 | 6
Indiana | LaGrange | 3,544 | 7
Indiana | Lake | 3,392 | 7
Indiana | LaPorte | 2,653 | 6
Indiana | Lawrence | 1,575 | 5
Indiana | Madison | 2,816 | 6
Indiana | Marion | 4,413 | 7
Indiana | Marshall | 2,357 | 6
Indiana | Martin | 1,938 | 5
Indiana | Miami | 2,406 | 6
Indiana | Monroe | 2,444 | 6
Indiana | Montgomery | 2,424 | 6
Indiana | Morgan | 3,161 | 7
Indiana | Newton | 2,392 | 6
Indiana | Noble | 2,742 | 6
Indiana | Ohio | 3,262 | 7
Indiana | Orange | 1,901 | 5
Indiana | Owen | 2,031 | 6
Indiana | Parke | 2,051 | 6
Indiana | Perry | 1,809 | 5
Indiana | Pike | 2,051 | 6
Indiana | Porter | 3,150 | 7
Indiana | Posey | 2,237 | 6
Indiana | Pulaski | 2,321 | 6
Indiana | Putnam | 2,426 | 6
Indiana | Randolph | 2,122 | 6
Indiana | Ripley | 2,517 | 6
Indiana | Rush | 2,624 | 6
Indiana | Scott | 2,223 | 6
Indiana | Shelby | 2,801 | 6
Indiana | Spencer | 1,941 | 5
Indiana | St. Joseph | 2,914 | 6
Indiana | Starke | 2,045 | 6
Indiana | Steuben | 2,292 | 6
Indiana | Sullivan | 1,975 | 5
Indiana | Switzerland | 2,439 | 6
Indiana | Tippecanoe | 2,864 | 6
Indiana | Tipton | 3,265 | 7
Indiana | Union | 2,475 | 6
Indiana | Vanderburgh | 2,562 | 6
Indiana | Vermillion | 2,291 | 6
Indiana | Vigo | 2,165 | 6
Indiana | Wabash | 2,540 | 6
Indiana | Warren | 2,445 | 6
Indiana | Warrick | 2,399 | 6
Indiana | Washington | 2,238 | 6
Indiana | Wayne | 2,224 | 6
Indiana | Wells | 2,356 | 6
Indiana | White | 2,535 | 6
Indiana | Whitley | 2,515 | 6
Iowa | Adair | 1,464 | 4
Iowa | Adams | 1,421 | 4
Iowa | Allamakee | 1,524 | 5
Iowa | Appanoose | 926 | 3
Iowa | Audubon | 1,840 | 5
Iowa | Benton | 2,374 | 6
Iowa | Black Hawk | 2,786 | 6
Iowa | Boone | 2,151 | 6
Iowa | Bremer | 2,588 | 6
Iowa | Buchanan | 2,449 | 6
Iowa | Buena Vista | 2,465 | 6
Iowa | Butler | 2,233 | 6
Iowa | Calhoun | 2,460 | 6
Iowa | Carroll | 2,210 | 6
Iowa | Cass | 1,639 | 5
Iowa | Cedar | 2,081 | 6
Iowa | Cerro Gordo | 2,114 | 6
Iowa | Cherokee | 2,274 | 6
Iowa | Chickasaw | 2,169 | 6
Iowa | Clarke | 995 | 3
Iowa | Clay | 2,252 | 6
Iowa | Clayton | 1,903 | 5
Iowa | Clinton | 2,309 | 6
Iowa | Crawford | 1,903 | 5
Iowa | Dallas | 2,537 | 6
Iowa | Davis | 1,136 | 4
Iowa | Decatur | 945 | 3
Iowa | Delaware | 2,375 | 6
Iowa | Des Moines | 2,216 | 6
Iowa | Dickinson | 1,936 | 5
Iowa | Dubuque | 2,134 | 6
Iowa | Emmet | 1,906 | 5
Iowa | Fayette | 2,160 | 6
Iowa | Floyd | 2,278 | 6
Iowa | Franklin | 2,154 | 6
Iowa | Fremont | 1,610 | 5
Iowa | Greene | 2,093 | 6
Iowa | Grundy | 2,576 | 6
Iowa | Guthrie | 1,813 | 5
Iowa | Hamilton | 2,324 | 6
Iowa | Hancock | 2,095 | 6
Iowa | Hardin | 2,463 | 6
Iowa | Harrison | 1,692 | 5
Iowa | Henry | 2,019 | 6
Iowa | Howard | 1,992 | 5
Iowa | Humboldt | 2,487 | 6
Iowa | Ida | 2,059 | 6
Iowa | Iowa | 1,706 | 5
Iowa | Jackson | 1,849 | 5
Iowa | Jasper | 2,040 | 6
Iowa | Jefferson | 1,492 | 4
Iowa | Johnson | 2,377 | 6
Iowa | Jones | 2,202 | 6
Iowa | Keokuk | 1,519 | 5
Iowa | Kossuth | 2,338 | 6
Iowa | Lee | 1,778 | 5
Iowa | Linn | 2,577 | 6
Iowa | Louisa | 2,150 | 6
Iowa | Lucas | 1,093 | 4
Iowa | Lyon | 2,356 | 6
Iowa | Madison | 1,757 | 5
Iowa | Mahaska | 1,852 | 5
Iowa | Marion | 1,491 | 4
Iowa | Marshall | 2,009 | 6
Iowa | Mills | 1,803 | 5
Iowa | Mitchell | 2,222 | 6
Iowa | Monona | 1,792 | 5
Iowa | Monroe | 1,008 | 4
Iowa | Montgomery | 1,420 | 4
Iowa | Muscatine | 2,283 | 6
Iowa | O'Brien | 2,545 | 6
Iowa | Osceola | 2,475 | 6
Iowa | Page | 1,256 | 4
Iowa | Palo Alto | 2,356 | 6
Iowa | Plymouth | 2,267 | 6
Iowa | Pocahontas | 2,377 | 6
Iowa | Polk | 2,156 | 6
Iowa | Pottawattamie | 2,028 | 6
Iowa | Poweshiek | 1,832 | 5
Iowa | Ringgold | 1,015 | 4
Iowa | Sac | 2,438 | 6
Iowa | Scott | 3,003 | 7
Iowa | Shelby | 2,044 | 6
Iowa | Sioux | 2,655 | 6
Iowa | Story | 2,342 | 6
Iowa | Tama | 2,253 | 6
Iowa | Taylor | 1,226 | 4
Iowa | Union | 1,309 | 4
Iowa | Van Buren | 1,220 | 4
Iowa | Wapello | 1,540 | 5
Iowa | Warren | 1,468 | 4
Iowa | Washington | 2,271 | 6
Iowa | Wayne | 1,001 | 4
Iowa | Webster | 2,206 | 6
Iowa | Winnebago | 2,101 | 6
Iowa | Winneshiek | 1,808 | 5
Iowa | Woodbury | 1,794 | 5
Iowa | Worth | 2,153 | 6
Iowa | Wright | 2,479 | 6
Kansas | Allen | 821 | 3
Kansas | Anderson | 899 | 3
Kansas | Atchison | 1,057 | 4
Kansas | Barber | 441 | 2
Kansas | Barton | 591 | 3
Kansas | Bourbon | 720 | 3
Kansas | Brown | 1,164 | 4
Kansas | Butler | 1,002 | 4
Kansas | Chase | 618 | 3
Kansas | Chautauqua | 535 | 3
Kansas | Cherokee | 968 | 3
Kansas | Cheyenne | 480 | 2
Kansas | Clark | 395 | 2
Kansas | Clay | 907 | 3
Kansas | Cloud | 604 | 3
Kansas | Coffey | 755 | 3
Kansas | Comanche | 408 | 2
Kansas | Cowley | 775 | 3
Kansas | Crawford | 875 | 3
Kansas | Decatur | 485 | 2
Kansas | Dickinson | 666 | 3
Kansas | Doniphan | 1,281 | 4
Kansas | Douglas | 2,010 | 6
Kansas | Edwards | 579 | 3
Kansas | Elk | 496 | 2
Kansas | Ellis | 528 | 3
Kansas | Ellsworth | 518 | 3
Kansas | Finney | 616 | 3
Kansas | Ford | 578 | 3
Kansas | Franklin | 1,240 | 4
Kansas | Geary | 859 | 3
Kansas | Gove | 449 | 2
Kansas | Graham | 453 | 2
Kansas | Grant | 664 | 3
Kansas | Gray | 791 | 3
Kansas | Greeley | 504 | 3
Kansas | Greenwood | 552 | 3
Kansas | Hamilton | 465 | 2
Kansas | Harper | 623 | 3
Kansas | Harvey | 928 | 3
Kansas | Haskell | 744 | 3
Kansas | Hodgeman | 512 | 3
Kansas | Jackson | 832 | 3
Kansas | Jefferson | 1,067 | 4
Kansas | Jewell | 656 | 3
Kansas | Johnson | 1,978 | 5
Kansas | Kearny | 479 | 2
Kansas | Kingman | 683 | 3
Kansas | Kiowa | 441 | 2
Kansas | Labette | 746 | 3
Kansas | Lane | 468 | 2
Kansas | Leavenworth | 1,589 | 5
Kansas | Lincoln | 439 | 2
Kansas | Linn | 1,003 | 4
Kansas | Logan | 417 | 2
Kansas | Lyon | 778 | 3
Kansas | Marion | 731 | 3
Kansas | Marshall | 917 | 3
Kansas | McPherson | 1,151 | 4
Kansas | Meade | 584 | 3
Kansas | Miami | 1,755 | 5
Kansas | Mitchell | 724 | 3
Kansas | Montgomery | 884 | 3
Kansas | Morris | 632 | 3
Kansas | Morton | 466 | 2
Kansas | Nemaha | 998 | 3
Kansas | Neosho | 763 | 3
Kansas | Ness | 413 | 2
Kansas | Norton | 447 | 2
Kansas | Osage | 899 | 3
Kansas | Osborne | 497 | 2
Kansas | Ottawa | 577 | 3
Kansas | Pawnee | 563 | 3
Kansas | Phillips | 461 | 2
Kansas | Pottawatomie | 722 | 3
Kansas | Pratt | 633 | 3
Kansas | Rawlins | 416 | 2
Kansas | Reno | 875 | 3
Kansas | Republic | 819 | 3
Kansas | Rice | 667 | 3
Kansas | Riley | 1,035 | 4
Kansas | Rooks | 448 | 2
Kansas | Rush | 472 | 2
Kansas | Russell | 430 | 2
Kansas | Saline | 748 | 3
Kansas | Scott | 555 | 3
Kansas | Sedgwick | 1,197 | 4
Kansas | Seward | 647 | 3
Kansas | Shawnee | 1,265 | 4
Kansas | Sheridan | 596 | 3
Kansas | Sherman | 622 | 3
Kansas | Smith | 663 | 3
Kansas | Stafford | 764 | 3
Kansas | Stanton | 573 | 3
Kansas | Stevens | 677 | 3
Kansas | Sumner | 682 | 3
Kansas | Thomas | 607 | 3
Kansas | Trego | 462 | 2
Kansas | Wabaunsee | 726 | 3
Kansas | Wallace | 444 | 2
Kansas | Washington | 804 | 3
Kansas | Wichita | 503 | 3
Kansas | Wilson | 770 | 3
Kansas | Woodson | 589 | 3
Kansas | Wyandotte | 3,915 | 7
Kentucky | Adair | 1,784 | 5
Kentucky | Allen | 1,789 | 5
Kentucky | Anderson | 2,407 | 6
Kentucky | Ballard | 1,695 | 5
Kentucky | Barren | 1,609 | 5
Kentucky | Bath | 1,373 | 4
Kentucky | Bell | 1,326 | 4
Kentucky | Boone | 3,633 | 7
Kentucky | Bourbon | 2,664 | 6
Kentucky | Boyd | 1,446 | 4
Kentucky | Boyle | 2,136 | 6
Kentucky | Bracken | 1,534 | 5
Kentucky | Breathitt | 923 | 3
Kentucky | Breckinridge | 1,507 | 5
Kentucky | Bullitt | 2,742 | 6
Kentucky | Butler | 1,537 | 5
Kentucky | Caldwell | 1,156 | 4
Kentucky | Calloway | 1,862 | 5
Kentucky | Campbell | 3,836 | 7
Kentucky | Carlisle | 1,410 | 4
Kentucky | Carroll | 2,071 | 6
Kentucky | Carter | 1,496 | 4
Kentucky | Casey | 1,168 | 4
Kentucky | Christian | 1,696 | 5
Kentucky | Clark | 2,182 | 6
Kentucky | Clay | 959 | 3
Kentucky | Clinton | 1,529 | 5
Kentucky | Crittenden | 1,043 | 4
Kentucky | Cumberland | 1,038 | 4
Kentucky | Daviess | 2,041 | 6
Kentucky | Edmonson | 1,176 | 4
Kentucky | Elliott | 906 | 3
Kentucky | Estill | 1,112 | 4
Kentucky | Fayette | 4,589 | 7
Kentucky | Fleming | 1,273 | 4
Kentucky | Floyd | 1,536 | 5
Kentucky | Franklin | 2,350 | 6
Kentucky | Fulton | 1,450 | 4
Kentucky | Gallatin | 2,155 | 6
Kentucky | Garrard | 1,852 | 5
Kentucky | Grant | 2,545 | 6
Kentucky | Graves | 1,659 | 5
Kentucky | Grayson | 1,378 | 4
Kentucky | Green | 1,522 | 5
Kentucky | Greenup | 1,204 | 4
Kentucky | Hancock | 1,333 | 4
Kentucky | Hardin | 1,895 | 5
Kentucky | Harlan | 2,249 | 6
Kentucky | Harrison | 1,867 | 5
Kentucky | Hart | 1,387 | 4
Kentucky | Henderson | 1,933 | 5
Kentucky | Henry | 2,398 | 6
Kentucky | Hickman | 1,498 | 4
Kentucky | Hopkins | 1,301 | 4
Kentucky | Jackson | 1,194 | 4
Kentucky | Jefferson | 4,917 | 7
Kentucky | Jessamine | 3,699 | 7
Kentucky | Johnson | 1,522 | 5
Kentucky | Kenton | 3,775 | 7
Kentucky | Knott | 1,599 | 5
Kentucky | Knox | 1,545 | 5
Kentucky | Larue | 1,936 | 5
Kentucky | Laurel | 2,305 | 6
Kentucky | Lawrence | 910 | 3
Kentucky | Lee | 1,139 | 4
Kentucky | Leslie | 786 | 3
Kentucky | Letcher | 1,038 | 4
Kentucky | Lewis | 894 | 3
Kentucky | Lincoln | 1,745 | 5
Kentucky | Livingston | 1,024 | 4
Kentucky | Logan | 1,593 | 5
Kentucky | Lyon | 1,187 | 4
Kentucky | Madison | 2,266 | 6
Kentucky | Magoffin | 1,120 | 4
Kentucky | Marion | 1,771 | 5
Kentucky | Marshall | 1,757 | 5
Kentucky | Martin | 610 | 3
Kentucky | Mason | 1,889 | 5
Kentucky | McCracken | 1,753 | 5
Kentucky | McCreary | 2,246 | 6
Kentucky | McLean | 1,696 | 5
Kentucky | Meade | 2,068 | 6
Kentucky | Menifee | 1,942 | 5
Kentucky | Mercer | 2,852 | 6
Kentucky | Metcalfe | 1,594 | 5
Kentucky | Monroe | 1,312 | 4
Kentucky | Montgomery | 1,912 | 5
Kentucky | Morgan | 969 | 3
Kentucky | Muhlenberg | 1,261 | 4
Kentucky | Nelson | 2,154 | 6
Kentucky | Nicholas | 1,260 | 4
Kentucky | Ohio | 1,716 | 5
Kentucky | Oldham | 4,562 | 7
Kentucky | Owen | 1,664 | 5
Kentucky | Owsley | 1,319 | 4
Kentucky | Pendleton | 1,479 | 4
Kentucky | Perry | 1,137 | 4
Kentucky | Pike | 1,114 | 4
Kentucky | Powell | 1,813 | 5
Kentucky | Pulaski | 1,871 | 5
Kentucky | Robertson | 1,073 | 4
Kentucky | Rockcastle | 1,737 | 5
Kentucky | Rowan | 1,330 | 4
Kentucky | Russell | 1,953 | 5
Kentucky | Scott | 3,146 | 7
Kentucky | Shelby | 3,221 | 7
Kentucky | Simpson | 2,021 | 6
Kentucky | Spencer | 2,540 | 6
Kentucky | Taylor | 1,689 | 5
Kentucky | Todd | 1,734 | 5
Kentucky | Trigg | 1,476 | 4
Kentucky | Trimble | 1,510 | 5
Kentucky | Union | 1,730 | 5
Kentucky | Warren | 2,054 | 6
Kentucky | Washington | 1,776 | 5
Kentucky | Wayne | 2,216 | 6
Kentucky | Webster | 1,410 | 4
Kentucky | Whitley | 1,530 | 5
Kentucky | Wolfe | 1,111 | 4
Kentucky | Woodford | 3,755 | 7
Louisiana | Acadia | 1,773 | 5
Louisiana | Allen | 1,229 | 4
Louisiana | Ascension | 2,779 | 6
Louisiana | Assumption | 1,597 | 5
Louisiana | Avoyelles | 1,300 | 4
Louisiana | Beauregard | 1,339 | 4
Louisiana | Bienville | 1,529 | 5
Louisiana | Bossier | 1,668 | 5
Louisiana | Caddo | 1,428 | 4
Louisiana | Calcasieu | 1,425 | 4
Louisiana | Caldwell | 1,350 | 4
Louisiana | Cameron | 1,438 | 4
Louisiana | Catahoula | 1,164 | 4
Louisiana | Claiborne | 1,586 | 5
Louisiana | Concordia | 1,127 | 4
Louisiana | De Soto | 1,278 | 4
Louisiana | East Baton Rouge | 3,074 | 7
Louisiana | East Carroll | 1,194 | 4
Louisiana | East Feliciana | 1,927 | 5
Louisiana | Evangeline | 1,261 | 4
Louisiana | Franklin | 1,191 | 4
Louisiana | Grant | 1,332 | 4
Louisiana | Iberia | 1,883 | 5
Louisiana | Iberville | 1,852 | 5
Louisiana | Jackson | 2,627 | 6
Louisiana | Jefferson | 2,204 | 6
Louisiana | Jefferson Davis | 1,089 | 4
Louisiana | La Salle | 1,688 | 5
Louisiana | Lafayette | 3,161 | 7
Louisiana | Lafourche | 1,470 | 4
Louisiana | Lincoln | 1,953 | 5
Louisiana | Livingston | 2,916 | 6
Louisiana | Madison | 1,105 | 4
Louisiana | Morehouse | 1,172 | 4
Louisiana | Natchitoches | 1,363 | 4
Louisiana | Orleans | 43,753 | 11
Louisiana | Ouachita | 1,743 | 5
Louisiana | Plaquemines | 2,889 | 6
Louisiana | Pointe Coupee | 1,423 | 4
Louisiana | Rapides | 1,704 | 5
Louisiana | Red River | 895 | 3
Louisiana | Richland | 1,045 | 4
Louisiana | Sabine | 1,894 | 5
Louisiana | St. Bernard | 4,246 | 7
Louisiana | St. Charles | 4,152 | 7
Louisiana | St. Helena | 1,982 | 5
Louisiana | St. James | 1,300 | 4
Louisiana | St. John the Baptist | 3,410 | 7
Louisiana | St. Landry | 1,384 | 4
Louisiana | St. Martin | 1,666 | 5
Louisiana | St. Mary | 1,477 | 4
Louisiana | St. Tammany | 3,907 | 7
Louisiana | Tangipahoa | 2,780 | 6
Louisiana | Tensas | 1,055 | 4
Louisiana | Terrebonne | 1,823 | 5
Louisiana | Union | 1,974 | 5
Louisiana | Vermilion | 1,632 | 5
Louisiana | Vernon | 1,813 | 5
Louisiana | Washington | 2,201 | 6
Louisiana | Webster | 2,887 | 6
Louisiana | West Baton Rouge | 1,965 | 5
Louisiana | West Carroll | 1,781 | 5
Louisiana | West Feliciana | 1,817 | 5
Louisiana | Winn | 1,584 | 5
Maine | Androscoggin | 2,421 | 6
Maine | Aroostook | 897 | 3
Maine | Cumberland | 4,043 | 7
Maine | Franklin | 1,459 | 4
Maine | Hancock | 1,960 | 5
Maine | Kennebec | 1,924 | 5
Maine | Knox | 2,833 | 6
Maine | Lincoln | 2,744 | 6
Maine | Oxford | 2,397 | 6
Maine | Penobscot | 1,266 | 4
Maine | Piscataquis | 1,015 | 4
Maine | Sagadahoc | 2,873 | 6
Maine | Somerset | 1,305 | 4
Maine | Waldo | 1,668 | 5
Maine | Washington | 856 | 3
Maine | York | 3,761 | 7
Maryland | Allegany | 2,447 | 6
Maryland | Anne Arundel | 7,475 | 8
Maryland | Baltimore | 6,824 | 8
Maryland | Calvert | 3,980 | 7
Maryland | Caroline | 2,951 | 6
Maryland | Carroll | 5,629 | 8
Maryland | Cecil | 5,799 | 8
Maryland | Charles | 3,342 | 7
Maryland | Dorchester | 2,704 | 6
Maryland | Frederick | 5,325 | 8
Maryland | Garrett | 2,179 | 6
Maryland | Harford | 4,903 | 7
Maryland | Howard | 6,071 | 8
Maryland | Kent | 3,380 | 7
Maryland | Montgomery | 5,979 | 8
Maryland | Prince George's | 6,531 | 8
Maryland | Queen Anne's | 3,144 | 7
Maryland | Somerset | 2,516 | 6
Maryland | St. Mary's | 2,831 | 6
Maryland | Talbot | 4,203 | 7
Maryland | Washington | 3,804 | 7
Maryland | Wicomico | 3,413 | 7
Maryland | Worcester | 2,394 | 6
Massachusetts | Barnstable | 21,421 | 10
Massachusetts | Berkshire | 5,639 | 8
Massachusetts | Bristol | 12,750 | 9
Massachusetts | Dukes | 11,343 | 9
Massachusetts | Essex | 14,560 | 9
Massachusetts | Franklin | 3,989 | 7
Massachusetts | Hampden | 6,404 | 8
Massachusetts | Hampshire | 6,601 | 8
Massachusetts | Middlesex | 20,975 | 10
Massachusetts | Nantucket | 50,824 | 12
Massachusetts | Norfolk | 15,960 | 9
Massachusetts | Plymouth | 12,635 | 9
Massachusetts | Suffolk | 56,021 | 12
Massachusetts | Worcester | 7,378 | 8
Michigan | Alcona | 2,157 | 6
Michigan | Alger | 1,556 | 5
Michigan | Allegan | 3,159 | 7
Michigan | Alpena | 1,939 | 5
Michigan | Antrim | 2,589 | 6
Michigan | Arenac | 2,033 | 6
Michigan | Baraga | 1,241 | 4
Michigan | Barry | 2,557 | 6
Michigan | Bay | 2,573 | 6
Michigan | Benzie | 3,075 | 7
Michigan | Berrien | 3,898 | 7
Michigan | Branch | 2,452 | 6
Michigan | Calhoun | 2,314 | 6
Michigan | Cass | 2,280 | 6
Michigan | Charlevoix | 3,178 | 7
Michigan | Cheboygan | 2,079 | 6
Michigan | Chippewa | 1,304 | 4
Michigan | Clare | 2,051 | 6
Michigan | Clinton | 2,371 | 6
Michigan | Crawford | 2,537 | 6
Michigan | Delta | 1,445 | 4
Michigan | Dickinson | 1,407 | 4
Michigan | Eaton | 2,838 | 6
Michigan | Emmet | 2,983 | 6
Michigan | Genesee | 3,853 | 7
Michigan | Gladwin | 2,177 | 6
Michigan | Gogebic | 1,821 | 5
Michigan | Grand Traverse | 4,139 | 7
Michigan | Gratiot | 2,020 | 6
Michigan | Hillsdale | 2,400 | 6
Michigan | Houghton | 1,326 | 4
Michigan | Huron | 1,998 | 5
Michigan | Ingham | 2,879 | 6
Michigan | Ionia | 2,786 | 6
Michigan | Iosco | 2,280 | 6
Michigan | Iron | 1,494 | 4
Michigan | Isabella | 2,004 | 6
Michigan | Jackson | 2,902 | 6
Michigan | Kalamazoo | 3,535 | 7
Michigan | Kalkaska | 2,175 | 6
Michigan | Kent | 4,023 | 7
Michigan | Keweenaw | 2,218 | 6
Michigan | Lake | 2,213 | 6
Michigan | Lapeer | 3,867 | 7
Michigan | Leelanau | 4,684 | 7
Michigan | Lenawee | 2,516 | 6
Michigan | Livingston | 4,782 | 7
Michigan | Luce | 1,367 | 4
Michigan | Mackinac | 1,547 | 5
Michigan | Macomb | 6,107 | 8
Michigan | Manistee | 2,222 | 6
Michigan | Marquette | 1,632 | 5
Michigan | Mason | 1,983 | 5
Michigan | Mecosta | 2,202 | 6
Michigan | Menominee | 1,322 | 4
Michigan | Midland | 2,607 | 6
Michigan | Missaukee | 2,199 | 6
Michigan | Monroe | 3,152 | 7
Michigan | Montcalm | 2,205 | 6
Michigan | Montmorency | 1,937 | 5
Michigan | Muskegon | 3,008 | 7
Michigan | Newaygo | 2,689 | 6
Michigan | Oakland | 7,428 | 8
Michigan | Oceana | 2,701 | 6
Michigan | Ogemaw | 2,159 | 6
Michigan | Ontonagon | 1,138 | 4
Michigan | Osceola | 2,050 | 6
Michigan | Oscoda | 2,220 | 6
Michigan | Otsego | 2,419 | 6
Michigan | Ottawa | 4,352 | 7
Michigan | Presque Isle | 1,997 | 5
Michigan | Roscommon | 3,186 | 7
Michigan | Saginaw | 2,068 | 6
Michigan | Sanilac | 2,097 | 6
Michigan | Schoolcraft | 1,638 | 5
Michigan | Shiawassee | 2,163 | 6
Michigan | St. Clair | 3,970 | 7
Michigan | St. Joseph | 2,314 | 6
Michigan | Tuscola | 2,297 | 6
Michigan | Van Buren | 2,806 | 6
Michigan | Washtenaw | 4,739 | 7
Michigan | Wayne | 6,829 | 8
Michigan | Wexford | 2,779 | 6
Minnesota | Aitkin | 879 | 3
Minnesota | Anoka | 6,025 | 8
Minnesota | Becker | 951 | 3
Minnesota | Beltrami | 734 | 3
Minnesota | Benton | 2,024 | 6
Minnesota | Big Stone | 1,041 | 4
Minnesota | Blue Earth | 2,168 | 6
Minnesota | Brown | 1,967 | 5
Minnesota | Carlton | 1,036 | 4
Minnesota | Carver | 2,956 | 6
Minnesota | Cass | 957 | 3
Minnesota | Chippewa | 1,502 | 5
Minnesota | Chisago | 2,897 | 6
Minnesota | Clay | 1,070 | 4
Minnesota | Clearwater | 626 | 3
Minnesota | Cook | 1,764 | 5
Minnesota | Cottonwood | 1,780 | 5
Minnesota | Crow Wing | 1,105 | 4
Minnesota | Dakota | 3,453 | 7
Minnesota | Dodge | 2,341 | 6
Minnesota | Douglas | 1,272 | 4
Minnesota | Faribault | 2,104 | 6
Minnesota | Fillmore | 1,754 | 5
Minnesota | Freeborn | 2,197 | 6
Minnesota | Goodhue | 2,396 | 6
Minnesota | Grant | 1,285 | 4
Minnesota | Hennepin | 5,558 | 8
Minnesota | Houston | 1,305 | 4
Minnesota | Hubbard | 868 | 3
Minnesota | Isanti | 2,294 | 6
Minnesota | Itasca | 998 | 3
Minnesota | Jackson | 1,858 | 5
Minnesota | Kanabec | 1,287 | 4
Minnesota | Kandiyohi | 1,602 | 5
Minnesota | Kittson | 563 | 3
Minnesota | Koochiching | 703 | 3
Minnesota | Lac qui Parle | 1,222 | 4
Minnesota | Lake | 1,733 | 5
Minnesota | Lake of the Woods | 590 | 3
Minnesota | Le Sueur | 2,245 | 6
Minnesota | Lincoln | 1,164 | 4
Minnesota | Lyon | 1,451 | 4
Minnesota | Mahnomen | 671 | 3
Minnesota | Marshall | 611 | 3
Minnesota | Martin | 2,047 | 6
Minnesota | McLeod | 2,095 | 6
Minnesota | Meeker | 1,793 | 5
Minnesota | Mille Lacs | 1,731 | 5
Minnesota | Morrison | 1,338 | 4
Minnesota | Mower | 1,959 | 5
Minnesota | Murray | 1,545 | 5
Minnesota | Nicollet | 2,263 | 6
Minnesota | Nobles | 1,679 | 5
Minnesota | Norman | 835 | 3
Minnesota | Olmsted | 2,214 | 6
Minnesota | Otter Tail | 1,047 | 4
Minnesota | Pennington | 524 | 3
Minnesota | Pine | 1,269 | 4
Minnesota | Pipestone | 1,407 | 4
Minnesota | Polk | 828 | 3
Minnesota | Pope | 1,233 | 4
Minnesota | Ramsey | 19,011 | 9
Minnesota | Red Lake | 630 | 3
Minnesota | Redwood | 1,722 | 5
Minnesota | Renville | 1,889 | 5
Minnesota | Rice | 2,732 | 6
Minnesota | Rock | 1,395 | 4
Minnesota | Roseau | 527 | 3
Minnesota | Scott | 3,496 | 7
Minnesota | Sherburne | 2,816 | 6
Minnesota | Sibley | 2,234 | 6
Minnesota | St. Louis | 1,377 | 4
Minnesota | Stearns | 1,579 | 5
Minnesota | Steele | 2,126 | 6
Minnesota | Stevens | 1,472 | 4
Minnesota | Swift | 1,250 | 4
Minnesota | Todd | 1,164 | 4
Minnesota | Traverse | 1,131 | 4
Minnesota | Wabasha | 1,875 | 5
Minnesota | Wadena | 1,015 | 4
Minnesota | Waseca | 2,345 | 6
Minnesota | Washington | 5,200 | 8
Minnesota | Watonwan | 1,858 | 5
Minnesota | Wilkin | 1,068 | 4
Minnesota | Winona | 1,989 | 5
Minnesota | Wright | 2,772 | 6
Minnesota | Yellow Medicine | 1,286 | 4
Mississippi | Adams | 1,004 | 4
Mississippi | Alcorn | 1,355 | 4
Mississippi | Amite | 1,572 | 5
Mississippi | Attala | 1,285 | 4
Mississippi | Benton | 970 | 3
Mississippi | Bolivar | 1,098 | 4
Mississippi | Calhoun | 953 | 3
Mississippi | Carroll | 991 | 3
Mississippi | Chickasaw | 923 | 3
Mississippi | Choctaw | 1,174 | 4
Mississippi | Claiborne | 1,203 | 4
Mississippi | Clarke | 1,710 | 5
Mississippi | Clay | 1,130 | 4
Mississippi | Coahoma | 1,157 | 4
Mississippi | Copiah | 1,646 | 5
Mississippi | Covington | 1,572 | 5
Mississippi | DeSoto | 1,961 | 5
Mississippi | Forrest | 2,709 | 6
Mississippi | Franklin | 1,644 | 5
Mississippi | George | 3,023 | 7
Mississippi | Greene | 1,629 | 5
Mississippi | Grenada | 1,215 | 4
Mississippi | Hancock | 2,376 | 6
Mississippi | Harrison | 3,852 | 7
Mississippi | Hinds | 1,348 | 4
Mississippi | Holmes | 1,230 | 4
Mississippi | Humphreys | 1,128 | 4
Mississippi | Issaquena | 1,169 | 4
Mississippi | Itawamba | 1,124 | 4
Mississippi | Jackson | 3,846 | 7
Mississippi | Jasper | 1,385 | 4
Mississippi | Jefferson | 1,467 | 4
Mississippi | Jefferson Davis | 1,325 | 4
Mississippi | Jones | 2,223 | 6
Mississippi | Kemper | 1,134 | 4
Mississippi | Lafayette | 1,394 | 4
Mississippi | Lamar | 1,988 | 5
Mississippi | Lauderdale | 1,392 | 4
Mississippi | Lawrence | 1,561 | 5
Mississippi | Leake | 1,489 | 4
Mississippi | Lee | 1,337 | 4
Mississippi | Leflore | 1,110 | 4
Mississippi | Lincoln | 2,255 | 6
Mississippi | Lowndes | 1,126 | 4
Mississippi | Madison | 1,622 | 5
Mississippi | Marion | 1,356 | 4
Mississippi | Marshall | 1,347 | 4
Mississippi | Monroe | 1,173 | 4
Mississippi | Montgomery | 909 | 3
Mississippi | Neshoba | 2,133 | 6
Mississippi | Newton | 3,072 | 7
Mississippi | Noxubee | 1,064 | 4
Mississippi | Oktibbeha | 1,712 | 5
Mississippi | Panola | 1,106 | 4
Mississippi | Pearl River | 2,786 | 6
Mississippi | Perry | 2,143 | 6
Mississippi | Pike | 1,928 | 5
Mississippi | Pontotoc | 1,176 | 4
Mississippi | Prentiss | 924 | 3
Mississippi | Quitman | 984 | 3
Mississippi | Rankin | 1,485 | 4
Mississippi | Scott | 1,611 | 5
Mississippi | Sharkey | 1,064 | 4
Mississippi | Simpson | 2,044 | 6
Mississippi | Smith | 1,960 | 5
Mississippi | Stone | 1,826 | 5
Mississippi | Sunflower | 1,063 | 4
Mississippi | Tallahatchie | 905 | 3
Mississippi | Tate | 1,699 | 5
Mississippi | Tippah | 1,238 | 4
Mississippi | Tishomingo | 1,311 | 4
Mississippi | Tunica | 1,000 | 3
Mississippi | Union | 1,549 | 5
Mississippi | Walthall | 2,899 | 6
Mississippi | Warren | 1,095 | 4
Mississippi | Washington | 1,260 | 4
Mississippi | Wayne | 1,570 | 5
Mississippi | Webster | 817 | 3
Mississippi | Wilkinson | 1,379 | 4
Mississippi | Winston | 1,670 | 5
Mississippi | Yalobusha | 1,207 | 4
Mississippi | Yazoo | 1,102 | 4
Missouri | Adair | 1,012 | 4
Missouri | Andrew | 1,838 | 5
Missouri | Atchison | 1,642 | 5
Missouri | Audrain | 1,601 | 5
Missouri | Barry | 1,678 | 5
Missouri | Barton | 1,000 | 3
Missouri | Bates | 1,199 | 4
Missouri | Benton | 1,115 | 4
Missouri | Bollinger | 1,292 | 4
Missouri | Boone | 2,544 | 6
Missouri | Buchanan | 1,790 | 5
Missouri | Butler | 1,499 | 4
Missouri | Caldwell | 1,369 | 4
Missouri | Callaway | 1,780 | 5
Missouri | Camden | 1,254 | 4
Missouri | Cape Girardeau | 1,891 | 5
Missouri | Carroll | 1,295 | 4
Missouri | Carter | 1,048 | 4
Missouri | Cass | 1,844 | 5
Missouri | Cedar | 1,146 | 4
Missouri | Chariton | 1,333 | 4
Missouri | Christian | 2,387 | 6
Missouri | Clark | 1,165 | 4
Missouri | Clay | 3,392 | 7
Missouri | Clinton | 1,541 | 5
Missouri | Cole | 1,974 | 5
Missouri | Cooper | 1,332 | 4
Missouri | Crawford | 1,247 | 4
Missouri | Dade | 1,277 | 4
Missouri | Dallas | 1,396 | 4
Missouri | Daviess | 1,176 | 4
Missouri | DeKalb | 1,139 | 4
Missouri | Dent | 991 | 3
Missouri | Douglas | 1,071 | 4
Missouri | Dunklin | 1,936 | 5
Missouri | Franklin | 2,431 | 6
Missouri | Gasconade | 1,586 | 5
Missouri | Gentry | 1,156 | 4
Missouri | Greene | 3,299 | 7
Missouri | Grundy | 1,024 | 4
Missouri | Harrison | 951 | 3
Missouri | Henry | 1,209 | 4
Missouri | Hickory | 1,082 | 4
Missouri | Holt | 1,491 | 4
Missouri | Howard | 1,334 | 4
Missouri | Howell | 1,372 | 4
Missouri | Iron | 1,332 | 4
Missouri | Jackson | 3,675 | 7
Missouri | Jasper | 1,494 | 4
Missouri | Jefferson | 2,635 | 6
Missouri | Johnson | 1,693 | 5
Missouri | Knox | 1,391 | 4
Missouri | Laclede | 1,377 | 4
Missouri | Lafayette | 1,831 | 5
Missouri | Lawrence | 1,777 | 5
Missouri | Lewis | 1,106 | 4
Missouri | Lincoln | 2,172 | 6
Missouri | Linn | 1,005 | 4
Missouri | Livingston | 1,285 | 4
Missouri | Macon | 1,072 | 4
Missouri | Madison | 973 | 3
Missouri | Maries | 1,032 | 4
Missouri | Marion | 1,226 | 4
Missouri | McDonald | 2,029 | 6
Missouri | Mercer | 5,358 | 8
Missouri | Miller | 1,479 | 4
Missouri | Mississippi | 1,855 | 5
Missouri | Moniteau | 1,380 | 4
Missouri | Monroe | 1,183 | 4
Missouri | Montgomery | 1,639 | 5
Missouri | Morgan | 1,553 | 5
Missouri | New Madrid | 1,837 | 5
Missouri | Newton | 1,760 | 5
Missouri | Nodaway | 1,195 | 4
Missouri | Oregon | 1,004 | 4
Missouri | Osage | 1,400 | 4
Missouri | Ozark | 1,366 | 4
Missouri | Pemiscot | 1,772 | 5
Missouri | Perry | 1,487 | 4
Missouri | Pettis | 1,388 | 4
Missouri | Phelps | 1,519 | 5
Missouri | Pike | 1,618 | 5
Missouri | Platte | 2,306 | 6
Missouri | Polk | 1,409 | 4
Missouri | Pulaski | 1,310 | 4
Missouri | Putnam | 866 | 3
Missouri | Ralls | 1,437 | 4
Missouri | Randolph | 1,174 | 4
Missouri | Ray | 1,490 | 4
Missouri | Reynolds | 1,048 | 4
Missouri | Ripley | 1,016 | 4
Missouri | Saline | 1,368 | 4
Missouri | Schuyler | 811 | 3
Missouri | Scotland | 1,122 | 4
Missouri | Scott | 1,745 | 5
Missouri | Shannon | 1,052 | 4
Missouri | Shelby | 1,187 | 4
Missouri | St Louis | 3,627 | 7
Missouri | St. Charles | 3,991 | 7
Missouri | St. Clair | 1,018 | 4
Missouri | St. Francois | 2,033 | 6
Missouri | Ste. Genevieve | 1,446 | 4
Missouri | Stoddard | 2,048 | 6
Missouri | Stone | 1,927 | 5
Missouri | Sullivan | 814 | 3
Missouri | Taney | 1,728 | 5
Missouri | Texas | 1,027 | 4
Missouri | Vernon | 1,105 | 4
Missouri | Warren | 2,312 | 6
Missouri | Washington | 1,477 | 4
Missouri | Wayne | 1,034 | 4
Missouri | Webster | 1,722 | 5
Missouri | Worth | 916 | 3
Missouri | Wright | 1,259 | 4
Montana | Beaverhead | 548 | 3
Montana | Big Horn | 246 | 1
Montana | Blaine | 245 | 1
Montana | Broadwater | 464 | 2
Montana | Carbon | 766 | 3
Montana | Carter | 197 | 1
Montana | Cascade | 425 | 2
Montana | Chouteau | 420 | 2
Montana | Custer | 194 | 1
Montana | Daniels | 292 | 2
Montana | Dawson | 219 | 1
Montana | Deer Lodge | 627 | 3
Montana | Fallon | 262 | 2
Montana | Fergus | 371 | 2
Montana | Flathead | 2,344 | 6
Montana | Gallatin | 1,091 | 4
Montana | Garfield | 165 | 1
Montana | Glacier | 336 | 2
Montana | Golden Valley | 243 | 1
Montana | Granite | 700 | 3
Montana | Hill | 319 | 2
Montana | Jefferson | 603 | 3
Montana | Judith Basin | 526 | 3
Montana | Lake | 1,156 | 4
Montana | Lewis and Clark | 565 | 3
Montana | Liberty | 335 | 2
Montana | Lincoln | 2,869 | 6
Montana | Madison | 648 | 3
Montana | McCone | 226 | 1
Montana | Meagher | 434 | 2
Montana | Mineral | 1,937 | 5
Montana | Missoula | 1,438 | 4
Montana | Musselshell | 242 | 1
Montana | Park | 713 | 3
Montana | Petroleum | 277 | 2
Montana | Phillips | 219 | 1
Montana | Pondera | 453 | 2
Montana | Powder River | 218 | 1
Montana | Powell | 620 | 3
Montana | Prairie | 211 | 1
Montana | Ravalli | 2,676 | 6
Montana | Richland | 290 | 2
Montana | Roosevelt | 299 | 2
Montana | Rosebud | 180 | 1
Montana | Sanders | 1,096 | 4
Montana | Sheridan | 335 | 2
Montana | Silver Bow | 977 | 3
Montana | Stillwater | 480 | 2
Montana | Sweet Grass | 556 | 3
Montana | Teton | 362 | 2
Montana | Toole | 350 | 2
Montana | Treasure | 239 | 1
Montana | Valley | 257 | 2
Montana | Wheatland | 285 | 2
Montana | Wibaux | 241 | 1
Montana | Yellowstone | 505 | 3
Nebraska | Adams | 1,557 | 5
Nebraska | Antelope | 1,086 | 4
Nebraska | Arthur | 195 | 1
Nebraska | Banner | 306 | 2
Nebraska | Blaine | 241 | 1
Nebraska | Boone | 1,152 | 4
Nebraska | Box Butte | 477 | 2
Nebraska | Boyd | 436 | 2
Nebraska | Brown | 343 | 2
Nebraska | Buffalo | 1,312 | 4
Nebraska | Burt | 1,700 | 5
Nebraska | Butler | 1,902 | 5
Nebraska | Cass | 2,075 | 6
Nebraska | Cedar | 1,200 | 4
Nebraska | Chase | 667 | 3
Nebraska | Cherry | 225 | 1
Nebraska | Cheyenne | 374 | 2
Nebraska | Clay | 1,503 | 5
Nebraska | Colfax | 1,629 | 5
Nebraska | Cuming | 1,571 | 5
Nebraska | Custer | 535 | 3
Nebraska | Dakota | 1,348 | 4
Nebraska | Dawes | 362 | 2
Nebraska | Dawson | 1,014 | 4
Nebraska | Deuel | 430 | 2
Nebraska | Dixon | 1,246 | 4
Nebraska | Dodge | 1,955 | 5
Nebraska | Douglas | 3,900 | 7
Nebraska | Dundy | 478 | 2
Nebraska | Fillmore | 1,685 | 5
Nebraska | Franklin | 768 | 3
Nebraska | Frontier | 529 | 3
Nebraska | Furnas | 604 | 3
Nebraska | Gage | 1,093 | 4
Nebraska | Garden | 255 | 2
Nebraska | Garfield | 351 | 2
Nebraska | Gosper | 836 | 3
Nebraska | Grant | 213 | 1
Nebraska | Greeley | 741 | 3
Nebraska | Hall | 1,661 | 5
Nebraska | Hamilton | 1,841 | 5
Nebraska | Harlan | 714 | 3
Nebraska | Hayes | 415 | 2
Nebraska | Hitchcock | 487 | 2
Nebraska | Holt | 518 | 3
Nebraska | Hooker | 202 | 1
Nebraska | Howard | 999 | 3
Nebraska | Jefferson | 1,181 | 4
Nebraska | Johnson | 967 | 3
Nebraska | Kearney | 1,447 | 4
Nebraska | Keith | 509 | 3
Nebraska | Keya Paha | 345 | 2
Nebraska | Kimball | 309 | 2
Nebraska | Knox | 726 | 3
Nebraska | Lancaster | 1,963 | 5
Nebraska | Lincoln | 509 | 3
Nebraska | Logan | 310 | 2
Nebraska | Loup | 279 | 2
Nebraska | Madison | 1,333 | 4
Nebraska | McPherson | 218 | 1
Nebraska | Merrick | 1,339 | 4
Nebraska | Morrill | 327 | 2
Nebraska | Nance | 917 | 3
Nebraska | Nemaha | 1,271 | 4
Nebraska | Nuckolls | 900 | 3
Nebraska | Otoe | 1,498 | 4
Nebraska | Pawnee | 845 | 3
Nebraska | Perkins | 641 | 3
Nebraska | Phelps | 1,479 | 4
Nebraska | Pierce | 1,246 | 4
Nebraska | Platte | 1,700 | 5
Nebraska | Polk | 1,851 | 5
Nebraska | Red Willow | 569 | 3
Nebraska | Richardson | 973 | 3
Nebraska | Rock | 319 | 2
Nebraska | Saline | 1,317 | 4
Nebraska | Sarpy | 3,567 | 7
Nebraska | Saunders | 2,023 | 6
Nebraska | Scotts Bluff | 648 | 3
Nebraska | Seward | 1,786 | 5
Nebraska | Sheridan | 253 | 2
Nebraska | Sherman | 621 | 3
Nebraska | Sioux | 277 | 2
Nebraska | Stanton | 1,317 | 4
Nebraska | Thayer | 1,333 | 4
Nebraska | Thomas | 205 | 1
Nebraska | Thurston | 1,335 | 4
Nebraska | Valley | 674 | 3
Nebraska | Washington | 2,252 | 6
Nebraska | Wayne | 1,458 | 4
Nebraska | Webster | 850 | 3
Nebraska | Wheeler | 525 | 3
Nebraska | York | 2,009 | 6
Nevada | Carson City | 3,235 | 7
Nevada | Churchill | 1,563 | 5
Nevada | Clark | 3,567 | 7
Nevada | Douglas | 840 | 3
Nevada | Elko | 164 | 1
Nevada | Esmeralda | 1,042 | 4
Nevada | Eureka | 230 | 1
Nevada | Humboldt | 380 | 2
Nevada | Lander | 247 | 1
Nevada | Lincoln | 1,058 | 4
Nevada | Lyon | 1,405 | 4
Nevada | Mineral | 193 | 1
Nevada | Nye | 1,044 | 4
Nevada | Pershing | 680 | 3
Nevada | Storey | 32,143 | 11
Nevada | Washoe | 595 | 3
Nevada | White Pine | 544 | 3
New Hampshire | Belknap | 3,444 | 7
New Hampshire | Carroll | 2,833 | 6
New Hampshire | Cheshire | 3,176 | 7
New Hampshire | Coos | 1,196 | 4
New Hampshire | Grafton | 2,147 | 6
New Hampshire | Hillsborough | 5,619 | 8
New Hampshire | Merrimack | 2,683 | 6
New Hampshire | Rockingham | 6,824 | 8
New Hampshire | Strafford | 2,910 | 6
New Hampshire | Sullivan | 2,559 | 6
New Jersey | Atlantic | 5,796 | 8
New Jersey | Bergen | 48,159 | 11
New Jersey | Burlington | 6,778 | 8
New Jersey | Camden | 11,446 | 9
New Jersey | Cape May | 7,049 | 8
New Jersey | Cumberland | 4,714 | 7
New Jersey | Essex | 45,867 | 11
New Jersey | Gloucester | 9,485 | 8
New Jersey | Hudson* | 9,245 | 8
New Jersey | Hunterdon | 11,994 | 9
New Jersey | Mercer | 18,855 | 9
New Jersey | Middlesex | 14,664 | 9
New Jersey | Monmouth | 17,187 | 9
New Jersey | Morris | 26,419 | 10
New Jersey | Ocean | 14,522 | 9
New Jersey | Passaic | 32,161 | 11
New Jersey | Salem | 4,572 | 7
New Jersey | Somerset | 14,440 | 9
New Jersey | Sussex | 7,136 | 8
New Jersey | Union | 93,158 | 12
New Jersey | Warren | 7,428 | 8
New Mexico | Bernalillo | 477 | 2
New Mexico | Catron | 136 | 1
New Mexico | Chaves | 212 | 1
New Mexico | Cibola | 153 | 1
New Mexico | Colfax | 224 | 1
New Mexico | Curry | 526 | 3
New Mexico | De Baca | 129 | 1
New Mexico | Dona Ana | 1,565 | 5
New Mexico | Eddy | 255 | 2
New Mexico | Grant | 186 | 1
New Mexico | Guadalupe | 104 | 1
New Mexico | Harding* | 234 | 1
New Mexico | Hidalgo | 139 | 1
New Mexico | Lea | 156 | 1
New Mexico | Lincoln | 184 | 1
New Mexico | Los Alamos* | 234 | 1
New Mexico | Luna | 228 | 1
New Mexico | McKinley | 75 | 1
New Mexico | Mora | 309 | 2
New Mexico | Otero | 241 | 1
New Mexico | Quay | 180 | 1
New Mexico | Rio Arriba | 328 | 2
New Mexico | Roosevelt | 265 | 2
New Mexico | San Juan | 324 | 2
New Mexico | San Miguel | 250 | 1
New Mexico | Sandoval | 196 | 1
New Mexico | Santa Fe | 485 | 2
New Mexico | Sierra | 175 | 1
New Mexico | Socorro | 208 | 1
New Mexico | Taos | 588 | 3
New Mexico | Torrance | 193 | 1
New Mexico | Union | 200 | 1
New Mexico | Valencia | 668 | 3
New York | Albany | 3,185 | 7
New York | Allegany | 1,056 | 4
New York | Bronx* | 1,708 | 5
New York | Broome | 2,953 | 6
New York | Cattaraugus | 1,293 | 4
New York | Cayuga | 1,523 | 5
New York | Chautauqua | 1,401 | 4
New York | Chemung | 1,380 | 4
New York | Chenango | 1,108 | 4
New York | Clinton | 1,081 | 4
New York | Columbia | 3,165 | 7
New York | Cortland | 1,074 | 4
New York | Delaware | 1,707 | 5
New York | Dutchess | 6,291 | 8
New York | Erie | 1,847 | 5
New York | Essex | 1,435 | 4
New York | Franklin | 971 | 3
New York | Fulton | 1,622 | 5
New York | Genesee | 1,395 | 4
New York | Greene | 2,130 | 6
New York | Hamilton* | 1,708 | 5
New York | Herkimer | 1,171 | 4
New York | Jefferson | 872 | 3
New York | Kings* | 1,708 | 5
New York | Lewis | 820 | 3
New York | Livingston | 1,461 | 4
New York | Madison | 1,267 | 4
New York | Monroe | 1,969 | 5
New York | Montgomery | 1,493 | 4
New York | Nassau | 30,396 | 11
New York | New York | 7,500 | 8
New York | Niagara | 1,691 | 5
New York | Oneida | 1,181 | 4
New York | Onondaga | 1,484 | 4
New York | Ontario | 1,679 | 5
New York | Orange | 4,339 | 7
New York | Orleans | 1,241 | 4
New York | Oswego | 2,275 | 6
New York | Otsego | 1,683 | 5
New York | Putnam | 9,515 | 8
New York | Queens | 1,708 | 5
New York | Rensselaer | 2,595 | 6
New York | Richmond | 98,954 | 12
New York | Rockland | 25,154 | 10
New York | Saratoga | 2,818 | 6
New York | Schenectady | 2,133 | 6
New York | Schoharie | 1,717 | 5
New York | Schuyler | 1,555 | 5
New York | Seneca | 1,505 | 5
New York | St. Lawrence | 746 | 3
New York | Steuben | 1,103 | 4
New York | Suffolk | 18,133 | 9
New York | Sullivan | 2,798 | 6
New York | Tioga | 1,385 | 4
New York | Tompkins | 1,686 | 5
New York | Ulster | 3,539 | 7
New York | Warren | 3,136 | 7
New York | Washington | 1,356 | 4
New York | Wayne | 2,488 | 6
New York | Westchester | 15,094 | 9
New York | Wyoming | 1,341 | 4
New York | Yates | 1,863 | 5
North Carolina | Alamance | 3,867 | 7
North Carolina | Alexander | 4,629 | 7
North Carolina | Alleghany | 3,451 | 7
North Carolina | Anson | 2,774 | 6
North Carolina | Ashe | 4,163 | 7
North Carolina | Avery | 4,363 | 7
North Carolina | Beaufort | 1,923 | 5
North Carolina | Bertie | 2,014 | 6
North Carolina | Bladen | 2,954 | 6
North Carolina | Brunswick | 3,183 | 7
North Carolina | Buncombe | 4,486 | 7
North Carolina | Burke | 4,030 | 7
North Carolina | Cabarrus | 4,902 | 7
North Carolina | Caldwell | 4,849 | 7
North Carolina | Camden | 1,884 | 5
North Carolina | Carteret | 2,100 | 6
North Carolina | Caswell | 2,594 | 6
North Carolina | Catawba | 3,603 | 7
North Carolina | Chatham | 3,387 | 7
North Carolina | Cherokee | 4,939 | 7
North Carolina | Chowan | 2,382 | 6
North Carolina | Clay | 5,168 | 8
North Carolina | Cleveland | 3,052 | 7
North Carolina | Columbus | 2,210 | 6
North Carolina | Craven | 2,403 | 6
North Carolina | Cumberland | 2,530 | 6
North Carolina | Currituck | 3,010 | 7
North Carolina | Dare | 1,268 | 4
North Carolina | Davidson | 3,981 | 7
North Carolina | Davie | 4,146 | 7
North Carolina | Duplin | 2,959 | 6
North Carolina | Durham | 5,416 | 8
North Carolina | Edgecombe | 2,074 | 6
North Carolina | Forsyth | 4,559 | 7
North Carolina | Franklin | 2,892 | 6
North Carolina | Gaston | 4,218 | 7
North Carolina | Gates | 1,839 | 5
North Carolina | Graham | 3,731 | 7
North Carolina | Granville | 2,701 | 6
North Carolina | Greene | 2,995 | 6
North Carolina | Guilford | 5,071 | 8
North Carolina | Halifax | 1,810 | 5
North Carolina | Harnett | 3,546 | 7
North Carolina | Haywood | 4,646 | 7
North Carolina | Henderson | 5,243 | 8
North Carolina | Hertford | 1,934 | 5
North Carolina | Hoke | 2,690 | 6
North Carolina | Hyde | 1,819 | 5
North Carolina | Iredell | 4,566 | 7
North Carolina | Jackson | 6,098 | 8
North Carolina | Johnston | 3,582 | 7
North Carolina | Jones | 2,309 | 6
North Carolina | Lee | 3,217 | 7
North Carolina | Lenoir | 3,326 | 7
North Carolina | Lincoln | 3,970 | 7
North Carolina | Macon | 6,039 | 8
North Carolina | Madison | 3,942 | 7
North Carolina | Martin | 2,128 | 6
North Carolina | McDowell | 3,355 | 7
North Carolina | Mecklenburg | 9,616 | 8
North Carolina | Mitchell | 4,331 | 7
North Carolina | Montgomery | 3,337 | 7
North Carolina | Moore | 3,027 | 7
North Carolina | Nash | 2,503 | 6
North Carolina | New Hanover | 9,976 | 8
North Carolina | Northampton | 2,011 | 6
North Carolina | Onslow | 2,949 | 6
North Carolina | Orange | 4,874 | 7
North Carolina | Pamlico | 1,956 | 5
North Carolina | Pasquotank | 1,940 | 5
North Carolina | Pender | 3,118 | 7
North Carolina | Perquimans | 2,285 | 6
North Carolina | Person | 2,463 | 6
North Carolina | Pitt | 2,389 | 6
North Carolina | Polk | 4,682 | 7
North Carolina | Randolph | 3,814 | 7
North Carolina | Richmond | 2,482 | 6
North Carolina | Robeson | 1,994 | 5
North Carolina | Rockingham | 2,665 | 6
North Carolina | Rowan | 3,595 | 7
North Carolina | Rutherford | 3,035 | 7
North Carolina | Sampson | 3,084 | 7
North Carolina | Scotland | 2,219 | 6
North Carolina | Stanly | 3,650 | 7
North Carolina | Stokes | 2,906 | 6
North Carolina | Surry | 3,646 | 7
North Carolina | Swain | 4,461 | 7
North Carolina | Transylvania | 6,417 | 8
North Carolina | Tyrrell | 1,809 | 5
North Carolina | Union | 3,688 | 7
North Carolina | Vance | 2,142 | 6
North Carolina | Wake | 6,388 | 8
North Carolina | Warren | 2,146 | 6
North Carolina | Washington | 1,954 | 5
North Carolina | Watauga | 4,026 | 7
North Carolina | Wayne | 3,162 | 7
North Carolina | Wilkes | 2,997 | 6
North Carolina | Wilson | 2,471 | 6
North Carolina | Yadkin | 3,257 | 7
North Carolina | Yancey | 4,628 | 7
North Dakota | Adams | 250 | 1
North Dakota | Barnes | 448 | 2
North Dakota | Benson | 355 | 2
North Dakota | Billings | 250 | 1
North Dakota | Bottineau | 409 | 2
North Dakota | Bowman | 249 | 1
North Dakota | Burke | 295 | 2
North Dakota | Burleigh | 339 | 2
North Dakota | Cass | 876 | 3
North Dakota | Cavalier | 542 | 3
North Dakota | Dickey | 502 | 3
North Dakota | Divide | 285 | 2
North Dakota | Dunn | 252 | 2
North Dakota | Eddy | 315 | 2
North Dakota | Emmons | 280 | 2
North Dakota | Foster | 399 | 2
North Dakota | Golden Valley | 246 | 1
North Dakota | Grand Forks | 793 | 3
North Dakota | Grant | 309 | 2
North Dakota | Griggs | 354 | 2
North Dakota | Hettinger | 336 | 2
North Dakota | Kidder | 281 | 2
North Dakota | LaMoure | 558 | 3
North Dakota | Logan | 245 | 1
North Dakota | McHenry | 329 | 2
North Dakota | McIntosh | 287 | 2
North Dakota | McKenzie | 304 | 2
North Dakota | McLean | 427 | 2
North Dakota | Mercer | 268 | 2
North Dakota | Morton | 303 | 2
North Dakota | Mountrail | 306 | 2
North Dakota | Nelson | 345 | 2
North Dakota | Oliver | 242 | 1
North Dakota | Pembina | 765 | 3
North Dakota | Pierce | 346 | 2
North Dakota | Ramsey | 368 | 2
North Dakota | Ransom | 520 | 3
North Dakota | Renville | 536 | 3
North Dakota | Richland | 945 | 3
North Dakota | Rolette | 329 | 2
North Dakota | Sargent | 543 | 3
North Dakota | Sheridan | 281 | 2
North Dakota | Sioux | 201 | 1
North Dakota | Slope | 244 | 1
North Dakota | Stark | 324 | 2
North Dakota | Steele | 577 | 3
North Dakota | Stutsman | 407 | 2
North Dakota | Towner | 359 | 2
North Dakota | Traill | 842 | 3
North Dakota | Walsh | 719 | 3
North Dakota | Ward | 419 | 2
North Dakota | Wells | 375 | 2
North Dakota | Williams | 323 | 2
Ohio | Adams | 1,890 | 5
Ohio | Allen | 3,031 | 7
Ohio | Ashland | 2,890 | 6
Ohio | Ashtabula | 2,399 | 6
Ohio | Athens | 1,780 | 5
Ohio | Auglaize | 2,932 | 6
Ohio | Belmont | 1,644 | 5
Ohio | Brown | 2,367 | 6
Ohio | Butler | 4,111 | 7
Ohio | Carroll | 2,091 | 6
Ohio | Champaign | 2,842 | 6
Ohio | Clark | 3,539 | 7
Ohio | Clermont | 3,611 | 7
Ohio | Clinton | 2,900 | 6
Ohio | Columbiana | 2,896 | 6
Ohio | Coshocton | 2,278 | 6
Ohio | Crawford | 2,438 | 6
Ohio | Cuyahoga | 21,742 | 10
Ohio | Darke | 3,170 | 7
Ohio | Defiance | 2,069 | 6
Ohio | Delaware | 3,793 | 7
Ohio | Erie | 3,118 | 7
Ohio | Fairfield | 3,324 | 7
Ohio | Fayette | 2,423 | 6
Ohio | Franklin | 4,684 | 7
Ohio | Fulton | 2,654 | 6
Ohio | Gallia | 1,799 | 5
Ohio | Geauga | 6,207 | 8
Ohio | Greene | 3,082 | 7
Ohio | Guernsey | 1,915 | 5
Ohio | Hamilton | 5,138 | 8
Ohio | Hancock | 2,424 | 6
Ohio | Hardin | 2,194 | 6
Ohio | Harrison | 1,157 | 4
Ohio | Henry | 2,522 | 6
Ohio | Highland | 2,452 | 6
Ohio | Hocking | 2,516 | 6
Ohio | Holmes | 3,484 | 7
Ohio | Huron | 2,771 | 6
Ohio | Jackson | 1,367 | 4
Ohio | Jefferson | 1,866 | 5
Ohio | Knox | 2,878 | 6
Ohio | Lake | 8,039 | 8
Ohio | Lawrence | 1,785 | 5
Ohio | Licking | 3,517 | 7
Ohio | Logan | 2,148 | 6
Ohio | Lorain | 3,164 | 7
Ohio | Lucas | 3,365 | 7
Ohio | Madison | 3,099 | 7
Ohio | Mahoning | 3,110 | 7
Ohio | Marion | 2,229 | 6
Ohio | Medina | 4,851 | 7
Ohio | Meigs | 1,731 | 5
Ohio | Mercer | 3,257 | 7
Ohio | Miami | 3,275 | 7
Ohio | Monroe | 1,408 | 4
Ohio | Montgomery | 3,876 | 7
Ohio | Morgan | 1,467 | 4
Ohio | Morrow | 2,464 | 6
Ohio | Muskingum | 1,924 | 5
Ohio | Noble | 1,611 | 5
Ohio | Ottawa | 2,177 | 6
Ohio | Paulding | 2,090 | 6
Ohio | Perry | 2,261 | 6
Ohio | Pickaway | 2,983 | 6
Ohio | Pike | 1,652 | 5
Ohio | Portage | 4,245 | 7
Ohio | Preble | 2,510 | 6
Ohio | Putnam | 2,386 | 6
Ohio | Richland | 2,734 | 6
Ohio | Ross | 2,065 | 6
Ohio | Sandusky | 2,300 | 6
Ohio | Scioto | 1,619 | 5
Ohio | Seneca | 2,346 | 6
Ohio | Shelby | 2,742 | 6
Ohio | Stark | 4,039 | 7
Ohio | Summit | 5,723 | 8
Ohio | Trumbull | 3,017 | 7
Ohio | Tuscarawas | 2,856 | 6
Ohio | Union | 2,563 | 6
Ohio | Van Wert | 2,599 | 6
Ohio | Vinton | 2,064 | 6
Ohio | Warren | 4,851 | 7
Ohio | Washington | 1,970 | 5
Ohio | Wayne | 4,460 | 7
Ohio | Williams | 2,249 | 6
Ohio | Wood | 2,764 | 6
Ohio | Wyandot | 2,784 | 6
Oklahoma | Adair | 1,179 | 4
Oklahoma | Alfalfa | 706 | 3
Oklahoma | Atoka | 627 | 3
Oklahoma | Beaver | 365 | 2
Oklahoma | Beckham | 575 | 3
Oklahoma | Blaine | 613 | 3
Oklahoma | Bryan | 868 | 3
Oklahoma | Caddo | 619 | 3
Oklahoma | Canadian | 1,000 | 3
Oklahoma | Carter | 763 | 3
Oklahoma | Cherokee | 1,156 | 4
Oklahoma | Choctaw | 607 | 3
Oklahoma | Cimarron | 301 | 2
Oklahoma | Cleveland | 1,862 | 5
Oklahoma | Coal | 634 | 3
Oklahoma | Comanche | 768 | 3
Oklahoma | Cotton | 522 | 3
Oklahoma | Craig | 770 | 3
Oklahoma | Creek | 906 | 3
Oklahoma | Custer | 579 | 3
Oklahoma | Delaware | 1,508 | 5
Oklahoma | Dewey | 521 | 3
Oklahoma | Ellis | 328 | 2
Oklahoma | Garfield | 684 | 3
Oklahoma | Garvin | 823 | 3
Oklahoma | Grady | 789 | 3
Oklahoma | Grant | 583 | 3
Oklahoma | Greer | 396 | 2
Oklahoma | Harmon | 365 | 2
Oklahoma | Harper | 330 | 2
Oklahoma | Haskell | 880 | 3
Oklahoma | Hughes | 606 | 3
Oklahoma | Jackson | 523 | 3
Oklahoma | Jefferson | 501 | 3
Oklahoma | Johnston | 751 | 3
Oklahoma | Kay | 737 | 3
Oklahoma | Kingfisher | 754 | 3
Oklahoma | Kiowa | 503 | 3
Oklahoma | Latimer | 640 | 3
Oklahoma | Le Flore | 1,220 | 4
Oklahoma | Lincoln | 872 | 3
Oklahoma | Logan | 975 | 3
Oklahoma | Love | 794 | 3
Oklahoma | Major | 558 | 3
Oklahoma | Marshall | 674 | 3
Oklahoma | Mayes | 1,243 | 4
Oklahoma | McClain | 1,149 | 4
Oklahoma | McCurtain | 954 | 3
Oklahoma | McIntosh | 773 | 3
Oklahoma | Murray | 693 | 3
Oklahoma | Muskogee | 905 | 3
Oklahoma | Noble | 718 | 3
Oklahoma | Nowata | 761 | 3
Oklahoma | Okfuskee | 771 | 3
Oklahoma | Oklahoma | 1,927 | 5
Oklahoma | Okmulgee | 906 | 3
Oklahoma | Osage | 542 | 3
Oklahoma | Ottawa | 1,267 | 4
Oklahoma | Pawnee | 595 | 3
Oklahoma | Payne | 1,005 | 4
Oklahoma | Pittsburg | 756 | 3
Oklahoma | Pontotoc | 808 | 3
Oklahoma | Pottawatomie | 991 | 3
Oklahoma | Pushmataha | 555 | 3
Oklahoma | Roger Mills | 390 | 2
Oklahoma | Rogers | 1,405 | 4
Oklahoma | Seminole | 742 | 3
Oklahoma | Sequoyah | 1,286 | 4
Oklahoma | Stephens | 676 | 3
Oklahoma | Texas | 519 | 3
Oklahoma | Tillman | 547 | 3
Oklahoma | Tulsa | 2,122 | 6
Oklahoma | Wagoner | 1,344 | 4
Oklahoma | Washington | 1,030 | 4
Oklahoma | Washita | 590 | 3
Oklahoma | Woods | 486 | 2
Oklahoma | Woodward | 455 | 2
Oregon | Baker | 546 | 3
Oregon | Benton | 3,854 | 7
Oregon | Clackamas | 9,600 | 8
Oregon | Clatsop | 2,776 | 6
Oregon | Columbia | 3,813 | 7
Oregon | Coos | 3,364 | 7
Oregon | Crook | 531 | 3
Oregon | Curry | 1,949 | 5
Oregon | Deschutes | 5,172 | 8
Oregon | Douglas | 2,060 | 6
Oregon | Gilliam | 305 | 2
Oregon | Grant | 306 | 2
Oregon | Harney | 289 | 2
Oregon | Hood River | 9,364 | 8
Oregon | Jackson | 2,824 | 6
Oregon | Jefferson | 561 | 3
Oregon | Josephine | 4,153 | 7
Oregon | Klamath | 1,012 | 4
Oregon | Lake | 487 | 2
Oregon | Lane | 4,572 | 7
Oregon | Lincoln | 2,607 | 6
Oregon | Linn | 2,849 | 6
Oregon | Malheur | 537 | 3
Oregon | Marion | 5,107 | 8
Oregon | Morrow | 365 | 2
Oregon | Multnomah | 10,876 | 9
Oregon | Polk | 4,948 | 7
Oregon | Sherman | 368 | 2
Oregon | Tillamook | 5,259 | 8
Oregon | Umatilla | 765 | 3
Oregon | Union | 1,044 | 4
Oregon | Wallowa | 614 | 3
Oregon | Wasco | 394 | 2
Oregon | Washington | 7,294 | 8
Oregon | Wheeler | 274 | 2
Oregon | Yamhill | 6,885 | 8
Pennsylvania | Adams | 3,781 | 7
Pennsylvania | Allegheny | 4,763 | 7
Pennsylvania | Armstrong | 2,333 | 6
Pennsylvania | Beaver | 2,976 | 6
Pennsylvania | Bedford | 1,980 | 5
Pennsylvania | Berks | 5,527 | 8
Pennsylvania | Blair | 3,126 | 7
Pennsylvania | Bradford | 1,790 | 5
Pennsylvania | Bucks | 9,418 | 8
Pennsylvania | Butler | 3,950 | 7
Pennsylvania | Cambria | 2,687 | 6
Pennsylvania | Cameron | 1,878 | 5
Pennsylvania | Carbon | 4,436 | 7
Pennsylvania | Centre | 3,400 | 7
Pennsylvania | Chester | 10,358 | 9
Pennsylvania | Clarion | 1,837 | 5
Pennsylvania | Clearfield | 1,650 | 5
Pennsylvania | Clinton | 2,804 | 6
Pennsylvania | Columbia | 3,137 | 7
Pennsylvania | Crawford | 1,738 | 5
Pennsylvania | Cumberland | 3,826 | 7
Pennsylvania | Dauphin | 5,291 | 8
Pennsylvania | Delaware | 22,852 | 10
Pennsylvania | Elk | 3,104 | 7
Pennsylvania | Erie | 2,320 | 6
Pennsylvania | Fayette | 1,844 | 5
Pennsylvania | Forest | 2,008 | 6
Pennsylvania | Franklin | 3,879 | 7
Pennsylvania | Fulton | 2,318 | 6
Pennsylvania | Greene | 1,184 | 4
Pennsylvania | Huntingdon | 2,436 | 6
Pennsylvania | Indiana | 1,879 | 5
Pennsylvania | Jefferson | 1,856 | 5
Pennsylvania | Juniata | 3,059 | 7
Pennsylvania | Lackawanna | 3,205 | 7
Pennsylvania | Lancaster | 7,955 | 8
Pennsylvania | Lawrence | 2,441 | 6
Pennsylvania | Lebanon | 5,349 | 8
Pennsylvania | Lehigh | 4,504 | 7
Pennsylvania | Luzerne | 3,541 | 7
Pennsylvania | Lycoming | 2,318 | 6
Pennsylvania | McKean | 1,179 | 4
Pennsylvania | Mercer | 2,070 | 6
Pennsylvania | Mifflin | 3,189 | 7
Pennsylvania | Monroe | 5,191 | 8
Pennsylvania | Montgomery | 12,748 | 9
Pennsylvania | Montour | 2,996 | 6
Pennsylvania | Northampton | 4,862 | 7
Pennsylvania | Northumberland | 3,099 | 7
Pennsylvania | Perry | 3,203 | 7
Pennsylvania | Philadelphia | 26,090 | 10
Pennsylvania | Pike | 2,878 | 6
Pennsylvania | Potter | 1,678 | 5
Pennsylvania | Schuylkill | 3,383 | 7
Pennsylvania | Snyder | 3,558 | 7
Pennsylvania | Somerset | 1,895 | 5
Pennsylvania | Sullivan | 1,878 | 5
Pennsylvania | Susquehanna | 2,162 | 6
Pennsylvania | Tioga | 2,328 | 6
Pennsylvania | Union | 4,156 | 7
Pennsylvania | Venango | 1,489 | 4
Pennsylvania | Warren | 1,287 | 4
Pennsylvania | Washington | 2,095 | 6
Pennsylvania | Wayne | 2,111 | 6
Pennsylvania | Westmoreland | 2,814 | 6
Pennsylvania | Wyoming | 2,276 | 6
Pennsylvania | York | 4,805 | 7
Puerto Rico | All areas | 5,866 | 8
Rhode Island | Bristol | 22,431 | 10
Rhode Island | Kent | 6,553 | 8
Rhode Island | Newport | 13,362 | 9
Rhode Island | Providence | 8,982 | 8
Rhode Island | Washington | 7,743 | 8
South Carolina | Abbeville | 2,029 | 6
South Carolina | Aiken | 2,219 | 6
South Carolina | Allendale | 1,252 | 4
South Carolina | Anderson | 3,314 | 7
South Carolina | Bamberg | 1,314 | 4
South Carolina | Barnwell | 1,306 | 4
South Carolina | Beaufort | 2,473 | 6
South Carolina | Berkeley | 2,745 | 6
South Carolina | Calhoun | 1,478 | 4
South Carolina | Charleston | 4,967 | 7
South Carolina | Cherokee | 2,030 | 6
South Carolina | Chester | 1,997 | 5
South Carolina | Chesterfield | 1,408 | 4
South Carolina | Clarendon | 1,415 | 4
South Carolina | Colleton | 1,750 | 5
South Carolina | Darlington | 996 | 3
South Carolina | Dillon | 1,391 | 4
South Carolina | Dorchester | 1,985 | 5
South Carolina | Edgefield | 2,032 | 6
South Carolina | Fairfield | 1,493 | 4
South Carolina | Florence | 1,570 | 5
South Carolina | Georgetown | 2,122 | 6
South Carolina | Greenville | 3,402 | 7
South Carolina | Greenwood | 1,858 | 5
South Carolina | Hampton | 1,498 | 4
South Carolina | Horry | 2,171 | 6
South Carolina | Jasper | 1,454 | 4
South Carolina | Kershaw | 2,116 | 6
South Carolina | Lancaster | 2,204 | 6
South Carolina | Laurens | 2,236 | 6
South Carolina | Lee | 1,381 | 4
South Carolina | Lexington | 2,780 | 6
South Carolina | Marion | 1,503 | 5
South Carolina | Marlboro | 1,204 | 4
South Carolina | McCormick | 2,626 | 6
South Carolina | Newberry | 2,052 | 6
South Carolina | Oconee | 4,792 | 7
South Carolina | Orangeburg | 1,371 | 4
South Carolina | Pickens | 4,652 | 7
South Carolina | Richland | 3,296 | 7
South Carolina | Saluda | 2,016 | 6
South Carolina | Spartanburg | 4,029 | 7
South Carolina | Sumter | 1,958 | 5
South Carolina | Union | 1,747 | 5
South Carolina | Williamsburg | 1,655 | 5
South Carolina | York | 4,067 | 7
South Dakota | Aurora | 592 | 3
South Dakota | Beadle | 537 | 3
South Dakota | Bennett | 241 | 1
South Dakota | Bon Homme | 787 | 3
South Dakota | Brookings | 871 | 3
South Dakota | Brown | 737 | 3
South Dakota | Brule | 493 | 2
South Dakota | Buffalo | 272 | 2
South Dakota | Butte | 263 | 2
South Dakota | Campbell | 314 | 2
South Dakota | Charles Mix | 596 | 3
South Dakota | Clark | 633 | 3
South Dakota | Clay | 1,276 | 4
South Dakota | Codington | 738 | 3
South Dakota | Corson | 172 | 1
South Dakota | Custer | 387 | 2
South Dakota | Davison | 709 | 3
South Dakota | Day | 601 | 3
South Dakota | Deuel | 708 | 3
South Dakota | Dewey | 213 | 1
South Dakota | Douglas | 656 | 3
South Dakota | Edmunds | 465 | 2
South Dakota | Fall River | 254 | 2
South Dakota | Faulk | 391 | 2
South Dakota | Grant | 728 | 3
South Dakota | Gregory | 396 | 2
South Dakota | Haakon | 218 | 1
South Dakota | Hamlin | 792 | 3
South Dakota | Hand | 347 | 2
South Dakota | Hanson | 770 | 3
South Dakota | Harding | 149 | 1
South Dakota | Hughes | 441 | 2
South Dakota | Hutchinson | 800 | 3
South Dakota | Hyde | 302 | 2
South Dakota | Jackson | 200 | 1
South Dakota | Jerauld | 401 | 2
South Dakota | Jones | 267 | 2
South Dakota | Kingsbury | 743 | 3
South Dakota | Lake | 982 | 3
South Dakota | Lawrence | 724 | 3
South Dakota | Lincoln | 1,673 | 5
South Dakota | Lyman | 344 | 2
South Dakota | Marshall | 603 | 3
South Dakota | McCook | 860 | 3
South Dakota | McPherson | 346 | 2
South Dakota | Meade | 268 | 2
South Dakota | Mellette | 208 | 1
South Dakota | Miner | 695 | 3
South Dakota | Minnehaha | 1,461 | 4
South Dakota | Moody | 1,205 | 4
South Dakota | Pennington | 351 | 2
South Dakota | Perkins | 189 | 1
South Dakota | Potter | 442 | 2
South Dakota | Roberts | 700 | 3
South Dakota | Sanborn | 487 | 2
South Dakota | Shannon | 168 | 1
South Dakota | Spink | 564 | 3
South Dakota | Stanley | 208 | 1
South Dakota | Sully | 482 | 2
South Dakota | Todd | 208 | 1
South Dakota | Tripp | 338 | 2
South Dakota | Turner | 1,291 | 4
South Dakota | Union | 1,923 | 5
South Dakota | Walworth | 340 | 2
South Dakota | Yankton | 1,049 | 4
South Dakota | Ziebach | 173 | 1
Tennessee | Anderson | 4,033 | 7
Tennessee | Bedford | 2,494 | 6
Tennessee | Benton | 1,580 | 5
Tennessee | Bledsoe | 2,174 | 6
Tennessee | Blount | 5,304 | 8
Tennessee | Bradley | 3,804 | 7
Tennessee | Campbell | 1,970 | 5
Tennessee | Cannon | 2,768 | 6
Tennessee | Carroll | 1,675 | 5
Tennessee | Carter | 3,033 | 7
Tennessee | Cheatham | 3,109 | 7
Tennessee | Chester | 1,644 | 5
Tennessee | Claiborne | 1,840 | 5
Tennessee | Clay | 1,515 | 5
Tennessee | Cocke | 2,809 | 6
Tennessee | Coffee | 2,581 | 6
Tennessee | Crockett | 2,048 | 6
Tennessee | Cumberland | 2,570 | 6
Tennessee | Davidson | 6,559 | 8
Tennessee | Decatur | 1,326 | 4
Tennessee | DeKalb | 2,544 | 6
Tennessee | Dickson | 2,612 | 6
Tennessee | Dyer | 1,896 | 5
Tennessee | Fayette | 2,031 | 6
Tennessee | Fentress | 2,253 | 6
Tennessee | Franklin | 2,681 | 6
Tennessee | Gibson | 1,594 | 5
Tennessee | Giles | 2,093 | 6
Tennessee | Grainger | 2,064 | 6
Tennessee | Greene | 2,941 | 6
Tennessee | Grundy | 2,136 | 6
Tennessee | Hamblen | 3,852 | 7
Tennessee | Hamilton | 3,074 | 7
Tennessee | Hancock | 1,954 | 5
Tennessee | Hardeman | 1,236 | 4
Tennessee | Hardin | 1,476 | 4
Tennessee | Hawkins | 2,716 | 6
Tennessee | Haywood | 1,621 | 5
Tennessee | Henderson | 1,394 | 4
Tennessee | Henry | 1,536 | 5
Tennessee | Hickman | 1,519 | 5
Tennessee | Houston | 1,457 | 4
Tennessee | Humphreys | 1,599 | 5
Tennessee | Jackson | 1,731 | 5
Tennessee | Jefferson | 3,853 | 7
Tennessee | Johnson | 3,744 | 7
Tennessee | Knox | 5,170 | 8
Tennessee | Lake | 1,509 | 5
Tennessee | Lauderdale | 1,420 | 4
Tennessee | Lawrence | 1,808 | 5
Tennessee | Lewis | 1,906 | 5
Tennessee | Lincoln | 2,024 | 6
Tennessee | Loudon | 3,938 | 7
Tennessee | Macon | 2,648 | 6
Tennessee | Madison | 2,530 | 6
Tennessee | Marion | 2,009 | 6
Tennessee | Marshall | 2,255 | 6
Tennessee | Maury | 2,579 | 6
Tennessee | McMinn | 2,814 | 6
Tennessee | McNairy | 1,061 | 4
Tennessee | Meigs | 2,813 | 6
Tennessee | Monroe | 2,926 | 6
Tennessee | Montgomery | 2,412 | 6
Tennessee | Moore | 2,091 | 6
Tennessee | Morgan | 2,322 | 6
Tennessee | Obion | 1,666 | 5
Tennessee | Overton | 2,480 | 6
Tennessee | Perry | 1,484 | 4
Tennessee | Pickett | 2,364 | 6
Tennessee | Polk | 4,136 | 7
Tennessee | Putnam | 2,979 | 6
Tennessee | Rhea | 2,705 | 6
Tennessee | Roane | 3,568 | 7
Tennessee | Robertson | 2,548 | 6
Tennessee | Rutherford | 2,959 | 6
Tennessee | Scott | 2,024 | 6
Tennessee | Sequatchie | 2,263 | 6
Tennessee | Sevier | 3,770 | 7
Tennessee | Shelby | 3,821 | 7
Tennessee | Smith | 2,085 | 6
Tennessee | Stewart | 2,069 | 6
Tennessee | Sullivan | 3,485 | 7
Tennessee | Sumner | 3,296 | 7
Tennessee | Tipton | 1,948 | 5
Tennessee | Trousdale | 2,629 | 6
Tennessee | Unicoi | 6,288 | 8
Tennessee | Union | 2,687 | 6
Tennessee | Van Buren | 1,982 | 5
Tennessee | Warren | 2,448 | 6
Tennessee | Washington | 4,056 | 7
Tennessee | Wayne | 1,288 | 4
Tennessee | Weakley | 1,524 | 5
Tennessee | White | 2,508 | 6
Tennessee | Williamson | 5,166 | 8
Tennessee | Wilson | 3,307 | 7
Texas | Anderson | 1,038 | 4
Texas | Andrews | 164 | 1
Texas | Angelina | 2,320 | 6
Texas | Aransas | 1,008 | 4
Texas | Archer | 529 | 3
Texas | Armstrong | 374 | 2
Texas | Atascosa | 950 | 3
Texas | Austin | 2,176 | 6
Texas | Bailey | 440 | 2
Texas | Bandera | 1,738 | 5
Texas | Bastrop | 1,859 | 5
Texas | Baylor | 517 | 3
Texas | Bee | 826 | 3
Texas | Bell | 1,293 | 4
Texas | Bexar | 2,000 | 5
Texas | Blanco | 2,441 | 6
Texas | Borden | 347 | 2
Texas | Bosque | 1,477 | 4
Texas | Bowie | 1,626 | 5
Texas | Brazoria | 1,516 | 5
Texas | Brazos | 1,712 | 5
Texas | Brewster | 115 | 1
Texas | Briscoe | 274 | 2
Texas | Brooks | 576 | 3
Texas | Brown | 897 | 3
Texas | Burleson | 1,402 | 4
Texas | Burnet | 1,815 | 5
Texas | Caldwell | 1,676 | 5
Texas | Calhoun | 868 | 3
Texas | Callahan | 592 | 3
Texas | Cameron | 1,549 | 5
Texas | Camp | 1,890 | 5
Texas | Carson | 444 | 2
Texas | Cass | 1,254 | 4
Texas | Castro | 665 | 3
Texas | Chambers | 906 | 3
Texas | Cherokee | 1,357 | 4
Texas | Childress | 322 | 2
Texas | Clay | 636 | 3
Texas | Cochran | 369 | 2
Texas | Coke | 522 | 3
Texas | Coleman | 612 | 3
Texas | Collin | 2,534 | 6
Texas | Collingsworth | 456 | 2
Texas | Colorado | 1,513 | 5
Texas | Comal | 2,102 | 6
Texas | Comanche | 977 | 3
Texas | Concho | 514 | 3
Texas | Cooke | 1,413 | 4
Texas | Coryell | 1,063 | 4
Texas | Cottle | 234 | 1
Texas | Crane | 112 | 1
Texas | Crockett | 202 | 1
Texas | Crosby | 466 | 2
Texas | Culberson | 83 | 1
Texas | Dallam | 601 | 3
Texas | Dallas | 2,969 | 6
Texas | Dawson | 531 | 3
Texas | Deaf Smith | 440 | 2
Texas | Delta | 942 | 3
Texas | Denton | 2,898 | 6
Texas | DeWitt | 1,199 | 4
Texas | Dickens | 286 | 2
Texas | Dimmit | 493 | 2
Texas | Donley | 360 | 2
Texas | Duval | 725 | 3
Texas | Eastland | 729 | 3
Texas | Ector | 141 | 1
Texas | Edwards | 418 | 2
Texas | El Paso | 2,187 | 6
Texas | Ellis | 1,588 | 5
Texas | Erath | 1,332 | 4
Texas | Falls | 868 | 3
Texas | Fannin | 1,150 | 4
Texas | Fayette | 1,879 | 5
Texas | Fisher | 427 | 2
Texas | Floyd | 484 | 2
Texas | Foard | 343 | 2
Texas | Fort Bend | 1,926 | 5
Texas | Franklin | 1,228 | 4
Texas | Freestone | 900 | 3
Texas | Frio | 782 | 3
Texas | Gaines | 602 | 3
Texas | Galveston | 1,576 | 5
Texas | Garza | 266 | 2
Texas | Gillespie | 1,994 | 5
Texas | Glasscock | 353 | 2
Texas | Goliad | 908 | 3
Texas | Gonzales | 1,174 | 4
Texas | Gray | 428 | 2
Texas | Grayson | 1,921 | 5
Texas | Gregg | 1,454 | 4
Texas | Grimes | 1,798 | 5
Texas | Guadalupe | 2,021 | 6
Texas | Hale | 591 | 3
Texas | Hall | 289 | 2
Texas | Hamilton | 900 | 3
Texas | Hansford | 369 | 2
Texas | Hardeman | 349 | 2
Texas | Hardin | 1,260 | 4
Texas | Harris | 2,622 | 6
Texas | Harrison | 1,199 | 4
Texas | Hartley | 376 | 2
Texas | Haskell | 422 | 2
Texas | Hays | 2,877 | 6
Texas | Hemphill | 266 | 2
Texas | Henderson | 1,636 | 5
Texas | Hidalgo | 2,015 | 6
Texas | Hill | 1,198 | 4
Texas | Hockley | 488 | 2
Texas | Hood | 2,321 | 6
Texas | Hopkins | 1,405 | 4
Texas | Houston | 1,080 | 4
Texas | Howard | 444 | 2
Texas | Hudspeth | 151 | 1
Texas | Hunt | 1,585 | 5
Texas | Hutchinson | 253 | 2
Texas | Irion | 234 | 1
Texas | Jack | 713 | 3
Texas | Jackson | 1,089 | 4
Texas | Jasper | 1,536 | 5
Texas | Jeff Davis | 131 | 1
Texas | Jefferson | 860 | 3
Texas | Jim Hogg | 447 | 2
Texas | Jim Wells | 625 | 3
Texas | Johnson | 2,185 | 6
Texas | Jones | 520 | 3
Texas | Karnes | 817 | 3
Texas | Kaufman | 1,556 | 5
Texas | Kendall | 2,168 | 6
Texas | Kenedy | 353 | 2
Texas | Kent | 207 | 1
Texas | Kerr | 1,134 | 4
Texas | Kimble | 651 | 3
Texas | King | 213 | 1
Texas | Kinney | 397 | 2
Texas | Kleberg | 598 | 3
Texas | Knox | 298 | 2
Texas | La Salle | 593 | 3
Texas | Lamar | 880 | 3
Texas | Lamb | 523 | 3
Texas | Lampasas | 1,215 | 4
Texas | Lavaca | 1,280 | 4
Texas | Lee | 1,445 | 4
Texas | Leon | 1,067 | 4
Texas | Liberty | 1,506 | 5
Texas | Limestone | 743 | 3
Texas | Lipscomb | 367 | 2
Texas | Live Oak | 710 | 3
Texas | Llano | 1,426 | 4
Texas | Loving | 80 | 1
Texas | Lubbock | 811 | 3
Texas | Lynn | 471 | 2
Texas | Madison | 1,137 | 4
Texas | Marion | 976 | 3
Texas | Martin | 434 | 2
Texas | Mason | 971 | 3
Texas | Matagorda | 1,014 | 4
Texas | Maverick | 292 | 2
Texas | McCulloch | 724 | 3
Texas | McLennan | 1,248 | 4
Texas | McMullen | 707 | 3
Texas | Medina | 1,127 | 4
Texas | Menard | 494 | 2
Texas | Midland | 384 | 2
Texas | Milam | 1,186 | 4
Texas | Mills | 972 | 3
Texas | Mitchell | 341 | 2
Texas | Montague | 1,260 | 4
Texas | Montgomery | 2,809 | 6
Texas | Moore | 574 | 3
Texas | Morris | 833 | 3
Texas | Motley | 268 | 2
Texas | Nacogdoches | 1,368 | 4
Texas | Navarro | 868 | 3
Texas | Newton | 957 | 3
Texas | Nolan | 475 | 2
Texas | Nueces | 946 | 3
Texas | Ochiltree | 432 | 2
Texas | Oldham | 213 | 1
Texas | Orange | 1,704 | 5
Texas | Palo Pinto | 800 | 3
Texas | Panola | 1,007 | 4
Texas | Parker | 2,287 | 6
Texas | Parmer | 599 | 3
Texas | Pecos | 139 | 1
Texas | Polk | 1,359 | 4
Texas | Potter | 371 | 2
Texas | Presidio | 324 | 2
Texas | Rains | 1,565 | 5
Texas | Randall | 555 | 3
Texas | Reagan | 204 | 1
Texas | Real | 615 | 3
Texas | Red River | 879 | 3
Texas | Reeves | 139 | 1
Texas | Refugio | 430 | 2
Texas | Roberts | 218 | 1
Texas | Robertson | 1,064 | 4
Texas | Rockwall | 3,129 | 7
Texas | Runnels | 598 | 3
Texas | Rusk | 1,287 | 4
Texas | Sabine | 1,906 | 5
Texas | San Augustine | 1,326 | 4
Texas | San Jacinto | 2,118 | 6
Texas | San Patricio | 888 | 3
Texas | San Saba | 768 | 3
Texas | Schleicher | 339 | 2
Texas | Scurry | 380 | 2
Texas | Shackelford | 437 | 2
Texas | Shelby | 1,855 | 5
Texas | Sherman | 560 | 3
Texas | Smith | 1,566 | 5
Texas | Somervell | 1,731 | 5
Texas | Starr | 662 | 3
Texas | Stephens | 480 | 2
Texas | Sterling | 200 | 1
Texas | Stonewall | 293 | 2
Texas | Sutton | 362 | 2
Texas | Swisher | 460 | 2
Texas | Tarrant | 3,011 | 7
Texas | Taylor | 661 | 3
Texas | Terrell | 107 | 1
Texas | Terry | 610 | 3
Texas | Throckmorton | 364 | 2
Texas | Titus | 1,586 | 5
Texas | Tom Green | 628 | 3
Texas | Travis | 1,801 | 5
Texas | Trinity | 1,248 | 4
Texas | Tyler | 1,951 | 5
Texas | Upshur | 1,556 | 5
Texas | Upton | 137 | 1
Texas | Uvalde | 645 | 3
Texas | Val Verde | 211 | 1
Texas | Van Zandt | 1,615 | 5
Texas | Victoria | 898 | 3
Texas | Walker | 2,453 | 6
Texas | Waller | 2,805 | 6
Texas | Ward | 138 | 1
Texas | Washington | 2,459 | 6
Texas | Webb | 446 | 2
Texas | Wharton | 1,164 | 4
Texas | Wheeler | 390 | 2
Texas | Wichita | 653 | 3
Texas | Wilbarger | 342 | 2
Texas | Willacy | 1,066 | 4
Texas | Williamson | 2,345 | 6
Texas | Wilson | 1,315 | 4
Texas | Winkler | 102 | 1
Texas | Wise | 1,885 | 5
Texas | Wood | 1,497 | 4
Texas | Yoakum | 579 | 3
Texas | Young | 569 | 3
Texas | Zapata | 665 | 3
Texas | Zavala | 652 | 3
Utah | Beaver | 1,994 | 5
Utah | Box Elder | 527 | 3
Utah | Cache | 1,878 | 5
Utah | Carbon | 439 | 2
Utah | Daggett | 700 | 3
Utah | Davis | 3,802 | 7
Utah | Duchesne | 369 | 2
Utah | Emery | 861 | 3
Utah | Garfield | 1,341 | 4
Utah | Grand | 1,057 | 4
Utah | Iron | 808 | 3
Utah | Juab | 569 | 3
Utah | Kane | 581 | 3
Utah | Millard | 814 | 3
Utah | Morgan | 1,060 | 4
Utah | Piute | 1,331 | 4
Utah | Rich | 315 | 2
Utah | Salt Lake | 4,743 | 7
Utah | San Juan | 271 | 2
Utah | Sanpete | 1,220 | 4
Utah | Sevier | 1,330 | 4
Utah | Summit | 1,250 | 4
Utah | Tooele | 478 | 2
Utah | Uintah | 232 | 1
Utah | Utah | 2,785 | 6
Utah | Wasatch | 2,936 | 6
Utah | Washington | 1,659 | 5
Utah | Wayne | 1,678 | 5
Utah | Weber | 5,772 | 8
Vermont | Addison | 1,795 | 5
Vermont | Bennington | 1,718 | 5
Vermont | Caledonia | 2,013 | 6
Vermont | Chittenden | 2,466 | 6
Vermont | Essex | 1,417 | 4
Vermont | Franklin | 1,521 | 5
Vermont | Grand Isle | 3,182 | 7
Vermont | Lamoille | 2,045 | 6
Vermont | Orange | 1,838 | 5
Vermont | Orleans | 1,536 | 5
Vermont | Rutland | 2,632 | 6
Vermont | Washington | 2,384 | 6
Vermont | Windham | 2,442 | 6
Vermont | Windsor | 3,544 | 7
Virginia | Accomack | 1,962 | 5
Virginia | Albemarle | 4,446 | 7
Virginia | Alleghany | 2,197 | 6
Virginia | Amelia | 2,245 | 6
Virginia | Amherst | 2,402 | 6
Virginia | Appomattox | 1,533 | 5
Virginia | Arlington* | 2,675 | 6
Virginia | Augusta | 2,959 | 6
Virginia | Bath | 2,115 | 6
Virginia | Bedford | 2,920 | 6
Virginia | Bland | 1,452 | 4
Virginia | Botetourt | 2,732 | 6
Virginia | Brunswick | 1,371 | 4
Virginia | Buchanan* | 2,675 | 6
Virginia | Buckingham | 1,905 | 5
Virginia | Campbell | 1,874 | 5
Virginia | Caroline | 2,286 | 6
Virginia | Carroll | 2,587 | 6
Virginia | Charles City | 2,689 | 6
Virginia | Charlotte | 1,323 | 4
Virginia | Chesapeake City | 3,500 | 7
Virginia | Chesterfield | 5,257 | 8
Virginia | Clarke | 4,781 | 7
Virginia | Craig | 1,902 | 5
Virginia | Culpeper | 4,162 | 7
Virginia | Cumberland | 2,218 | 6
Virginia | Dickenson | 1,556 | 5
Virginia | Dinwiddie | 1,635 | 5
Virginia | Essex | 1,911 | 5
Virginia | Fairfax | 8,361 | 8
Virginia | Fauquier | 6,000 | 8
Virginia | Floyd | 2,113 | 6
Virginia | Fluvanna | 2,324 | 6
Virginia | Franklin | 2,183 | 6
Virginia | Frederick | 3,676 | 7
Virginia | Giles | 2,088 | 6
Virginia | Gloucester | 3,296 | 7
Virginia | Goochland | 3,001 | 7
Virginia | Grayson | 2,618 | 6
Virginia | Greene | 3,875 | 7
Virginia | Greensville | 1,399 | 4
Virginia | Halifax | 1,588 | 5
Virginia | Hanover | 3,812 | 7
Virginia | Henrico | 4,021 | 7
Virginia | Henry | 1,582 | 5
Virginia | Highland | 2,298 | 6
Virginia | Isle of Wight | 1,887 | 5
Virginia | James City | 5,167 | 8
Virginia | King and Queen | 1,983 | 5
Virginia | King George | 2,867 | 6
Virginia | King William | 2,018 | 6
Virginia | Lancaster | 2,493 | 6
Virginia | Lee | 1,726 | 5
Virginia | Loudoun | 10,807 | 9
Virginia | Louisa | 2,372 | 6
Virginia | Lunenburg | 1,332 | 4
Virginia | Madison | 3,098 | 7
Virginia | Mathews | 2,691 | 6
Virginia | Mecklenburg | 1,582 | 5
Virginia | Middlesex | 2,726 | 6
Virginia | Montgomery | 3,131 | 7
Virginia | Nelson | 2,103 | 6
Virginia | New Kent | 2,827 | 6
Virginia | Northampton | 2,394 | 6
Virginia | Northumberland | 1,922 | 5
Virginia | Nottoway | 2,110 | 6
Virginia | Orange | 3,138 | 7
Virginia | Page | 3,915 | 7
Virginia | Patrick | 1,645 | 5
Virginia | Pittsylvania | 1,582 | 5
Virginia | Powhatan | 3,027 | 7
Virginia | Prince Edward | 1,718 | 5
Virginia | Prince George | 1,964 | 5
Virginia | Prince William | 6,604 | 8
Virginia | Pulaski | 2,244 | 6
Virginia | Rappahannock | 3,690 | 7
Virginia | Richmond | 1,738 | 5
Virginia | Roanoke | 3,336 | 7
Virginia | Rockbridge | 2,874 | 6
Virginia | Rockingham | 4,043 | 7
Virginia | Russell | 1,603 | 5
Virginia | Scott | 1,563 | 5
Virginia | Shenandoah | 3,280 | 7
Virginia | Smyth | 1,565 | 5
Virginia | Southampton | 1,969 | 5
Virginia | Spotsylvania | 4,288 | 7
Virginia | Stafford | 4,880 | 7
Virginia | Suffolk | 2,339 | 6
Virginia | Surry | 1,905 | 5
Virginia | Sussex | 1,554 | 5
Virginia | Tazewell | 1,561 | 5
Virginia | Virginia Beach City | 3,645 | 7
Virginia | Warren | 3,827 | 7
Virginia | Washington | 2,428 | 6
Virginia | Westmoreland | 2,016 | 6
Virginia | Wise | 2,366 | 6
Virginia | Wythe | 2,158 | 6
Virginia | York | 48,875 | 11
Washington | Adams | 745 | 3
Washington | Asotin | 510 | 3
Washington | Benton | 1,701 | 5
Washington | Chelan | 6,563 | 8
Washington | Clallam | 11,050 | 9
Washington | Clark | 10,011 | 9
Washington | Columbia | 708 | 3
Washington | Cowlitz | 5,118 | 8
Washington | Douglas | 805 | 3
Washington | Ferry | 392 | 2
Washington | Franklin | 1,448 | 4
Washington | Garfield | 529 | 3
Washington | Grant | 1,923 | 5
Washington | Grays Harbor | 2,317 | 6
Washington | Island | 9,468 | 8
Washington | Jefferson | 5,441 | 8
Washington | King | 21,338 | 10
Washington | Kitsap | 12,869 | 9
Washington | Kittitas | 2,702 | 6
Washington | Klickitat | 907 | 3
Washington | Lewis | 3,023 | 7
Washington | Lincoln | 606 | 3
Washington | Mason | 4,958 | 7
Washington | Okanogan | 843 | 3
Washington | Pacific | 2,076 | 6
Washington | Pend Oreille | 1,834 | 5
Washington | Pierce | 9,655 | 8
Washington | San Juan | 6,308 | 8
Washington | Skagit | 5,113 | 8
Washington | Skamania | 4,566 | 7
Washington | Snohomish | 9,654 | 8
Washington | Spokane | 2,114 | 6
Washington | Stevens | 1,170 | 4
Washington | Thurston | 8,458 | 8
Washington | Wahkiakum | 2,690 | 6
Washington | Walla Walla | 1,330 | 4
Washington | Whatcom | 5,959 | 8
Washington | Whitman | 859 | 3
Washington | Yakima | 1,271 | 4
West Virginia | Barbour | 1,023 | 4
West Virginia | Berkeley | 3,222 | 7
West Virginia | Boone | 1,083 | 4
West Virginia | Braxton | 846 | 3
West Virginia | Brooke | 1,206 | 4
West Virginia | Cabell | 1,320 | 4
West Virginia | Calhoun | 728 | 3
West Virginia | Clay | 1,104 | 4
West Virginia | Doddridge | 830 | 3
West Virginia | Fayette | 1,317 | 4
West Virginia | Gilmer | 793 | 3
West Virginia | Grant | 1,638 | 5
West Virginia | Greenbrier | 1,490 | 4
West Virginia | Hampshire | 1,624 | 5
West Virginia | Hancock | 2,373 | 6
West Virginia | Hardy | 1,724 | 5
West Virginia | Harrison | 1,248 | 4
West Virginia | Jackson | 1,264 | 4
West Virginia | Jefferson | 2,963 | 6
West Virginia | Kanawha | 1,411 | 4
West Virginia | Lewis | 1,069 | 4
West Virginia | Lincoln | 1,097 | 4
West Virginia | Logan | 1,916 | 5
West Virginia | Marion | 1,462 | 4
West Virginia | Marshall | 950 | 3
West Virginia | Mason | 1,276 | 4
West Virginia | McDowell | 901 | 3
West Virginia | Mercer | 1,414 | 4
West Virginia | Mineral | 1,303 | 4
West Virginia | Mingo | 828 | 3
West Virginia | Monongalia | 1,376 | 4
West Virginia | Monroe | 1,358 | 4
West Virginia | Morgan | 2,324 | 6
West Virginia | Nicholas | 1,446 | 4
West Virginia | Ohio | 1,222 | 4
West Virginia | Pendleton | 1,168 | 4
West Virginia | Pleasants | 1,057 | 4
West Virginia | Pocahontas | 1,119 | 4
West Virginia | Preston | 1,415 | 4
West Virginia | Putnam | 1,764 | 5
West Virginia | Raleigh | 1,371 | 4
West Virginia | Randolph | 1,033 | 4
West Virginia | Ritchie | 906 | 3
West Virginia | Roane | 846 | 3
West Virginia | Summers | 1,187 | 4
West Virginia | Taylor | 1,367 | 4
West Virginia | Tucker | 989 | 3
West Virginia | Tyler | 930 | 3
West Virginia | Upshur | 1,048 | 4
West Virginia | Wayne | 1,048 | 4
West Virginia | Webster | 1,099 | 4
West Virginia | Wetzel | 808 | 3
West Virginia | Wirt | 1,164 | 4
West Virginia | Wood | 1,260 | 4
West Virginia | Wyoming | 1,194 | 4
Wisconsin | Adams | 2,130 | 6
Wisconsin | Ashland | 1,129 | 4
Wisconsin | Barron | 1,629 | 5
Wisconsin | Bayfield | 1,061 | 4
Wisconsin | Brown | 2,942 | 6
Wisconsin | Buffalo | 1,501 | 5
Wisconsin | Burnett | 1,848 | 5
Wisconsin | Calumet | 2,749 | 6
Wisconsin | Chippewa | 1,527 | 5
Wisconsin | Clark | 1,492 | 4
Wisconsin | Columbia | 2,525 | 6
Wisconsin | Crawford | 1,737 | 5
Wisconsin | Dane | 3,264 | 7
Wisconsin | Dodge | 2,460 | 6
Wisconsin | Door | 2,132 | 6
Wisconsin | Douglas | 1,251 | 4
Wisconsin | Dunn | 1,838 | 5
Wisconsin | Eau Claire | 1,783 | 5
Wisconsin | Florence | 1,265 | 4
Wisconsin | Fond du Lac | 2,351 | 6
Wisconsin | Forest | 1,420 | 4
Wisconsin | Grant | 1,925 | 5
Wisconsin | Green | 2,271 | 6
Wisconsin | Green Lake | 1,981 | 5
Wisconsin | Iowa | 2,243 | 6
Wisconsin | Iron | 1,088 | 4
Wisconsin | Jackson | 1,603 | 5
Wisconsin | Jefferson | 3,087 | 7
Wisconsin | Juneau | 1,870 | 5
Wisconsin | Kenosha | 4,513 | 7
Wisconsin | Kewaunee | 2,523 | 6
Wisconsin | La Crosse | 1,937 | 5
Wisconsin | Lafayette | 2,113 | 6
Wisconsin | Langlade | 1,717 | 5
Wisconsin | Lincoln | 1,566 | 5
Wisconsin | Manitowoc | 2,808 | 6
Wisconsin | Marathon | 1,846 | 5
Wisconsin | Marinette | 1,705 | 5
Wisconsin | Marquette | 2,139 | 6
Wisconsin | Menominee | 715 | 3
Wisconsin | Milwaukee | 6,418 | 8
Wisconsin | Monroe | 1,910 | 5
Wisconsin | Oconto | 2,011 | 6
Wisconsin | Oneida | 2,068 | 6
Wisconsin | Outagamie | 3,166 | 7
Wisconsin | Ozaukee | 4,043 | 7
Wisconsin | Pepin | 1,847 | 5
Wisconsin | Pierce | 2,320 | 6
Wisconsin | Polk | 2,150 | 6
Wisconsin | Portage | 3,010 | 7
Wisconsin | Price | 1,418 | 4
Wisconsin | Racine | 4,275 | 7
Wisconsin | Richland | 2,182 | 6
Wisconsin | Rock | 3,452 | 7
Wisconsin | Rusk | 1,917 | 5
Wisconsin | Sauk | 2,712 | 6
Wisconsin | Sawyer | 1,986 | 5
Wisconsin | Shawano | 2,512 | 6
Wisconsin | Sheboygan | 2,953 | 6
Wisconsin | St. Croix | 3,229 | 7
Wisconsin | Taylor | 1,340 | 4
Wisconsin | Trempealeau | 1,794 | 5
Wisconsin | Vernon | 1,768 | 5
Wisconsin | Vilas | 3,156 | 7
Wisconsin | Walworth | 3,909 | 7
Wisconsin | Washburn | 1,741 | 5
Wisconsin | Washington | 4,051 | 7
Wisconsin | Waukesha | 4,735 | 7
Wisconsin | Waupaca | 2,151 | 6
Wisconsin | Waushara | 2,589 | 6
Wisconsin | Winnebago | 2,519 | 6
Wisconsin | Wood | 1,825 | 5
Wyoming | Albany | 228 | 1
Wyoming | Big Horn | 718 | 3
Wyoming | Campbell | 177 | 1
Wyoming | Carbon | 214 | 1
Wyoming | Converse | 154 | 1
Wyoming | Crook | 360 | 2
Wyoming | Fremont | 311 | 2
Wyoming | Goshen | 413 | 2
Wyoming | Hot Springs | 162 | 1
Wyoming | Johnson | 270 | 2
Wyoming | Laramie | 305 | 2
Wyoming | Lincoln | 906 | 3
Wyoming | Natrona | 187 | 1
Wyoming | Niobrara | 262 | 2
Wyoming | Park | 676 | 3
Wyoming | Platte | 335 | 2
Wyoming | Sheridan | 456 | 2
Wyoming | Sublette | 733 | 3
Wyoming | Sweetwater | 98 | 1
Wyoming | Teton | 3,057 | 7
Wyoming | Uinta | 373 | 2
Wyoming | Washakie | 389 | 2
Wyoming | Weston | 217 | 1
* State-average Land and Building value used where no county-specific value is available.
** Land areas to be determined.

[FR Doc. E7-23551 Filed 12-10-07; 8:45 am]

BILLING CODE 4310-84-P